DEPARTMENT OF HOUSING AND URBAN DEVELOPMENT

[Docket No. FR-4730-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7262, Department of Housing and Urban Development, 451 Seventh Street SW., Washington, DC 20410; telephone (202) 708-1234; TDD number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2001 for suitability for use to assist the homeless. The properties were reviewed using information provided to HUD by Federal landholding agencies regarding unutilized and underutilized buildings and real property controlled by such agencies or by GSA regarding its inventory of excess or surplus Federal property.

In accordance with 24 CFR part 581.3(b) landholding agencies are required to notify HUD by December 31, 2001, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: U.S. Army: Julie Jones-Conte, Headquarters, Department of the Army, Office of the Assistant Chief of Staff for Installation Management, Attn: DAIM-MD, Room 1E677, 600 Army Pentagon, Washington, DC 20310-0600; (703) 692-9223; Corps of Engineers: Shirley Middleswarth, Army Corps of Engineers, Management and Disposal Division, 441 G Street, Washington, DC 20314-1000; (202) 761-7425; U.S. Navy: Charles C. Cocks, Dept. of Navy, Real Estate Policy Division, Naval Facilities Engineering Command, Washington Navy Yard, 1322 Patterson Ave., SE., Suite 1000, Washington, DC 20374-5065; (202) 685-9200; U.S. Air Force: Barbara Jenkins, Air Force Real Estate Agency (Area/MI), Bolling AFB, 112 Luke Avenue, Suite 104, Washington, DC 20332-8020; (202) 767-4184; GSA: Brian K. Polly, Office of Property Disposal, GSA, 18th and F Streets NW., Washington, DC 20405; (202) 501-0386; Dept. of Veterans Affairs: Anatolij Kushnir, Asset & Enterprise Development Service, Dept. of Veterans Affairs, room 419, Lafayette Bldg., 811 Vermont Ave. NW., Washington, DC 20420; (202) 565-5491; Dept. of Energy: Tom Knox, Office of Engineering & Construction Management, CR-80, Washington, DC 20585; (202) 586-8715; Dept. of Transportation: Rugene Spruill, Space Management, Transportation Administrative Service Center, DOT, 400 Seventh St. SW., room 2310, Washington, DC 20590; (202) 366-4246; Dept. of Interior: Linda Tribby, Acquisition & Property Management, Dept. of Interior, 1849 C St. NW., MS 5512, Washington, DC 20240; (202) 219-0728; (These are not toll-free numbers).

Dated: February 8, 2002.
John D. Garrity,
Director, Office of Special Needs Assistance Programs.

TITLE V PROPERTIES REPORTED IN YEAR 2001 WHICH ARE SUITABLE AND AVAILABLE

Air Force

Nebraska

Land

Hastings Radar Bomb Scoring

Hastings Co: Adams NE 68901-

Property #: 18199810027

Status: Unutilized

Comment: 11 acres

New York

Building

Bldg. 1452 & 297 acres

AVA Test Annex

Town of Ava Co: Oneida NY 13303-

Property #: 18199920030

Status: Unutilized

Comment: 11,000 sq. ft. on 297 acres (67 acres of wetland), most recent use—electronic research testing, presence of asbestos/lead paint

Bldg. 1453

AVA Test Annex

Town of Ava Co: Oneida NY 13303-

Property #: 18199920031

Status: Unutilized

Comment: 266 sq. ft., most recent use—generator bldg., presence of asbestos

Bldg. 1454

AVA Test Annex

Town of Ava Co: Oneida NY 13303-

Property #: 18199920032

Status: Unutilized

Comment: 53 sq. ft., most recent use—switch station, presence of asbestos

Lockport Comm. Facility

Shawnee Road

Lockport Co: Niagara NY

Property #: 18200040004

Status: Excess

Comment: 2 concrete block bldgs., (415 & 2929 sq. ft.) on 7.68 acres

South Dakota

Building

West Communications Annex

Ellsworth Air Force Base

Ellsworth AFB Co: Meade SD 57706-

Property #: 18199340051

Status: Unutilized

Comment: 2 bldgs. on 2.37 acres, remote area, lacks infrastructure, road hazardous during winter storms, most recent use—industrial storage

Army

Alabama

Building

Bldg. 60113

Shell Army Heliport

Ft. Rucker Co: Dale AL 36362-5000

Property #: 21199520156

Status: Unutilized

Comment: 4000 sq. ft., 1-story, most recent use—admin., off-site use only

Alaska

Building

Bldgs. 09100, 09104-09106

Fort Richardson

Ft. Richardson Co: AK 99505-6500

Property #: 21200020158

Status: Unutilized

Comment: various sq. ft., concrete, most recent use—hazard bldg., off-site use only

5 Bldgs.

Fort Richardson

09108, 09110-09112, 09114

Ft. Richardson Co: AK 99505-6500

Property #: 21200020159

Status: Unutilized

Comment: various sq. ft., concrete, most recent use—hazard bldg., off-site use only

Bldgs. 09128, 09129

Fort Richardson

Ft. Richardson Co: AK 99505-6500

Property #: 21200020160

Status: Unutilized

Comment: various sq. ft., concrete, most recent use—hazard bldg., off-site use only

Bldgs. 09151, 09155, 09156

Fort Richardson

Ft. Richardson Co: AK 99505-6500

Property #: 21200020161

Status: Unutilized

Comment: various sq. ft., concrete, most recent use—hazard bldg., off-site use only

Bldg. 09158

Fort Richardson

Ft. Richardson Co: AK 99505-6500

Property #: 21200020162

Status: Unutilized

Comment: 672 sq. ft., most recent use—storage shed, off-site use only

Bldgs. 09160-09162

Fort Richardson

Ft. Richardson Co: AK 99505-6500

Property #: 21200020163

Status: Unutilized

Comment: 11520 sq. ft., concrete, most recent use—NCO-ENL FH, off-site use only

Bldgs. 09164, 09165

Fort Richardson

Ft. Richardson Co: AK 99505-6500

Property #: 21200020164

Status: Unutilized

Comment: 2304 & 2880 sq. ft., most recent use—storage, off-site use only

Bldg. 10100

Fort Richardson

Ft. Richardson Co: AK 99505-6500

Property #: 21200020165

Status: Unutilized

Comment: 4688 sq. ft., concrete, most recent use—hazard bldg., off-site use only

Bldg. 00390

Fort Richardson

Ft. Richardson Co: AK 99505-

Property #: 21200030067

Status: Excess

Comment: 13,632 sq. ft., off-site use only

Bldgs. 01200, 01202

Fort Richardson

Ft. Richardson Co: AK 99505-

Property #: 21200030068

Status: Excess

Comment: 4508 & 6366 sq. ft., most recent use-hazard bldg., off-site use only

Bldg. 01204

Fort Richardson

Ft. Richardson Co: AK 99505-

Property #: 21200030069

Status: Excess

Comment: 5578 sq. ft., most recent use—VOQ transient, off-site use only

Bldgs. 01205-01207

Fort Richardson

Ft. Richardson Co: AK 99505-

Property #: 21200030070

Status: Excess

Comment: various sq. ft., most recent use—hazard bldg., off-site use only

Bldgs. 01208, 01210, 01212

Fort Richardson

Ft. Richardson Co: AK 99505-

Property #: 21200030071

Status: Excess

Comment: various sq. ft., most recent use—hazard bldg., off-site use only

Bldgs. 01213, 01214

Fort Richardson

Ft. Richardson Co: AK 99505-

Property #: 21200030072

Status: Excess

Comment: 11964 & 13740 sq. ft., most recent use—transient UPH, off-site use only

Bldgs. 01218, 01230

Fort Richardson

Ft. Richardson Co: AK 99505-

Property #: 21200030073

Status: Excess

Comment: 480 & 188 sq. ft., recent use—hazard bldgs., off—site use only

Bldgs. 01231, 01232

Fort Richardson

Ft. Richardson Co: AK 99505-

Property #: 21200030074

Status: Excess

Comment: 458 & 4260 sq. ft., most recent use—hazard bldgs., off-site use only

Bldg. 01234

Fort Richardson

Ft. Richardson Co: AK 99505-

Property #: 21200030075

Status: Excess

Comment: 615 sq. ft., most recent use—admin., off-site use only

Bldg. 01237

Fort Richardson

Ft. Richardson Co: AK 99505-

Property #: 21200030076

Status: Excess

Comment: 408 sq. ft., most recent use—fuel/pol bldg., off-site use only

Bldg. 01272

Fort Richardson

Ft. Richardson Co: AK 99505-

Property #: 21200030077

Status: Excess

Comment: 308 sq. ft., most recent use—storage, off-site use only

Bldg. 08109

Fort Richardson

Ft. Richardson Co: AK 99505-

Property #: 21200030080

Status: Excess

Comment: 1920 sq. ft., most recent use—storage, off-site use only

Bldg. 21001

Fort Richardson

Ft. Richardson Co: AK 99505-

Property #: 21200030081

Status: Excess

Comment: 3200 sq. ft., most recent use—family housing, off-site use only

Bldg. 22001

Fort Richardson

Ft. Richardson Co: AK 99505-

Property #: 21200030082

Status: Excess

Comment: 1448 sq. ft., most recent use—family housing, off-site use only

Bldg. 22002

Fort Richardson

Ft. Richardson Co: AK 99505-

Property #: 21200030083

Status: Excess

Comment: 1508 sq. ft., most recent use—family housing, off-site use only

Armory

NG Noorvik

Noorvik Co: AK 99763-

Property #: 21200110075

Status: Unutilized

Comment: 1200 sq. ft., most recent use—armory, off-site use only

Bldg. 00229

Fort Richardson

Ft. Richardson Co: AK 99505-6500

Property #: 21200120085

Status: Excess

Comment: 13,056 sq. ft., off-site use only

Arizona

Building

Bldg. 30012, Fort Huachuca

Sierra Vista Co: Cochise AZ 85635-

Property #: 21199310298

Status: Excess

Comment: 237 sq. ft., 1-story block, most recent use—storage

Bldg. S-306

Yuma Proving Ground

Yuma Co: Yuma/La Paz AZ 85365-9104

Property #: 21199420346

Status: Unutilized

Comment: 4103 sq. ft., 2-story, needs major rehab, off-site use only

Bldg. 503, Yuma Proving Ground

Yuma Co: Yuma AZ 85365-9104

Property #: 21199520073

Status: Underutilized

Comment: 3789 sq. ft., 2-story, major structural changes required to meet floor loading & fire code requirements, presence of asbestos, off-site use only

2 Bldgs.

Fort Huachuca

Sierra Vista Co: Cochise AZ 85635-

Location: 15542, 15546

Property #: 21200010082

Status: Unutilized

Comment: 552 & 400 sq. ft., presence of asbestos/lead paint, most recent use—restrooms, off-site use only

2 Bldgs.

Fort Huachuca

Sierra Vista Co: Cochise AZ 85635-

Location: 15544, 15552

Property #: 21200010083

Status: Unutilized

Comment: 9713 & 2895 sq. ft., presence of asbestos/lead paint, most recent use—classrooms, off-site use only

Bldg. 15543

Fort Huachuca

Sierra Vista Co: Cochise AZ 85635-

Property #: 21200010084

Status: Unutilized

Comment: 416 sq. ft., presence of asbestos/lead paint, most recent use—rec. shelter, off-site use only

34 Bldgs.

Fort Huachuca

62001-62022, 64001-64012

Sierra Vista Co: Cochise AZ 85635-

Property #: 21200020166

Status: Unutilized

Comment: 658 & 587 sq. ft., presence of asbestos/lead point, most recent use—one bedroom family housing, off-site use only

22 Bldgs.

Fort Huachuca

Sierra Vista Co: Cochise AZ 85635-

Location: #63002-63018, 64014-64018

Property #: 21200110076

Status: Excess

Comment: 2 & 3 bedroom family housing, presence of asbestos/lead paint, off-site use only

Bldg. 76910

Fort Huachuca

Sierra Vista Co: Cochise AZ 85635-

Property #: 21200110077

Status: Excess

Comment: 2001 sq. ft., presence of asbestos/lead paint, most recent use—office, off-site use only

Bldg. 22523

Fort Huachuca

Sierra Vista Co: Cochise AZ 85613-

Property #: 21200120086

Status: Excess

Comment: 63 sq. ft., most recent use—storage, off-site use only

15 Bldgs.

Fort Huachuca

Sierra Vista Co: Cochise AZ 85635-

Location: 44116, 44305, 44306, 44409, 44410, 44411, 44415, 44416, 44501, 44502, 44503, 44504, 44505, 44506, 44507

Property #: 21200140074

Status: Excess

Comment: family housing, duplex, triplex, fourplex, sixplex, (2-3 bedrooms), presence of asbestos/lead paint, off-site use only

California

Building

Bldg. 104

Presidio of Monterey

Monterey Co: CA 93944-

Property #: 21199910088

Status: Unutilized

Comment: 8039 sq. ft., presence of asbestos/lead paint, most recent use—office, off-site use only

Bldg. 106

Presidio of Monterey

Monterey Co: Ca 93944-

Property #: 21199910089

Status: Unutilized

Comment: 1950 sq. ft., presence of asbestos/lead paint, most recent use—office/storage, off-site use only

Bldg. 125

Presidio of Monterey

Monterey Co: CA 93944-

Property #: 21199910090

Status: Unutilized

Comment: 371 sq. ft., presence of asbestos/lead paint, most recent use—office, off-site use only

Bldg. 340

Presidio of Monterey

Monterey Co: CA 93944-

Property #: 21199910093

Status: Unutilized

Comment: 6500 sq. ft., presence of asbestos/lead paint, most recent use—office, off-site use only

Bldg. 341

Presidio of Monterey

Monterey Co: CA 93944-

Property #: 21199910094

Status: Unutilized

Comment: 371 sq. ft., presence of asbestos/lead paint, most recent use—office, off-site use only

Bldg. 4214

Presidio of Monterey

Monterey Co: CA 93944-

Property #: 21199910095

Status: Unutilized

Comment: 3168 sq. ft., presence of asbestos/lead paint, most recent use—office, off-site use only

Bldg. 204-207, 517

Presidio of Monterey

Monterey Co: CA 93944-5006

Property #: 21200020167

Status: Unutilized

Comment: 4780 & 10950 sq. ft., presence of asbestos/lead paint, most recent use—classroom/admin/storage, off-site use only

Bldg. 251

Army Reserve

6357 Woodly Ave.

Van Nuys Co: Los Angeles CA 91406-6496

Property #: 21200040043

Status: Excess

Comment: 800 sq. ft., needs repair, presence of asbestos, most recent use—storage, off-site use only

Bldg. 18026, 18028

Camp Roberts

Monterey Co: CA 93451-5000

Property #: 21200130081

Status: Excess

Comment: 2024 sq. ft., & 487 ft., concrete, poor condition, off-site use only

Colorado

Building

Bldg. 107

Fort Carson

Ft. Carson Co: El Paso CO 80913-

Property #: 21200130082

Status: Unutilized

Comment: 10,126 sq. ft., poor condition, possible asbestos/lead paint, most recent use—storage, off-site use only

Bldg. T-108

Fort Carson

Ft. Carson Co: El Paso CO 80913-

Property #: 21200130083

Status: Unutilized

Comment: 9000 sq. ft., poor condition, possible asbestos/lead paint, most recent use—storage, off-site use only

Bldg. T209

Fort Carson

Ft. Carson Co: El Paso CO 80913-

Property #: 21200130084

Status: Unutilized

Comment: 400 sq. ft., poor condition, possible asbestos/lead paint, most recent use—maint. shop, off-site use only

Bldg. T-217

Fort Carson

Ft. Carson Co: El Paso CO 80913-

Property #: 21200130085

Status: Unutilized

Comment: 9000 sq. ft., poor condition, possible asbestos/lead paint, most recent use—maint., off-site use only

Bldg. T-218

Fort Carson

Ft. Carson Co: El Paso CO 80913-

Property #: 21200130086

Status: Unutilized

Comment: 9000 sq. ft., poor condition, possible asbestos/lead paint, most recent use—maint., off-site use only

Bldg. T-220

Fort Carson

Ft. Carson Co: El Paso CO 80913-

Property #: 21200130087

Status: Unutilized

Comment: 690 sq. ft., poor condition, possible asbestos/lead paint, most recent use—heat off-site use only

Bldg. T-6001

Fort Carson

Ft. Carson Co: El Paso CO 80913-

Property #: 21200130088

Status: Unutilized

Comment: 4372 sq. ft., poor condition, possible asbestos/lead paint, most recent use—vet clinic, off-site use only

Georgia

Building

Bldg. 2285

Fort Benning

Fort Benning Co: Muscogee GA 31905-

Property #: 21199011704

Status: Unutilized

Comment: 4574 sq. ft., most recent use—clinic; needs substantial rehabilitation; 1 floor.

Bldg. 1252, Fort Benning

Ft. Benning Co: Muscogee GA 31905-

Property #: 21199220694

Status: Unutilized

Comment: 583 sq. ft., 1 story, most recent use—storehouse, needs major rehab, off-site removal only.

Bldg. 4881, Fort Benning

Ft. Benning Co: Muscogee GA 319905-

Property #: 21199220707

Status: Unutilized

Comment: 2449 sq. ft., 1 story, most recent use—storehouse, need repairs, off-site removal only.

Bldg. 4963, Fort Benning

Ft. Benning Co: Muscogee GA 31905-

Property #: 21199220710

Status: Unutilized

Comment: 6077 sq. ft., 1 story, most recent use—storehouse, need repairs, off-site only removal.

Bldg. 2396, Fort Benning

Ft. Benning Co: Muscogee GA 31905-

Property #: 21199220712

Status: Unutilized

Comment: 9786 sq. ft., 1 story, most recent use—dining facility, need major rehab, off-site removal only.

Bldg. 4882, Fort Benning

Ft. Benning Co: Muscogee GA 31905-

Property #: 21199220727

Status: Unutilized

Comment: 6077 sq. ft., 1 story, most recent use—storage, need repairs, off-site removal only.

Bldg. 4967, Fort Benning

Ft. Benning Co: Muscogee GA 31905-

Property #: 21199220728

Status: Unutilized

Comment: 6077 sq. ft., 1 story, most recent use—storage, need repairs, off-site removal only.

Bldg. 4977, Fort Benning

Ft. Benning Co: Muscogee GA 31905-

Property #: 21199220736

Status: Unutilized

Comment: 192 sq. ft., 1 story, most recent use—offices, need repairs, off-site removal only.

Bldg. 4944, Fort Benning

Ft. Benning Co: Muscogee GA 31905-

Property #: 21199220747

Status: Unutilized

Comment: 6400 sq. ft., 1 story, most recent use—vehicle maintenance shop, need repairs, off-site removal only.

Bldg. 4960, Fort Benning

Ft. Benning Co: Muscogee GA 31905-

Property #: 21199220752

Status: Unutilized

Comment: 3335 sq. ft., 1 story, most recent use—vehicle maintenance shop, off-site removal only.

Bldg. 4969, Fort Benning

Ft. Benning Co: Muscogee GA 31905-

Property #: 21199220753

Status: Unutilized

Comment: 8416 sq. ft., 1 story, most recent use—vehicle maintenance shop, off-site removal only.

Bldg. 4884, Fort Benning

Ft. Benning Co: Muscogee GA 31905-

Property #: 21199220762

Status: Unutilized

Comment: 2000 sq. ft., 1 story, most recent use—headquarters bldg., need repairs, off-site removal only.

Bldg. 4964, Fort Benning

Ft. Benning Co: Muscogee GA 31905-

Property #: 21199220763

Status: Unutilized

Comment: 2000 sq. ft., 1 story, most recent use—headquarters bldg., need repairs, off-site removal only.

Bldg. 4966, Fort Benning

Ft. Benning Co: Muscogee GA 31905-

Property #: 21199220764

Status: Unutilized

Comment: 2000 sq. ft., 1 story, most recent use—headquarters bldg., need repairs, off-site removal only.

Bldg. 4965, Fort Benning

Ft. Benning Co: Muscogee GA 31905-

Property #: 21199220769

Status: Unutilized

Comment: 7713 sq. ft., 1 story, most recent use—supply bldg., need repairs, off-site removal only.

Bldg. 4945, Fort Benning

Ft. Benning Co: Muscogee GA 31905-

Property #: 21199220779

Status: Unutilized

Comment: 220 sq. ft., 1 story, most recent use—gas station, needs major rehab, off-site removal only.

Bldg. 4979, Fort Benning

Ft. Benning Co: Muscogee GA 31905-

Property #: 21199220780

Status: Unutilized

Comment: 400 sq. ft., 1 story, most recent use—oil house, need repairs, off-site removal only.

Bldg. 4023, Fort Benning

Ft. Benning Co: Muscogee GA 31905-

Property #: 21199310461

Status: Unutilized

Comment: 2269 sq. ft., 1 story, needs rehab, most recent use—maintenance shop, off-site removal only.

Bldg. 4024, Fort Benning

Ft. Benning Co: Muscogee GA 31905-

Property #: 21199310462

Status: Unutilized

Comment: 3281 sq. ft., 1 story, needs rehab, most recent use—maintenance shop, off-site removal only.

Bldg. 11813

Fort Gordon

Fort Gordon Co: Richmond GA 30905-

Property #: 21199410269

Status: Unutilized

Comment: 70 sq. ft., 1 story; metal; needs rehab.; most recent use—storage; off-site use only.

Bldg. 21314

Fort Gordon

Fort Gordon Co: Richmond GA 30905-

Property #: 21199410270

Status: Unutilized

Comment: 85 sq. ft., 1 story; needs rehab.; most recent use—storage; off-site use only

Bldg. 12809

Fort Gordon

Fort Gordon Co: Richmond GA 30905-

Property #: 21199410272

Status: Unutilized

Comment: 2788 sq. ft., 1 story; wood; needs rehab.; most recent use—maintenance shop; off-site use only

Bldg. 10306

Fort Gordon

Fort Gordon Co: Richmond GA 30905-

Property #: 21199410273

Status: Unutilized

Comment: 195 sq. ft., 1 story; wood; most recent use—oil shed; off-site use only

Bldg. 4051

Fort Benning

Ft. Benning Co: Muscogee GA 31905-

Property #: 21199520175

Status: Unutilized

Comment: 967 sq. ft., 1-story, needs rehab, most recent use—storage, off-site use only

Bldg. 322

Ft. Benning

Ft. Benning Co: Muscogee GA 31905-

Property #: 21199720156

Status: Unutilized

Comment: 9600 sq. ft., needs rehab, most recent use—admin., off-site use only

Bldg. 1737

Ft. Benning

Ft. Benning Co: Muscogee GA 31905-

Property #: 21199720161

Status: Unutilized

Comment: 1500 sq. ft., needs rehab, most recent use—storage, off-site use only

Bldg. 2593

Ft. Benning

Ft. Benning Co: Muscogee GA 31905-

Property #: 21199720167

Status: Unutilized

Comment: 13644 sq. ft., needs rehab, most recent use—parachute shop, off-site use only

Bldg. 2595

Ft. Benning

Ft. Benning Co: Muscogee GA 31905-

Property #: 21199720168

Status: Unutilized

Comment: 3356 sq. ft., needs rehab, most recent use—chapel, off-site use only

Bldgs. 2865, 2869, 2872

Ft. Benning

Ft. Benning Co: Muscogee GA 31905-

Property #: 21199720169

Status: Unutilized

Comment: approx. 1100 sq. ft. each, needs rehab, most recent use—shower fac., off-site use only

Bldg. 4476

Ft. Benning

Ft. Benning Co: Muscogee GA 31905-

Property #: 21199720184

Status: Unutilized

Comment: 3148 sq. ft., needs rehab, most recent use—vehicle maint: shop, off-site use only

8 Bldgs.

Ft. Benning

4700-4701, 4704-4707, 4710-4711

Ft. Benning Co: Muscogee GA 31905-

Property #: 21199720189

Status: Unutilized

Comment: 6433 sq. ft. each, needs rehab, most recent use—unaccompanied personnel housing, off-site use only

Bldg. 4714

Ft. Benning

Ft. Benning Co: Muscogee GA 31905-

Property #: 21199720191

Status: Unutilized

Comment: 1983 sq. ft., needs rehab, most recent use—battalion headquarters bldg., off-site use only

Bldg. 4702

Ft. Benning

Ft. Benning Co: Muscogee GA 31905-

Property #: 21199720192

Status: Unutilized

Comment: 3690 sq. ft., needs rehab, most recent use—dining facility off-site use only

Bldg. 4712-4713

Ft. Benning

Ft. Benning Co: Muscogee GA 31905-

Property #: 21199720193

Status: Unutilized

Comment: 1983 sq. ft. and 10270 sq. ft., needs rehab, most recent use—company headquarters bldg., off-site use only

Bldg. 305

Ft. Benning

Ft. Benning Co: Muscogee GA 31905-

Property #: 21199810268

Status: Unutilized

Comment: 4083 sq. ft., most recent use—recreation center, off-site use only

Bldg. 318

Ft. Benning

Ft. Benning Co: Muscogee GA 31905-

Property #: 21199810269

Status: Unutilized

Comment: 374 sq. ft., poor condition, most recent use—maint shop, off-site use only

Bldg. 1792

Fort Benning

Ft. Benning Co: Muscogee GA 31905-

Property #: 21199810274

Status: Unutilized

Comment: 10,200 sq. ft., most recent use—storage, off-site use only

Bldg. 1836

Fort Benning

Ft. Benning Co: Muscogee GA 31905-

Property #: 21199810276

Status: Unutilized

Comment: 2998 sq. ft., recent use—admin., off-site use only

Bldg. 4373

Fort Benning

Ft. Benning Co: Muscogee GA 31905-

Property #: 21199810286

Status: Unutilized

Comment: 409 sq. ft., poor condition, most recent use—station bldg., off-site use only

Bldg. 4628

Fort Benning

Ft. Benning Co: Muscogee GA 31905-

Property #: 21199810287

Status: Unutilized

Comment: 5483 sq. ft., most recent use—admin., off-site use only

Bldg. 92

Fort Benning

Co: Muscogee GA 31905-

Property #: 21199810278

Status: Unutilized

Comment: 637 sq. ft., needs rehab, most recent use—admin., off-site use only

Bldg. 2445

Fort Benning

Co: Muscogee GA 31905-

Property #: 21199810279

Status: Unutilized

Comment: 2385 sq. ft., needs rehab, most recent use—fire station off-site use only

Bldg. 4232

Fort Benning

Co: Muscogee GA 31905-

Property #: 21199830291

Status: Unutilized

Comment: 3720 sq. ft., needs rehab, most recent use—maint. bay, off-site use only

Bldg. 39720

Fort Gordon

Ft. Gordon Co: Richmond GA 30905-

Property #: 21199930119

Status: Unutilized

Comment: 1520 sq. ft., concrete block, possible asbestos/lead paint, most recent use—office, off-site use only

Bldg. 492

Fort Benning

Ft. Benning Co: Muscogee GA 31905-

Property #: 21199930120

Status: Unutilized

Comment: 720 sq. ft., most recent use—admin/maint, off-site use only

Bldg. 880

Fort Benning

Ft. Benning Co: Muscogee GA 31905-

Property #: 21199930121

Status: Unutilized

Comment: 57,110 sq. ft., most recent use—instruction, off-site use only

Bldg. 1370

Fort Benning

Ft. Benning Co: Muscogee GA 31905-

Property #: 21199930122

Status: Unutilized

Comment: 5204 sq. ft., most recent use—hdgts. bldg., off-site use only

Bldg. 2288

Fort Benning

Ft. Benning Co: Muscogee GA 31905-

Property #: 21199930123

Status: Unutilized

Comment: 2482 sq. ft., most recent use—admin., off-site use only

Bldg. 2290

Fort Benning

Ft. Benning Co: Muscogee GA 31905-

Property #: 21199930124

Status: Unutilized

Comment: 455 sq. ft., most recent use—storage, off-site use only

Bldg. 2293

Fort Benning

Ft. Benning Co: Muscogee GA 31905-

Property #: 21199930125

Status: Unutilized

Comment: 2600 sq. ft., most recent use—hdqts. bldg., off-site use only

Bldg. 2297

Fort Benning

Ft. Benning Co: Muscogee GA 31905-

Property #: 21199930126

Status: Unutilized

Comment: 5156 sq. ft., most recent use—admin.

Bldg. 2505

Fort Benning

Ft. Benning Co: Muscogee GA 31905-

Property #: 21199930127

Status: Unutilized

Comment: 10,257 sq. ft., most recent use—repair shop, off-site use only

Bldg. 2508

Fort Benning

Ft. Benning Co: Muscogee GA 31905-

Property #: 21199930128

Status: Unutilized

Comment: 2434 sq. ft., most recent use—storage, off-site use only

Bldg. 2815

Fort Benning

Ft. Benning Co: Muscogee GA 31905-

Property #: 21199930129

Status: Unutilized

Comment: 2578 sq. ft., most recent use—hdqts. bldg., off-site use only

Bldg. 3815

Fort Benning

Ft. Benning Co: Muscogee GA 31905-

Property #: 21199930130

Status: Unutilized

Comment: 7575 sq. ft., most recent use— storage, off-site use only

Bldg. 3816

Fort Benning

Ft. Benning Co: Muscogee GA 31905-

Property #: 21199930131

Status: Unutilized

Comment: 7514 sq. ft., most recent use— storage, off-site use only

Bldg. 5886

Fort Benning

Ft. Benning Co: Muscogee GA 31905-

Property #: 21199930134

Status: Unutilized

Comment: 67 sq. ft., most recent use— storage, off-site use only

Bldgs. 5974-5978

Fort Benning

Ft. Benning Co: Muscogee GA 31905-

Property #: 21199930135

Status: Unutilized

Comment: 400 sq. ft., most recent use— storage, off-site use only

Bldg. 5993

Fort Benning

Ft. Benning Co: Muscogee GA 31905-

Property #: 21199930136

Status: Unutilized

Comment: 960 sq. ft., most recent use— storage, off-site use only

Bldg. 5994

Fort Benning

Ft. Benning Co: Muscogee GA 31905-

Property #: 21199930137

Status: Unutilized

Comment: 2016 sq. ft., most recent use— storage, off-site use only

Bldg. T-1003

Fort Stewart

Hinesville Co: Liberty GA 31514-

Property #: 21200030085

Status: Excess

Comment: 9267 sq. ft., poor condition, most recent use—admin., off-site use only

Bldgs. T-1005, T-1006, T-1007

Fort Stewart

Hinesville Co: Liberty GA 31514-

Property #: 21200030086

Status: Excess

Comment: 9267 sq. ft., poor condition, most recent use—storage, off-site use only

Bldgs. T-1015, T-1016, T-1017

Fort Stewart

Hinesville Co: Liberty GA 31514-

Property #: 21200030087

Status: Excess

Comment: 7496 sq. ft., poor condition, most recent use—storage, off-site use only

Bldgs. T-1018, T-1019

Fort Stewart

Hinesville Co: Liberty GA 31514-

Property #: 21200030088

Status: Excess

Comment: 9267 sq. ft., poor condition, most recent use—storage, off-site use only

Bldgs. T-1020, T-1021

Fort Stewart

Hinesville Co: Liberty GA 31514-

Property #: 21200030089

Status: Excess

Comment: 9267 sq. ft., poor condition, most recent use—storage, off-site use only

Bldg. T-1022

Fort Stewart

Hinesville Co: Liberty GA 31514-

Property #: 21200030090

Status: Excess

Comment: 9267 sq. ft., poor condition, most recent use—supply center, off-site use only

Bldg. T-1027

Fort Stewart

Hinesville Co: Liberty GA 31514-

Property #: 21200030091

Status: Excess

Comment: 9024 sq. ft., poor condition, most recent use—supply center, off-site use only

Bldg. T-1028

Fort Stewart

Hinesville Co: Liberty GA 31514-

Property #: 21200030092

Status: Excess

Comment: 7496 sq. ft., poor condition, most recent use—supply center, off-site use only

Bldgs. T-1035, T-1036, T-1037

Fort Stewart

Hinesville Co: Liberty GA 31514-

Property #: 21200030093

Status: Excess

Comment: 1626 sq. ft., poor condition, most recent use—storage, off-site use only

Bldgs. T-1038, T-1039

Fort Stewart

Hinesville Co: Liberty GA 31514-

Property #: 21200030094

Status: Excess

Comment: 1626 sq. ft., poor condition, most recent use—storage, off-site use only

Bldgs. T-1040, T-1042

Fort Stewart

Hinesville Co: Liberty GA 31514-

Property #: 21200030095

Status: Excess

Comment: 1626 sq. ft., poor condition, most recent use—storage, off-site use only

Bldgs. T-1086, T-1087, T-1088

Fort Stewart

Hinesville Co: Liberty GA 31514-

Property #: 21200030096

Status: Excess

Comment: 7680 sq. ft., poor condition, most recent use—storage, off-site use only

Bldg. 223

Fort Benning

Ft. Benning Co: Muscogee GA 31905-

Property #: 21200040044

Status: Unutilized

Comment: 21,556 sq. ft., most recent use—gen. purpose

Bldg. 228

Fort Benning

Ft. Benning Co: Muscogee GA 31905-

Property #: 21200040045

Status: Unutilized

Comment: 20,220 sq. ft., most recent use—gen. purpose

Bldg. 2051

Fort Benning

Ft. Benning Co: Muscogee GA 31905-

Property #: 21200040046

Status: Unutilized

Comment: 6077 sq. ft., most recent use—storage

Bldg. 2053

Fort Benning

Ft. Benning Co: Muscogee GA 31905-

Property #: 21200040047

Status: Unutilized

Comment: 14,520 sq. ft., most recent use—storage

Bldg. 2677

Fort Benning

Ft. Benning Co: Muscogee GA 31905-

Property #: 21200040048

Status: Unutilized

Comment: 19,326 sq. ft., most recent use—maint. shop

Bldg. 02301

Fort Gordon

Ft. Gordon Co: Richmond GA 30905-

Property #: 21200140075

Status: Unutilized

Comment: 8484 sq. ft., needs major rehab, potential asbestos/lead paint, most recent use—storage, off-site use only

Land

Land (Railbed)

Fort Benning

Ft. Benning Co: Muscogee GA 31905-

Property #: 21199440440

Status: Unutilized

Comment: 17.3 acres extending 1.24 miles, no known utilities potential

Hawaii

Building

P-88

Aliamanu Military Reservation

Honolulu Co: Honolulu HI 96818-

Location: Approximately 600 feet from Main Gate on Aliamanu Drive.

Property #: 21199030324

Status: Unutilized

Comment: 45,216 sq. ft., underground tunnel complex, pres. of asbestos clean-up required of contamination, use of respirator required by those entering property, use limitations

Bldg. T-337

Fort Shafter

Honolulu Co: Honolulu HI 96819-

Property #: 21199640203

Status: Unutilized

Comment: 132 sq. ft., most recent use—storage, off-site use only

Illinois

Building

Bldg. 54

Rock Island Arsenal

Rock Island Co: Rock Island IL 61299-

Property #: 21199620666

Status: Unutilized

Comment: 2000 sq. ft., most recent use—oil storage, needs repair, off-site use only

Bldg. AR112

Sheridan Reserve

Arlington Heights Co: IL 60052-2475

Property #: 21200110081

Status: Unutilized

Comment: 1000 sq. ft., off-site use only

Kansas

Building

Bldg. P-390

Fort Leavenworth

Leavenworth Co: KS 66027-

Property #: 21199740295

Status: Unutilized

Comment: 4713 sq. ft., presence of lead based paint, most recent use—swine house, off-site use only

Bldg. P-68

Fort Leavenworth

Leavenworth KS 66027-

Property #: 21199820153

Status: Unutilized

Comment: 2236 sq. ft., most recent use—vehicle storage, off-site use only

Bldg. P-321

Fort Leavenworth

Leavenworth KS 66027-

Property #: 21199820157

Status: Unutilized

Comment: 600 sq. ft., most recent use—picnic shelter, off-site use only

Bldg. S-809

Fort Leavenworth

Leavenworth KS 66027-

Property #: 21199820160

Status: Unutilized

Comment: 39 sq. ft., most recent use—access control, off-site use only

Bldg. S-830

Fort Leavenworth

Leavenworth KS 66027-

Property #: 21199820161

Status: Unutilized

Comment: 5789 sq. ft., most recent use—underground storage, off-site use only

Bldg. S-831

Fort Leavenworth

Leavenworth KS 66027-

Property #: 21199820162

Status: Unutilized

Comment: 5789 sq. ft., most recent use—underground storage, off-site use only

Bldg. P-243

Fort Leavenworth

Leavenworth KS 66027-

Property #: 21199830321

Status: Unutilized

Comment: 242 sq. ft., most recent use—industrial, off-site use only

Bldg. P-242

Fort Leavenworth

Leavenworth Co: KS 66027-

Property #: 21199920202

Status: Unutilized

Comment: 4680 sq. ft., most recent use—storage, off-site use only

Bldg. P-223

Fort Leavenworth

Leavenworth Co: KS 66027-

Property #: 21199930146

Status: Unutilized

Comment: 7,174 sq. ft., most recent use—storage, off-site use only

Bldg. T-236

Fort Leavenworth

Leavenworth Co: KS 66027-

Property #: 21199930147

Status: Unutilized

Comment: 4563 sq. ft., most recent use—storage off-site use only

Bldg. P-241

Fort Leavenworth

Leavenworth Co: KS 66027-

Property #: 21199930148

Status: Unutilized

Comment: 5920 sq. ft., most recent use—storage, off-site use only

Bldg. T-257

Fort Leavenworth

Leavenworth Co: KS 66027-

Property #: 21199930149

Status: Unutilized

Comment: 5920 sq. ft., most recent use—storage, off-site use only

Kentucky

Building

Bldg. 02813

Fort Knox

Ft. Knox Co: Hardin KY 40121-

Property #: 21200030102

Status: Unutilized

Comment: 60 sq. ft., needs rehab, possible asbestos/lead paint, most recent use—shed, off-site use only

Louisiana

Building

Bldg. 8423, Fort Polk

Ft. Polk Co: Vernon Parish LA 71459-

Property #: 21199640528

Status: Underutilized

Comment: 4172 sq. ft., most recent use—barracks

Bldg. 8449, For Polk

Ft. Polk Co: Vernon Parish LA 71459-

Property #: 21199640539

Status: Underutilized

Comment: 2093 sq. ft., most recent use—office

Maryland

Building

Bldg. 2831

Ft. George G. Meade

Ft. Meade Co: Anne Arundel MD 20755-5115

Property #: 21200030103

Status: Unutilized

Comment: 9652 sq. ft., presence of asbestos/lead paint, most recent use—dental clinic, off-site use only

Bldg. 618A

Ft. George G. Meade

Ft. Meade Co: Anne Arundel MD 20755-5115

Property #: 21200120087

Status: Unutilized

Comment: 400 sq. ft., presence of asbestos/lead paint, most recent use—heat plant bldg., off-site use only

Bldg. 901

Ft. George G. Meade

Ft. Meade Co: Anne Arundel MD 20755-5115

Property #: 21200120088

Status: Unutilized

Comment: 2740 sq. ft., presence of asbestos/lead paint, most recent use—storage, off-site use only

Bldgs. 902, 932, 937

Ft. George G. Meade

Ft. Meade Co: Anne Arundel MD 20755-5115

Property #: 21200120089

Status: Unutilized

Comment: 2208 sq. ft., presence of asbestos/lead paint, most recent use—admin/dining, off-site use only

4 Bldgs.

Ft. George G. Meade

#903, 906, 933, 936

Ft. Meade Co: Anne Arundel MD 20755-5115

Property #: 21200120090

Status: Unutilized

Comment: 1144 sq. ft., presence of asbestos/lead paint, most recent use—admin/storage/dayrooom, off-site use only

10 Bldgs.

Ft. George G. Meade

#904, 905, 913, 916, 923-926, 934, 935

Ft. Meade Co: Anne Arundel MD 20755-5115

Property #: 21200120091

Status: Unutilized

Comment: 4720 sq. ft., presence of asbestos/lead paint, most recent use—admin., off-site use only

Bldg. 907

Ft. George G. Meade

Ft. Meade Co: Anne Arundel MD 20755-5115

Property #: 21200120092

Status: Unutilized

Comment: 2306 sq. ft., presence of asbestos/lead paint, most recent use—storage, off-site use only

Bldg. 908

Ft. George G. Meade

Ft. Meade Co: Anne Arundel MD 20755-5115

Property #: 21200120093

Status: Unutilized

Comment: 3663 sq. ft., presence of asbestos/lead paint, most recent use—admin., off-site use only

Bldgs. 912, 917, 922, 927

Ft. George G. Meade

Ft. Meade Co: Anne Arundel MD 20755-5115

Property #: 21200120094

Status: Unutilized

Comment: 1297 sq. ft., presence of asbestos/lead paint, most recent use—admin/storage, off-site use only

Bldg. 918

Ft. George G. Meade

Ft. Meade Co: Anne Arundel MD 20755-5115

Property #: 21200120095

Status: Unutilized

Comment: 2331 sq. ft., presence of asbestos/lead paint, most recent use—admin/classroom, off-site use only

4 Bldgs.

Ft. George G. Meade

#928, 929, 2832, 2834

Ft. Meade Co: Anne Arundel MD 20755-5115

Property #: 21200120096

Status: Unutilized

Comment: 2284 sq. ft., presence of asbestos/lead paint, most recent use—admin., off-site use only

Bldg. 930

Ft. George G. Meade

Ft. Meade Co: Anne Arundel MD 20755-5115

Property #: 21200120097

Status: Unutilized

Comment: 3108 sq. ft., presence of asbestos/lead paint, most recent use—storage, off-site use only

Bldg. 938

Ft. George G. Meade

Ft. Meade Co: Anne Arundel MD 20755-5115

Property #: 21200120098

Status: Unutilized

Comment: 1676 sq. ft., presence of asbestos/lead paint, most recent use—admin., off-site use only

Bldg. 2810

Ft. George G. Meade

Ft. Meade Co: Anne Arundel MD 20755-5115

Property #: 21200120099

Status: Unutilized

Comment: 2441 sq. ft., poor condition, presence of asbestos/lead paint, most recent use—admin., off-site use only

Bldg. 2811

Ft. George G. Meade

Ft. Meade Co: Anne Arundel MD 20755-5115

Property #: 21200120100

Status: Unutilized

Comment: 4720 sq. ft., poor condition, presence of asbestos/lead paint, most recent use—admin., off-site use only

Bldg. 2837

Fort George G. Meade

Ft. Meade Co: Anne Arundel MD 20755-5115

Property #: 21200120101

Status: Unutilized

Comment: 7670 sq. ft., presence of asbestos/lead paint, most recent use—admin., off-site use only

Bldg. 0310A

Aberdeen Proving Ground

Aberdeen Co: Harford MD 21005-5001

Property #: 21200120103

Status: Unutilized

Comment: 120 sq. ft., poor condition, presence of asbestos/lead paint, most recent use—storage, off-site use only

Bldg. 00313

Aberdeen Proving Ground

Aberdeen Co: Harford MD 21005-5001

Property #: 21200120104

Status: Unutilized

Comment: 983 sq. ft., most recent use—storage, off-site use only

Bldg. 00340

Aberdeen Proving Ground

Aberdeen Co: Harford MD 21005-5001

Property #: 21200120105

Status: Unutilized

Comment: 384 sq. ft., most recent use—storage, off-site use only

Bldg. 0459B

Aberdeen Proving Ground

Aberdeen Co: Harford MD 21005-5001

Property #: 21200120106

Status: Unutilized

Comment: 225 sq. ft., poor condition, most recent use—equipment bldg., off-site use only

Bldg. 00785

Aberdeen Proving Ground

Aberdeen Co: Harford MD 21005-5001

Property #: 21200120107

Status: Unutilized

Comment: 160 sq. ft., poor condition, most recent use—shelter, off-site use only

Bldg. E3728

Aberdeen Proving Ground

Aberdeen Co: Harford MD 21005-5001

Property #: 21200120109

Status: Unutilized

Comment: 2596 sq. ft., presence of asbestos/lead paint, most recent use—testing facility, off-site use only

Bldg. 05213

Aberdeen Proving Ground

Aberdeen Co: Harford MD 21005-5001

Property #: 21200120112

Status: Unutilized

Comment: 200 sq. ft., poor condition, most recent use—storage, off-site use only

Bldg. E5239

Aberdeen Proving Ground

Aberdeen Co: Harford MD 21005-5001

Property #: 21200120113

Status: Unutilized

Comment: 230 sq. ft., most recent use—storage, off-site use only

Bldg. E5317

Aberdeen Proving Ground

Aberdeen Co: Harford MD 21005-5001

Property #: 21200120114

Status: Unutilized

Comment: 3158 sq. ft., presence of asbestos/lead paint, most recent use—lab, off-site use only

Bldg. E5637

Aberdeen Proving Ground

Aberdeen Co: Harford MD 21005-5001

Property #: 21200120115

Status: Unutilized

Comment: 312 sq. ft., presence of asbestos/lead paint, most recent use—lab, off-site use only

Bldg. 503

Fort George G. Meade

Ft. Meade Co: Anne Arundel MD 20755-5115

Property #: 21200130092

Status: Unutilized

Comment: 14,244 sq. ft., needs rehab, presence of asbestos/lead paint, most recent use—training, off-site use only

Bldg. 2222A

Fort George G. Meade

Ft. Meade Co: Anne Arundel MD 20755-5115

Property #: 21200130095

Status: Unutilized

Comment: 66 sq. ft., most recent use—storage, off-site use only

Bldg. 2222B

Fort George G. Meade

Ft. Meade Co: Anne Arundel MD 20755-5115

Property #: 21200130096

Status: Unutilized

Comment: most recent use—storage, off-site use only

Bldg. 2478

Fort George G. Meade

Ft. Meade Co: Anne Arundel MD 20755-5115

Property #: 21200130097

Status: Unutilized

Comment: 4720 sq. ft., needs rehab, presence of asbestos/lead paint, most recent use—medical clinic, off-site use only

Bldg. 8481

Fort George G. Meade

Ft. Meade Co: Anne Arundel MD 20755-5115

Property #: 21200130098

Status: Unutilized

Comment: 7718 sq. ft., needs rehab, presence of asbestos/lead paint, most recent use—heat plant, off-site use only

Bldgs. 187, 239, 999

Ft. George G. Meade

Ft. Meade Co: Anne Arundel MD 20755-

Property #: 21200140077

Status: Unutilized

Comment: 2284 sq. ft., presence of asbestos/lead paint, most recent use—admin., off-site use only

Bldg. 219

Ft. George G. Meade

Ft. Meade Co: Anne Arundel MD 20755-

Property #: 21200140078

Status: Unutilized

Comment: 8142 sq. ft., presence of asbestos/lead paint, most recent use—admin., off-site use only

Bldg. 229

Ft. George G. Meade

Ft. Meade Co: Anne Arundel MD 20755-

Property #: 21200140079

Status: Unutilized

Comment: 2250 sq. ft., presence of asbestos/lead paint, most recent use—admin., off-site use only

Bldg. 287

Ft. George G. Meade

Ft. Meade Co: Anne Arundel MD 20755-

Property #: 21200140080

Status: Unutilized

Comment: 8924 sq. ft., presence of asbestos/lead paint, most recent use—storehouse, off-site use only

Bldg. 294

Ft. George G. Meade

Ft. Meade Co: Anne Arundel MD 20755-

Property #: 21200140081

Status: Unutilized

Comment: 3148 sq. ft., presence of asbestos/lead paint, most recent use—entomology facility, off-site use only

Bldg. 942

Ft. George G. Meade

Ft. Meade Co: Anne Arundel MD 20755-

Property #: 21200140082

Status: Unutilized

Comment: 3557 sq. ft., presence of asbestos/lead paint, most recent use—chapel, off-site use only

Bldg. 949

Ft. George G. Meade

Ft. Meade Co: Anne Arundel MD 20755-

Property #: 21200140083

Status: Unutilized

Comment: 2441 sq. ft., presence of asbestos/lead paint, most recent use—storehouse, off-site use only

Bldg. 979

Ft. George G. Meade

Ft. Meade Co: Anne Arundel MD 20755-

Property #: 21200140084

Status: Unutilized

Comment: 2331 sq. ft., presence of asbestos/lead paint, most recent use—admin., off-site use only

Bldg. 1007

Ft. George G. Meade

Ft. Meade Co: Anne Arundel MD 20755-

Property #: 21200140085

Status: Unutilized

Comment: 3108 sq. ft., presence of asbestos/lead paint, most recent use—storage, off-site use only

Bldg. 2212

Ft. George G. Meade

Ft. Meade Co: Anne Arundel MD 20755-

Property #: 21200140086

Status: Unutilized

Comment: 9092 sq. ft., presence of asbestos/lead paint, most recent use—admin., off-site use only

Bldg. 3000

Ft. George G. Meade

Ft. Meade Co: Anne Arundel MD 20755-

Property #: 21200140087

Status: Unutilized

Comment: 10,663 sq. ft., presence of asbestos/lead paint, most recent use—storehouse, off-site use only

Bldg. 4283

Ft. George G. Meade

Ft. Meade Co: Anne Arundel MD 20755-

Property #: 21200140088

Status: Unutilized

Comment: 2609 sq. ft., presence of asbestos/lead paint, most recent use—admin., off-site use only

Missouri

Building

Bldg. T599

Ft. Leonard Wood

Ft. Leonard Wood Co: Pulaski MO 65473-5000

Property #: 21199230260

Status: Underutilized

Comment: 18270 sq. ft., 1-story, presence of asbestos, most recent use—storehouse, off-site use only

Bldg. T2171

Ft. Leonard Wood

Ft. Leonard Wood Co: Pulaski MO 65473-5000

Property #: 21199340212

Status: Unutilized

Comment: 1296 sq. ft., 1-story wood frame, most recent use—administrative, no handicap fixtures, lead base paint, off-site use only

Bldg. T6822

Ft. Leonard Wood

Ft. Leonard Wood Co: Pulaski MO 65473-5000

Property #: 21199340219

Status: Underutilized

Comment: 4000 sq. ft., 1-story wood frame, most recent use—storage, no handicap fixtures, off-site use only

Bldg. T1497

Ft. Leonard Wood

Ft. Leonard Wood Co: Pulaski MO 65473-5000

Property #: 21199420441

Status: Underutilized

Comment: 4720 sq. ft., 2-story, presence of lead base paint, most recent use—admin/gen. purpose, off-site use only

Bldg. T2139

Fort Leonard Wood

Ft. Leonard Wood Co: Pulaski MO 65473-5000

Property #: 21199420446

Status: Underutilized

Comment: 3663 sq. ft., 1-story, presence of lead base paint, most recent use—admin/gen. purpose, off-site use only

Bldg. T-2191

Fort Leonard Wood

Ft. Leonard Wood Co: Pulaski MO 65473-5000

Property #: 21199440334

Status: Excess

Comment: 4720 sq. ft., 2 story wood frame, off-site removal only, to be vacated 8/95, lead based paint, most recent use—barracks

Bldg. T-2197

Fort Leonard Wood

Ft. Leonard Wood Co: Pulaski MO 65473-5000

Property #: 21199440335

Status: Excess

Comment: 4720 sq. ft., 2 story wood frame, off-site removal only, to be vacated 8/95, lead based paint, most recent use—barracks

Bldg. T590

Fort Leonard Wood

Ft. Leonard Wood Co: Pulaski MO 65473-5000

Property #: 21199510110

Status: Excess

Comment: 3263 sq. ft., 1-story, wood frame, most recent use—admin., to be vacated 8/95, off-site use only

Bldg. T2385

Fort Leonard Wood

Ft. Leonard Wood Co: Pulaski MO 65473-5000

Property #: 21199510115

Status: Excess

Comment: 3158 sq. ft., 1-story, wood frame, most recent use—admin., to be vacated 8/95, off-site use only

Bldgs. T-2340 thru T2343

Fort Leonard Wood

Ft. Leonard Wood Co: Pulaski MO 65473-5000

Property #: 21199710138

Status: Underutilized

Comment: 9267 sq. ft., each, most recent use—storage/general purpose

Bldg. 1226

Fort Leonard Wood

Ft. Leonard Wood Co: Pulaski MO 65473-5000

Property #: 21199730275

Status: Unutilized

Comment: 1600 sq. ft., presence of asbestos/lead paint, most recent use—admin., off-site use only

Bldg. 1271

Fort Leonard Wood

Ft. Leonard Wood Co: Pulaski MO 65473-5000

Property #: 21199730276

Status: Unutilized

Comment: 2360 sq. ft., presence of asbestos/lead paint, most recent use—storage, off-site use only

Bldg. 1280

Fort Leonard Wood

Ft. Leonard Wood Co: Pulaski MO 65473-5000

Property #: 21199730277

Status: Unutilized

Comment: 1144 sq. ft., presence of asbestos/lead paint, most recent use—classroom, off-site use only

Bldg. 1281

Fort Leonard Wood

Ft. Leonard Wood Co: Pulaski MO 65473-5000

Property #: 21199730278

Status: Unutilized

Comment: 2360 sq. ft., presence of asbestos/lead paint, most recent use—classroom, off-site use only

Bldg. 1282

Fort Leonard Wood

Ft. Leonard Wood Co: Pulaski MO 65473-5000

Property #: 21199730279

Status: Unutilized

Comment: 4720 sq. ft., presence of asbestos/lead paint, most recent use—barracks, off-site use only

Bldg. 1283

Fort Leonard Wood

Ft. Leonard Wood Co: Pulaski MO 65473-5000

Property #: 21199730280

Status: Unutilized

Comment: 1296 sq. ft., presence of asbestos/lead paint, most recent use—storage, off-site use only

Bldg. 1284

Fort Leonard Wood

Ft. Leonard Wood Co: Pulaski MO 65473-5000

Property #: 21199730281

Status: Unutilized

Comment: 4720 sq. ft., presence of asbestos/lead paint, most recent use—admin., off-site use only

Bldg. 1285

Fort Leonard Wood

Ft. Leonard Wood Co: Pulaski MO 65473-5000

Property #: 21199730282

Status: Unutilized

Comment: 4720 sq. ft., presence of asbestos/lead paint, most recent use—barracks, off-site use only

Bldg. 1286

Fort Leonard Wood

Ft. Leonard Wood Co: Pulaski MO 65473-5000

Property #: 21199730283

Status: Unutilized

Comment: 1296 sq. ft., presence of asbestos/lead paint, most recent use—admin., off-site use only

Bldg. 1287

Fort Leonard Wood

Ft. Leonard Wood Co: Pulaski MO 65473-5000

Property #: 21199730284

Status: Unutilized

Comment: 4720 sq. ft., presence of asbestos/lead paint, most recent use—barracks, off-site use only

Bldg. 1288

Fort Leonard Wood

Ft. Leonard Wood Co: Pulaski MO 65473-5000

Property #: 21199730285

Status: Unutilized

Comment: 2360 sq. ft., presence of asbestos/lead paint, most recent use—dining facility, off-site use only

Bldg. 1289

Fort Leonard Wood

Ft. Leonard Wood Co: Pulaski MO 65473-5000

Property #: 21199730286

Status: Unutilized

Comment: 1144 sq. ft., presence of asbestos/lead paint, most recent use—classroom, off-site use only

Bldg. 430

Fort Leonard Wood

Ft. Leonard Wood Co: Pulaski MO 65473-5000

Property #: 21199810305

Status: Unutilized

Comment: 4100 sq. ft., presence of asbestos/lead paint, most recent use—Red Cross facility, off-site use only

Bldg. 758

Fort Leonard Wood

Ft. Leonard Wood Co: Pulaski MO 65473-5000

Property #: 21199810306

Status: Unutilized

Comment: 2400 sq. ft., presence of asbestos/lead paint, most recent use—classroom, off-site use only

Bldg. 759

Fort Leonard Wood

Ft. Leonard Wood Co: Pulaski MO 65473-5000

Property #: 21199810307

Status: Unutilized

Comment: 2400 sq. ft., presence of asbestos/lead paint, most recent use—classroom, off-site use only

Bldg. 760

Fort Leonard Wood

Ft. Leonard Wood Co: Pulaski MO 65473-5000

Property #: 21199810308

Status: Unutilized

Comment: 2400 sq. ft., presence of asbestos/lead paint, off-site use only

Bldgs. 761-766

Fort Leonard Wood

Ft. Leonard Wood Co: Pulaski MO 65473-5000

Property #: 21199810309

Status: Unutilized

Comment: 2400 sq. ft., each, presence of asbestos/lead paint, most recent use—classroom, off-site use only

Bldg. 1650

Fort Leonard Wood

Ft. Leonard Wood Co: Pulaski MO 65473-5000

Property #: 21199810311

Status: Unutilized

Comment: 1676 sq. ft., presence of asbestos/lead paint, most recent use—union hall, off-site use only

Bldg. 2170

Fort Leonard Wood

Ft. Leonard Wood Co: Pulaski MO 65473-5000

Property #: 21199810313

Status: Unutilized

Comment: 1296 sq. ft., presence of asbestos/lead paint, most recent use—admin., off-site use only

Bldg. 2204

Fort Leonard Wood

Ft. Leonard Wood Co: Pulaski MO 65473-5000

Property #: 21199810315

Status: Unutilized

Comment: 3525 sq. ft., presence of asbestos/lead paint, most recent use—admin., off-site use only

Bldg. 2225

Fort Leonard Wood

Ft. Leonard Wood Co: Pulaski MO 65473-5000

Property #: 21199810316

Status: Unutilized

Comment: 820 sq. ft., presence of lead paint, most recent use—storage, off-site use only

Bldg. 2271

Fort Leonard Wood

Ft. Leonard Wood Co: Pulaski MO 65473-5000

Property #: 21199810317

Status: Unutilized

Comment: 256 sq. ft., presence of lead paint, most recent use—storage, off-site use only

Bldg. 2275

Fort Leonard Wood

Ft. Leonard Wood Co: Pulaski MO 65473-5000

Property #: 21199810318

Status: Unutilized

Comment: 225 sq. ft., presence of lead paint, most recent use—storage, off-site use only

Bldg. 2318

Fort Leonard Wood

Ft. Leonard Wood Co: Pulaski MO 65473-5000

Property #: 21199810322

Status: Unutilized

Comment: 9267 sq. ft., presence of asbestos/lead paint, most recent use—storage, off-site use only

Bldg. 4199

Fort Leonard Wood

Ft. Leonard Wood Co: Pulaski MO 65473-5000

Property #: 21199810327

Status: Unutilized

Comment: 2400 sq. ft., presence of asbestos/lead paint, most recent use—storage, off-site use only

Bldg. 401

Fort Leonard Wood

Ft. Leonard Wood Co: Pulaski MO 65473-5000

Property #: 21199820164

Status: Unutilized

Comment: 9567 sq. ft., presence of asbestos/lead paint, most recent use—admin., off-site use only

Bldg. 856

Fort Leonard Wood

Ft. Leonard Wood Co: Pulaski MO 65473-5000

Property #: 21199820166

Status: Unutilized

Comment: 2400 sq. ft., presence of asbestos/lead paint, most recent use—storage, off-site use only

Bldg. 859

Fort Leonard Wood

Ft. Leonard Wood Co: Pulaski MO 65473-5000

Property #: 21199820167

Status: Unutilized

Comment: 2400 sq. ft., presence of asbestos/lead paint, most recent use—storage, off-site use only

Bldg. 1242

Fort Leonard Wood

Ft. Leonard Wood Co: Pulaski MO 65473-5000

Property #: 21199820168

Status: Unutilized

Comment: 2360 sq. ft., presence of asbestos/lead paint, most recent use—storage, off-site use only

Bldg. 1265

Fort Leonard Wood

Ft. Leonard Wood Co: Pulaski MO 65473-5000

Property #: 21199820169

Status: Unutilized

Comment: 2360 sq. ft., presence of asbestos/lead paint, most recent use—storage, off-site use only

Bldg. 1267

Fort Leonard Wood

Ft. Leonard Wood Co: Pulaski MO 65473-5000

Property #: 21199820170

Status: Unutilized

Comment: 1144 sq. ft., presence of asbestos/lead paint, most recent use—admin., off-site use only

Bldg. 1272

Fort Leonard Wood

Ft. Leonard Wood Co: Pulaski MO 65473-5000

Property #: 21199820171

Status: Unutilized

Comment: 1144 sq. ft., presence of asbestos/lead paint, most recent use—admin., off-site use only

Bldg. 1277

Fort Leonard Wood

Ft. Leonard Wood Co: Pulaski MO 65473-5000

Property #: 21199820172

Status: Unutilized

Comment: 1144 sq. ft., presence of asbestos/lead paint, most recent use—admin., off-site use only

Bldgs. 2142, 2145, 2151-2153

Fort Leonard Wood

Ft. Leonard Wood Co: Pulaski MO 65473-5000

Property #: 21199820174

Status: Unutilized

Comment: 4720 sq. ft., presence of asbestos/lead paint, most recent use—barracks, off-site use only

Bldg. 2150

Fort Leonard Wood

Ft. Leonard Wood Co: Pulaski MO 65473-5000

Property #: 21199820175

Status: Unutilized

Comment: 2892 sq. ft., presence of asbestos/lead paint, most recent use—dayroom, off-site use only

Bldg. 2155

Fort Leonard Wood

Ft. Leonard Wood Co: Pulaski MO 65473-5000

Property #: 21199820176

Status: Unutilized

Comment: 1296 sq. ft., presence of asbestos/lead paint, most recent use—admin., off-site use only

Bldgs. 2156, 2157, 2163, 2164

Fort Leonard Wood

Ft. Leonard Wood Co: Pulaski MO 65473-5000

Property #: 21199820177

Status: Unutilized

Comment: 4720 sq. ft., presence of asbestos/lead paint, most recent use—barracks, off-site use only

Bldg. 2165

Fort Leonard Wood

Ft. Leonard Wood Co: Pulaski MO 65473-5000

Property #: 21199820178

Status: Unutilized

Comment: 2892 sq. ft., presence of asbestos/lead paint, most recent use—dayroom, off-site use only

Bldg. 2167

Fort Leonard Wood

Ft. Leonard Wood Co: Pulaski MO 65473-5000

Property #: 21199820179

Status: Unutilized

Comment: 1296 sq. ft., presence of asbestos/lead paint, most recent use—admin., off-site use only

Bldgs. 2169, 2181, 2182, 2183

Fort Leonard Wood

Ft. Leonard Wood Co: Pulaski MO 65473-5000

Property #: 21199820180

Status: Unutilized

Comment: 4720 sq. ft., presence of asbestos/lead paint, most recent use—barracks, off-site use only

Bldg. 2186

Fort Leonard Wood

Ft. Leonard Wood Co: Pulaski MO 65473-5000

Property #: 21199820181

Status: Unutilized

Comment: 1296 sq. ft., presence of asbestos/lead paint, most recent use—admin., off-site use only

Bldg. 2187

Fort Leonard Wood

Ft. Leonard Wood Co: Pulaski MO 65473-5000

Property #: 21199820182

Status: Unutilized

Comment: 2892 sq. ft., presence of asbestos/lead paint, most recent use—dayroom, off-site use only

Bldgs. 2192, 2196, 2198

Fort Leonard Wood

Ft. Leonard Wood Co: Pulaski MO 65473-5000

Property #: 21199820183

Status: Unutilized

Comment: 4720 sq. ft., presence of asbestos/lead paint, most recent use—barracks, off-site use only.

Bldgs. 2304, 2306

Fort Leonard Wood

Ft. Leonard Wood Co: Pulaski MO 65473-5000

Property #: 21199820184

Status: Unutilized

Comment: 1625 sq. ft., presence of asbestos/lead paint, most recent use—storage, off-site use only.

Bldg. 12651

Fort Leonard Wood

Ft. Leonard Wood Co: Pulaski MO 65473-5000

Property #: 21199820186

Status: Unutilized

Comment: 240 sq. ft., presence of lead paint, off-site use only.

Bldg. 1448

Fort Leonard Wood

Co: Pulaski MO 65473-5000

Property #: 21199830327

Status: Unutilized

Comment: 8450 sq. ft., presence of asbestos/lead paint, most recent use—training, off-site use only.

Bldg. 2210

Fort Leonard Wood

Co: Pulaski MO 65473-5000

Property #: 21199830328

Status: Unutilized

Comment: 808 sq. ft., concrete, presence of asbestos/lead paint, most recent use—storage, off-site use only.

Bldg. 2270

Fort Leonard Wood

Co: Pulaski MO 65473-5000

Property #: 21199830329

Status: Unutilized

Comment: 256 sq. ft., concrete, presence of asbestos/lead paint, most recent use—storage, off-site use only.

Bldg. 6036

Fort Leonard Wood

Pulaski Co: MO 65473-8994

Property #: 21199910101

Status: Underutilized

Comment: 240 sq. ft., off-site use only.

Bldg. 9110

Fort Leonard Wood

Pulaski Co: MO 65473-8994

Property #: 21199910108

Status: Underutilized

Comment: 6498 sq. ft., presence of asbestos/lead paint, most recent use—family quarters, off-site use only.

Bldgs. 9113, 9115, 9117

Fort Leonard Wood

Pulaski Co: MO 65473-8994

Property #: 21199910109

Status: Underutilized

Comment: 4332 sq. ft., presence of asbestos/lead paint, most recent use—family quarters, off-site use only.

Bldg. 493

Fort Leonard Wood

Ft. Leonard Wood Co: Pulaski MO 65473-

Property #: 21199930158

Status: Unutilized

Comment: 26,936 sq. ft., concrete, presence of asbestos/lead paint, most recent use—store, off-site use only.

Bldg. 1178

Fort Leonard Wood

Ft. Leonard Wood Co: Pulaski MO 65473-8994

Property #: 21200040058

Status: Unutilized

Comment: 3203 sq. ft., most recent use—fire station, off-site use only.

Montana

Building

Bldg. 00405

Fort Harrison

Ft. Harrison Co: Lewis/Clark MT 59636-

Property #: 21200130099

Status: Unutilized

Comment: 3467 sq. ft., most recent use—storage, security limitations.

Bldg. T0066

Fort Harrison

Ft. Harrison Co: Lewis/Clark MT 59636-

Property #: 21200130100

Status: Unutilized

Comment: 528 sq. ft., needs rehab, presence of asbestos, security limitations.

New Hampshire

Building

Bldg. KG001

Grenier Field USARC

Manchester Co: Rockingham NH 03103-7474

Property #: 21200030104

Status: Excess

Comment: 18,994 sq. ft., presence of asbestos, most recent use—classroom, off-site use only.

Bldg. KG002

Grenier Field USARC

Manchester Co: Rockingham NH 03103-7474

Property #: 21200030105

Status: Excess

Comment: 20,014 sq. ft., presence of asbestos, most recent use—storage/store, off-site use only.

Bldg. KG003

Grenier Field USARC

Manchester Co: Rockingham NH 03103-7474

Property #: 21200030106

Status: Excess

Comment: 3,458 sq. ft., presence of asbestos, most recent use—veh. maint., off-site use only.

New Jersey

Building

Bldg. 178

Armament R&D Engineering Center

Picatinny Arsenal Co: Morris NJ 07806-5000

Property #: 21199740312

Status: Unutilized

Comment: 2067 sq. ft., most recent use—research, off-site use only

Bldg. 732

Armament R&D Engineering Center

Picatinny Arsenal Co: Morris NJ 07806-5000

Property #: 21199740315

Status: Unutilized

Comment: 9077 sq. ft., needs rehab, most recent use—storage off-site use only

Bldg. 3219

Armament R&D Engineering Center

Picatinny Arsenal Co: Morris NJ 07806-5000

Property #: 21199740326

Status: Unutilized

Comment: 288 sq. ft., most recent use—snack bar, off-site use only

Bldg. 816C

Armament R, D, & Eng. Center

Picatinny Arsenal Co: Morris NJ 07806-5000

Property #: 21200130103

Status: Unutilized

Comment: 144 sq. ft., most recent use—storage, off-site use only

New Mexico

Building

9 MFH Units

White Sands Missile Range

White Sands Co: Dona Ana NM 88002-

Location: 11201, 11210, 11214, 11217, 11220, 11223, 11244, 11247, 11264

Property #: 21200040062

Status: Unutilized

Comment: 1620 sq. ft., each, major repairs required, presence of asbestos, most recent use—housing, off-site use only

19 MFH Units

White Sands Missile Range

White Sands Co: Dona Ana NM 88002-

Location: 11202, 11209, 11212, 11216, 11219, 11222, 11224, 11227, 11236, 11241, 11242, 11245, 11249, 11253, 11257, 11260, 11263, 11270, 11273

Property #: 21200040063

Status: Unutilized

Comment: 1606 sq. ft., each, major repairs required, presence of asbestos, most recent use—housing, off-site use only

34 MFH Units

White Sands Missile Range

White Sands Co: Dona Ana NM 88002-

Property #: 21200040064

Status: Unutilized

Comment: 1512 sq. ft., each, major repairs required, presence of asbestos, most recent use—housing, off-site use only

12 MFH Units

White Sands Missile Range

White Sands Co: Dona Ana NM 88002-

Location: 11204, 11207, 11226, 11229, 11235, 11238, 11251, 11255, 11258, 11261, 11266

Property #: 21200040065

Status: Unutilized

Comment: 1590 sq. ft., each, major repairs required, presence of asbestos, most recent use—housing, off-site use only

Bldg. 20451

White Sands Missile Range

White Sands Co: Dona Ana NM 88002-

Property #: 21200130108

Status: Unutilized

Comment: 186 sq. ft., needs rehab, presence of asbestos, off-site use only

Bldg. 20452

White Sands Missile Range

White Sands Co: Dona Ana NM 88002-

Property #: 21200130109

Status: Unutilized

Comment: 168 sq. ft., needs rehab, presence of asbestos, off-site use only

Bldg. 20453

White Sands Missile Range

White Sands Co: Dona Ana NM 88002-

Property #: 21200130110

Status: Unutilized

Comment: 168 sq. ft., needs rehab, presence of asbestos, off-site use only

Bldg. 20454

White Sands Missile Range

White Sands Co: Dona Ana NM 88002-

Property #: 21200130111

Status: Unutilized

Comment: 151 sq. ft., needs rehab, presence of asbestos, off-site use only

Bldg. 20455

White Sands Missile Range

White Sands Co: Dona Ana NM 88002-

Property #: 21200130112

Status: Unutilized

Comment: 266 sq. ft., needs rehab, presence of asbestos, off-site use only

Bldg. 20457

White Sands Missile Range

White Sands Co: Dona Ana NM 88002-

Property #: 21200130113

Status: Unutilized

Comment: 166 sq. ft., needs rehab, presence of asbestos, off-site use only

New York

Building

Bldg. 801

US Military Academy

Highlands Co: Orange NY 10996-1592

Property #: 21200030108

Status: Unutilized

Comment: 27,726 sq. ft., needs repair, possible lead paint, most recent use—warehouse, off-site use only

Bldg. T-181

Fort Drum

Ft. Drum Co: Jefferson NY 13602-

Property #: 21200130129

Status: Unutilized

Comment: 3151 sq. ft., needs rehab, most recent use—housing mnt., off-site use only

Bldg. T-201

Fort Drum

Ft. Drum Co: Jefferson NY 13602-

Property #: 21200130131

Status: Unutilized

Comment: 2305 sq. ft., needs rehab, most recent use—admin., off-site use only

Bldg. T-203

Fort Drum

Ft. Drum Co: Jefferson NY 13602-

Property #: 21200130132

Status: Unutilized

Comment: 2284 sq. ft., needs rehab, most recent use—admin., off-site use only

Bldg. T-252

Fort Drum

Ft. Drum Co: Jefferson NY 13602-

Property #: 21200130133

Status: Unutilized

Comment: 4720 sq. ft., needs rehab, most recent use—housing, off-site use only

Bldgs. T-253, T-256, T-257

Fort Drum

Ft. Drum Co: Jefferson NY 13602-

Property #: 21200130134

Status: Unutilized

Comment: 4720 sq. ft., needs rehab, most recent use—housing, off-site use only

Bldgs. T-271, T-272, T-273

Fort Drum

Ft. Drum Co: Jefferson NY 13602-

Property #: 21200130135

Status: Unutilized

Comment: 4720 sq. ft., needs rehab, most recent use—housing, off-site use only

Bldg. T-274

Fort Drum

Ft. Drum Co: Jefferson NY 13602-

Property #: 21200130136

Status: Unutilized

Comment: 2750 sq. ft., needs rehab, most recent use—BN HQ, off-site use only

Bldgs. T-276, T-277, T-278

Fort Drum

Ft. Drum Co: Jefferson NY 13602-

Property #: 21200130137

Status: Unutilized

Comment: 4720 sq. ft., needs rehab, most recent use—housing, off-site use only

Bldgs. T-744, T-745

Fort Drum

Ft. Drum Co: Jefferson NY 13602-

Property #: 21200130138

Status: Unutilized

Comment: 5310 sq. ft., needs rehab, most recent use—barracks, off-site use only

Bldg. T-1030

Fort Drum

Ft. Drum Co: Jefferson NY 13602-

Property #: 21200130139

Status: Unutilized

Comment: 15606 sq. ft., needs rehab, most recent use—simulator bldg., off-site use only

Bldg. P-2159

Fort Drum

Ft. Drum Co: Jefferson NY 13602-

Property #: 21200130140

Status: Unutilized

Comment: 1948 sq. ft., needs rehab, most recent use—waste/water treatment, off-site use only

Bldg. T-2442

Fort Drum

Ft. Drum Co: Jefferson NY 13602-

Property #: 21200130141

Status: Unutilized

Comment: 4340 sq. ft., needs rehab, most recent use—vet facility, off-site use only

Bldg. T-2443

Fort Drum

Ft. Drum Co: Jefferson NY 13602-

Property #: 21200130142

Status: Unutilized

Comment: 793 sq. ft., needs rehab, most recent use—vet facility, off-site use only

Quarters 372

U.S. Military Academy

Highlands Co: Orange NY 10996-1592

Property #: 21200130143

Status: Unutilized

Comment: 1248 sq. ft., needs repair, presence of asbestos, most recent use—quarters

Quarters 1000

U.S. Military Academy

Highlands Co: Orange NY 10996-1592

Property #: 21200130144

Status: Unutilized

Comment: 2800 sq. ft., needs repair, presence of asbestos, most recent use—quarters

Quarters 691

U.S. Military Academy

Highlands Co: Orange NY 10996-1592

Property #: 21200130145

Status: Unutilized

Comment: 2561 sq. ft., needs repair, possible asbestos/lead paint, most recent use—storage, off-site use only

Quarters 709

U.S. Military Academy

Highlands Co: Orange NY 10996-1592

Property #: 21200130146

Status: Unutilized

Comment: 1666 sq. ft., needs repair, possible asbestos/lead paint, most recent use—storage, off-site use only

Bldg. 759

U.S. Military Academy

Highlands Co: Orange NY 10996-1592

Property #: 21200130147

Status: Unutilized

Comment: 11,942 sq. ft., needs repair, possible asbestos/lead paint, most recent use—community center, off-site use only

Bldg. 1280

U.S. Military Academy

Highlands Co: Orange NY 10996-1592

Property #: 21200130148

Status: Unutilized

Comment: 2760 sq. ft., needs repair, presence of asbestos, most recent use—quarters

Bldg. 1664

U.S. Military Academy

Highlands Co: Orange NY 10996-1592

Property #: 21200130149

Status: Unutilized

Comment: 800 sq. ft., needs repair, possible asbestos/lead paint, most recent use—storage, off-site use only

Land

Land—6.965 Acres

Dix Avenue

Queensbury Co: Warren NY 12801—

Property #: 21199540018

Status: Unutilized

Comment: 6.96 acres of vacant land, located in industrial area, potential utilities

300 acres

U.S. Military Academy

Highlands Co: Orange NY 10996-1592

Property #: 21200040070

Status: Unutilized

Comment: Approx. 300 acres, contains wetlands and rare flora

North Carolina

Building

Bldgs. A2864, A3164

Fort Bragg

Ft. Bragg Co: Cumberland NC 28310-5000

Property #: 21200110085

Status: Excess

Comment: 3056 sq. ft., needs rehab, presence of asbestos/lead paint, most recent use—admin., off-site use only

Bldgs. O-3551, O-3552

Fort Bragg

Ft. Bragg Co: Cumberland NC 28310-5000

Property #: 21200110086

Status: Excess

Comment: 1584 sq. ft., presence of asbestos/lead paint, most recent use—barracks, off-site use only

3 Bldgs.

Fort Bragg

#8-7003, 2-7404, O-9030

Ft. Bragg Co: Cumberland NC 28310-5000

Property #: 21200110087

Status: Excess

Comment: Small bldgs., needs rehab, presence of asbestos/lead paint, most recent use—storage/pumphouse, off-site use only

Bldg. C5536

Fort Bragg

Ft. Bragg Co: Cumberland NC 28310-5000

Property #: 21200130150

Status: Unutilized

Comment: 600 sq. ft., single wide trailer w/metal storage shed, needs major repair, presence of asbestos/lead paint, off-site use only

Ohio

Building

Quarters 120

Defense Supply Center

Columbus Co: Franklin OH 43216-5000

Property #: 21200140089

Status: Unutilized

Comment: 5670 sq. ft., needs repair, presence of lead paint, most recent use—residence, off-site use only

Oklahoma

Building

Bldg. T-838, Fort Sill

838 Macomb Road

Lawton Co: Comanche OK 73503-5100

Property #: 21199220609

Status: Unutilized

Comment: 151 sq. ft., wood frame, 1 story, off-site removal only, most recent use—vet facility (quarantine stable)

Bldg. T-954, Fort Sill

954 Quinette Road

Lawton Co: Comanche OK 73503-5100

Property #: 21199240659

Status: Unutilized

Comment: 3571 sq. ft., 1 story wood frame, needs rehab, off-site use only, most recent use—motor repair shop

Bldg. T-3325, Fort Sill

3325 Naylor Road

Lawton Co: Comanche OK 73503-5100

Property #: 21199240681

Status: Unutilized

Comment: 8832 sq. ft., 1 story wood frame, needs rehab, off-site use only, most recent use—warehouse

Bldg. T1652, Fort Sill

Lawton Co: Comanche OK 73503-5100

Property #: 21199330380

Status: Unutilized

Comment: 1505 sq. ft., 1-story wood, possible asbestos, most recent use—storage, off-site use only

Bldg. T5637 Fort Sill

Lawton Co: Comanche OK 73503-5100

Property #: 21199330419

Status: Unutilized

Comment: 1606 sq. ft., 1 story, possible asbestos, most recent use—storage, off-site use only

Bldg. T-4226

Fort Sill

Lawton Co: Comanche OK 73503-5100

Property #: 21199440384

Status: Unutilized

Comment: 114 sq. ft., 1-story wood frame, possible asbestos and lead paint, most recent use—storage, off-site use only

Bldg. P-1015

Fort Sill

Lawton Co: Comanche OK 73501-5100

Property #: 21199520197

Status: Unutilized

Comment: 15402 sq. ft., 1-story, most recent use—storage, off-site use only

Bldg. P-366

Fort Sill

Lawton Co: Comanche OK 73503-5100

Property #: 21199610740

Status: Unutilized

Comment: 482 sq. ft., possible asbestos, most recent use—storage, off-site use only

Building T-2952

Fort Sill

Lawton Co: Comanche OK 73503-5100

Property #: 21199710047

Status: Unutilized

Comment: 4,327 sq. ft., possible asbestos and lead paint, most recent use—motor repair shop, off-site use only

Bldg. P-5042

Fort Sill

Lawton Co: Comanche OK 73503-5100

Property #: 21199710066

Status: Unutilized

Comment: 119 sq. ft., possible asbestos and lead paint, most recent use—heatplant, off-site use only

4 Buildings

Fort Sill

Lawton Co: Comanche OK 73503-5100

Location: T-6465, T-6466, T-6467, T-6468

Property #: 21199710086

Status: Unutilized

Comment: Various sq. ft., possible asbestos and lead paint, most recent use—range support, off site use only

Building P-6539

Fort Sill

Lawton Co: Comanche OK 73503-5100

Property #: 21199710087

Status: Unutilized

Comment: 1,483 sq. ft., possible asbestos and lead paint, most recent use—office, off-site use only

Bldg. T-208

Fort Sill

Lawton Co: Comanche OK 73503-5100

Property #: 21199730344

Status: Unutilized

Comment: 20525 sq. ft., possible asbestos/lead paint, most recent use training center, off-site use only

Bldg. T-214

Fort Sill

Lawton Co: Comanche OK 73503-5100

Property #: 21199730346

Status: Unutilized

Comment: 6332 sq. ft., possible asbestos/lead paint, most recent use—training center, off-site use only

Bldg. T-215, T-216

Fort Sill

Lawton Co: Comanche OK 73503-5100

Property #: 21199730347

Status: Unutilized

Comment: 6300 sq. ft. each, possible asbestos/lead paint, most recent use—storage, off-site use only

Bldg. T-217

Fort Sill

Lawton Co: Comanche OK 73503-5100

Property #: 21199730348

Status: Unutilized

Comment: 6394 sq. ft., possible asbestos/lead paint, most recent use—training center, off-site use only

Bldg. T-810

Fort Sill

Lawton Co: Comanche OK 73503-5100

Property #: 21199730350

Status: Unutilized

Comment: 7205 sq. ft., possible asbestos/lead paint, most recent use—hay storage, off-site use only

Bldgs. T-837, T-839

Fort Sill

Lawton Co: Comanche OK 73503-5100

Property #: 21199730351

Status: Unutilized

Comment: Approx. 100 sq. ft. each, possible asbestos/lead paint, most recent use—storage, off-site use only

Bldg. P-934

Fort Sill

Lawton Co: Comanche OK 73503-5100

Property #: 21199730353

Status: Unutilized

Comment: 402 sq. ft., possible asbestos/lead paint, most recent use—storage, off-site use only

Bldg. T-1177

Fort Sill

Lawton Co: Comanche OK 73503-5100

Property #: 21199730356

Status: Unutilized

Comment: 183 sq. ft., possible asbestos/lead paint, most recent use—snack bar, off-site use only

Bldgs. T-1468, T-1469

Fort Sill

Lawton Co: Comanche OK 73503-5100

Property #: 21199730357

Status: Unutilized

Comment: 114 sq. ft., possible asbestos/lead paint, most recent use—storage, off-site use only

Bldg. T-1470

Fort Sill

Lawton Co: Comanche OK 73503-5100

Property #: 21199730358

Status: Unutilized

Comment: 3120 sq. ft., possible asbestos/lead paint, most recent use—storage, off-site use only

Bldg. T-1940

Fort Sill

Lawton Co: Comanche OK 73503-5100

Property #: 21199730360

Status: Unutilized

Comment: 1400 sq. ft., possible asbestos/lead paint, most recent use—storage, off-site use only

Bldgs. T-1954, T-2022

Fort Sill

Lawton Co: Comanche OK 73503-5100

Property #: 21199730362

Status: Unutilized

Comment: Approx. 100 sq. ft. each, possible asbestos/lead paint, most recent use—storage, off-site use only

Bldg. T-2184

Fort Sill

Lawton Co: Comanche OK 73503-5100

Property #: 21199730364

Status: Unutilized

Comment: 454 sq. ft., possible asbestos/lead paint, most recent use—storage, off-site use only

Bldg. T-2185

Fort Sill

Lawton Co: Comanche OK 73503-5100

Property #: 21199730365

Status: Unutilized

Comment: 151 sq. ft., possible asbestos/lead paint, most recent use—fuel storage, off-site use only

Bldgs. T-2186, T-2188, T-2189

Fort Sill

Lawton Co: Comanche OK 73503-5100

Property #: 21199730366

Status: Unutilized

Comment: 1656-3583 sq. ft., possible asbestos/lead paint, most recent use—vehicle maint. shop, off-site use only

Bldg. T-2187

Fort Sill

Lawton Co: Comanche OK 73503-5100

Property #: 21199730367

Status: Unutilized

Comment: 1673 sq. ft., possible asbestos/lead paint, most recent use—storage, off-site use only

Bldg. T-2209

Fort Sill

Lawton Co: Comanche OK 73503-5100

Property #: 21199730368

Status: Unutilized

Comment: 1257 sq. ft., possible asbestos/lead paint, most recent use—storage, off-site use only

Bldgs. T-2240, T-2241

Fort Sill

Lawton Co: Comanche OK 73503-5100

Property #: 21199730369

Status: Unutilized

Comment: Approx. 9500 sq. ft., possible asbestos/lead paint, most recent use—storage, off-site use only

Bldgs. T-2262, T-2263

Fort Sill

Lawton Co: Comanche OK 73503-5100

Property #: 21199730370

Status: Unutilized

Comment: Approx. 3100 sq. ft., possible asbestos/lead paint, most recent use—maint. shop, off-site use only

Bldgs. T-2271, T-2272

Fort Sill

Lawton Co: Comanche OK 73503-5100

Property #: 21199730371

Status: Unutilized

Comment: 232 sq. ft., possible asbestos/lead paint, most recent use—storage, off-site use only

Bldgs. T-2291 thru T-2296

Fort Sill

Lawton Co: Comanche OK 73503-5100

Property #: 21199730372

Status: Unutilized

Comment: 400 sq. ft., possible asbestos/lead paint, most recent use—storage, off-site use only

Bldgs. T-3001, T-3006

Fort Sill

Lawton Co: Comanche OK 73503-5100

Property #: 21199730383

Status: Unutilized

Comment: 9300 sq. ft., possible asbestos/lead paint, most recent use—storage, off-site use only

Bldg. T-3025

Fort Sill

Lawton Co: Comanche OK 73503-5100

Property #: 21199730384

Status: Unutilized

Comment: 5259 sq. ft., possible asbestos/lead paint, most recent use—museum, off-site use only

Bldg. T-3314

Fort Sill

Lawton Co: Comanche OK 73503-5100

Property #: 21199730385

Status: Unutilized

Comment: 229 sq. ft., possible asbestos/lead paint, most recent use—office, off-site use only

Bldg. T-3323

Fort Sill

Lawton Co: Comanche OK 73503-5100

Property #: 21199730387

Status: Unutilized

Comment: 8832 sq. ft., possible asbestos/lead paint, most recent use—office, off-site use only

Bldg. T-4281

Fort Sill

Lawton Co: Comanche OK 73503-5100

Property #: 21199730392

Status: Unutilized

Comment: 9405 sq. ft., possible asbestos/lead paint, most recent use—storage, off-site use only

Bldgs. T-4401, T-4402

Fort Sill

Lawton Co: Comanche OK 73503-5100

Property #: 21199730393

Status: Unutilized

Comment: 2260 sq. ft., possible asbestos/lead paint, most recent use—office, off-site use only

Bldg. T-4407

Fort Sill

Lawton Co: Comanche OK 73503-5100

Property #: 21199730395

Status: Unutilized

Comment: 3070 sq. ft., possible asbestos/lead paint, most recent use—dining facility, off-site use only

4 Bldgs.

Fort Sill

#T-4410, T-4414, T-4415, T-4418

Lawton Co: Comanche OK 73503-5100

Property #: 21199730396

Status: Unutilized

Comment: 1311 sq. ft., possible asbestos/lead paint, most recent use—office, off-site use only

5 Bldgs.

Fort Sill

#T-4411 thru T-4413, T-4416 thru T-4417

Lawton Co: Comanche OK 73503-5100

Property #: 21199730397

Status: Unutilized

Comment: 1244 sq. ft., possible asbestos/lead paint, most recent use—showers, off-site use only

Bldg. T-4421

Fort Sill

Lawton Co: Comanche OK 73503-5100

Property #: 21199730398

Status: Unutilized

Comment: 3070 sq. ft., possible asbestos/lead paint, most recent use—dining, off-site use only

10 Bldgs.

Fort Sill

#T-4422 thru T-4427, T-4431 thru T-4434

Lawton Co: Comanche OK 73503-5100

Property #: 21199730399

Status: Unutilized

Comment: 2263 sq. ft., possible asbestos/lead paint, most recent use—barracks, off-site use only

6 Bldgs.

Fort Sill

Lawton Co: Comanche OK 73503-5100

Location: #T-4436, T-4440, T-4444, T-4445, T-4448, T-4449

Property #: 21199730400

Status: Unutilized

Comment: 1311-2263 sq. ft., possible asbestos/lead paint, most recent use—office, off-site use only

5 Bldgs.

Fort Sill

Lawton Co: Comanche OK 73503-5100

Location: #T-4441, T-4442, T-4443, T-4446, T-4447

Property #: 21199730401

Status: Unutilized

Comment: 1244 sq. ft., possible asbestos/lead paint, most recent use—showers, off-site use only

Bldg. T-5041

Fort Sill

Lawton Co: Comanche OK 73503-5100

Property #: 21199730409

Status: Unutilized

Comment: 763 sq. ft., possible asbestos/lead paint, most recent use—storage, off-site use only

Bldgs. #T-5044, T-5045

Fort Sill

Lawton Co: Comanche OK 73503-5100

Property #: 21199730410

Status: Unutilized

Comment: 1798/1806 sq. ft., possible asbestos/lead paint, most recent use—class rooms, off-site use only

Bldg. T-5420

Fort Sill

Lawton Co: Comanche OK 73503-5100

Property #: 21199730414

Status: Unutilized

Comment: 189 sq. ft., possible asbestos/lead paint, most recent use—fuel storage, off-site use only

Bldgs. T-7290, T-7291

Fort Sill

Lawton Co: Comanche OK 73503-5100

Property #: 21199730417

Status: Unutilized

Comment: 224/840 sq. ft., possible asbestos/lead paint, most recent use—kennel, off-site use only

Bldg. T-7775

Fort Sill

Lawton Co: Comanche OK 73503-5100

Property #: 21199730419

Status: Unutilized

Comment: 1452 sq. ft., possible asbestos/lead paint, most recent use—private club, off-site use only

Bldg. T-207

Fort Sill

Lawton Co: Comanche OK 73503-5100

Property #: 21199910130

Status: Unutilized

Comment: 19,531 sq. ft., possible asbestos/lead paint, most recent use—office, off-site use only

Bldg. P-599

Fort Sill

Lawton Co: Comanche OK 73503-5100

Property #: 21199910132

Status: Unutilized

Comment: 1400 sq. ft., possible asbestos/lead paint, most recent use—clubhouse, off-site use only

4 Bldgs.

Fort Sill

P-617, P-1114, P-1386,

P-1608

Lawton Co: Comanche OK 73503-5100

Property #: 21199910133

Status: Unutilized

Comment: 106 sq. ft., possible asbestos/lead paint, most recent use—utility plant, off-site use only

Bldg. P-746

Fort Sill

Lawton Co: Comanche OK 73503-5100

Property #: 21199910135

Status: Unutilized

Comment: 6299 sq. ft., possible asbestos/lead paint, most recent use—admin., off-site use only

Bldg. T-2183

Fort Sill

Lawton Co: Comanche OK 73503-5100

Property #: 21199910139

Status: Unutilized

Comment: 14,530 sq. ft., possible asbestos/lead paint, most recent use—repair shop, off-site use only

Bldgs. P-2581, P-2773

Fort Sill

Lawton Co: Comanche OK 73503-5100

Property #: 21199910140

Status: Unutilized

Comment: 4093 and 4129 sq. ft., possible asbestos/lead paint, most recent use—office, off-site use only

Bldg. P-2582

Fort Sill

Lawton Co: Comanche OK 73503-5100

Property #: 21199910141

Status: Unutilized

Comment: 3672 sq. ft., possible asbestos/lead paint, most recent use—admin., off-site use only

Bldgs. P-2912, P-2921, P-2944

Fort Sill

Lawton Co: Comanche OK 73503-5100

Property #: 21199910144

Status: Unutilized

Comment: 1390 sq. ft., possible asbestos/lead paint, most recent use—office, off-site use only

Bldg. S-3169

Fort Sill

Lawton Co: Comanche OK 73503-5100

Property #: 21199910145

Status: Unutilized

Comment: 6437 sq. ft., possible asbestos/lead paint, most recent use—office, off-site use only

Bldg. P-2914

Fort Sill

Lawton Co: Comanche OK 73503-5100

Property #: 21199910146

Status: Unutilized

Comment: 1236 sq. ft., possible asbestos/lead paint, most recent use—storage, off-site use only

Bldg. P-3469

Fort Sill

Lawton Co: Comanche OK 73503-5100

Property #: 21199910147

Status: Unutilized

Comment: 3930 sq. ft., possible asbestos/lead paint, most recent use—car wash, off-site use only

Bldg. S-3559

Fort Sill

Lawton Co: Comanche OK 73503-5100

Property #: 21199910148

Status: Unutilized

Comment: 9462 sq. ft., possible asbestos/lead paint, most recent use—classroom, off-site use only

Bldg. S-4064

Fort Sill

Lawton Co: Comanche OK 73503-5100

Property #: 21199910149

Status: Unutilized

Comment: 1389 sq. ft., possible asbestos/lead paint, off-site use only

Bldg. S-5086

Fort Sill

Lawton Co: Comanche OK 73503-5100

Property #: 21199910152

Status: Unutilized

Comment: 6453 sq. ft., possible asbestos/lead paint, most recent use—maintenance, off-site use only

Bldg. P-5101

Fort Sill

Lawton Co: Comanche OK 73503-5100

Property #: 21199910153

Status: Unutilized

Comment: 82 sq. ft., possible asbestos/lead paint, most recent use—gas station, off-site use only

Bldg. S-6430

Fort Sill

Lawton Co: Comanche OK 73503-5100

Property #: 21199910156

Status: Unutilized

Comment: 2080 sq. ft., possible asbestos/lead paint, most recent use—range support, off-site use only

Bldg. T-6461

Fort Sill

Lawton Co: Comanche OK 73503-5100

Property #: 21199910157

Status: Unutilized

Comment: 200 sq. ft., possible asbestos/lead paint, most recent use—range support, off-site use only

Bldg. T-6462

Fort Sill

Lawton Co: Comanche OK 73503-5100

Property #: 21199910158

Status: Unutilized

Comment: 64 sq. ft., possible asbestos/lead paint, most recent use—control tower, off-site use only

Bldg. P-7230

Fort Sill

Lawton Co: Comanche OK 73503-5100

Property #: 21199910159

Status: Unutilized

Comment: 160 sq. ft., possible asbestos/lead paint, most recent use—transmitter bldg., off-site use only

Bldg. S-4023

Fort Sill

Lawton Co: Comanche OK 73503-5100

Property #: 21200010128

Status: Unutilized

Comment: 1200 sq. ft., possible asbestos/lead paint, most recent use—storage, off-site use only

Bldg. P-706

Fort Sill

Lawton Co: Comanche OK 73503-5100

Property #: 21200120119

Status: Unutilized

Comment: 103 sq. ft., possible asbestos/lead paint, most recent use—storage, off-site use only

Bldg. P-747

Fort Sill

Lawton Co: Comanche OK 73503-5100

Property #: 21200120120

Status: Unutilized

Comment: 9232 sq. ft., possible asbestos/lead paint, most recent use—lab, off-site use only

Bldg. S-830

Fort Sill

Lawton Co: Comanche OK 73503-5100

Property #: 21200120121

Status: Unutilized

Comment: 7356 sq. ft., possible asbestos/lead paint, most recent use—vehicle maint., off-site use only

Bldg. S-831

Fort Sill

Lawton Co: Comanche OK 73503-5100

Property #: 21200120122

Status: Unutilized

Comment: 7344 sq. ft., possible asbestos/lead paint, most recent use—classroom, off-site use only

Bldg. P-842

Fort Sill

Lawton Co: Comanche OK 73503-5100

Property #: 21200120123

Status: Unutilized

Comment: 192 sq. ft., possible asbestos/lead paint, most recent use—storage, off-site use only

Bldg. T-911

Fort Sill

Lawton Co: Comanche OK 73503-5100

Property #: 21200120124

Status: Unutilized

Comment: 3080 sq. ft., possible asbestos/lead paint, most recent use—office, off-site use only

Bldg. P-1390

Fort Sill

Lawton Co: Comanche OK 73503-5100

Property #: 21200120125

Status: Unutilized

Comment: 106 sq. ft., possible asbestos/lead paint, most recent use—utility plant, off-site use only

Bldg. P-1672

Fort Sill

Lawton Co: Comanche OK 73503-5100

Property #: 21200120126

Status: Unutilized

Comment: 1056 sq. ft., possible asbestos/lead paint, most recent use—storage, off-site use only

Bldg. S-2362

Fort Sill

Lawton Co: Comanche OK 73503-5100

Property #: 21200120127

Status: Unutilized

Comment: 64 sq. ft., possible asbestos/lead paint, most recent use—gatehouse, off-site use only

Bldg. P-2589

Fort Sill

Lawton Co: Comanche OK 73503-5100

Property #: 21200120129

Status: Unutilized

Comment: 3672 sq. ft., possible asbestos/lead paint, most recent use—storage, off-site use only

Bldg. T-3043

Fort Sill

Lawton Co: Comanche OK 73503-5100

Property #: 21200120130

Status: Unutilized

Comment: 80 sq. ft., possible asbestos/lead paint, most recent use—guard shack, off-site use only

Bldg. S-4636

Fort Sill

Lawton Co: Comanche OK 73503-5100

Property #: 21200130151

Status: Unutilized

Comment: 1389 sq. ft., possible asbestos/lead paint, most recent use—office, off-site use only

Bldg. S-4749

Fort Sill

Lawton Co: Comanche OK 73503-5100

Property #: 21200130152

Status: Unutilized

Comment: 1438 sq. ft., possible asbestos/lead paint, most recent use—weather station, off-site use only

South Carolina

Building

Bldg. 3499

Fort Jackson

Ft. Jackson Co: Richland SC 29207-

Property #: 21199730310

Status: Unutilized

Comment: 3724 sq. ft., needs repair, most recent use—admin.

Bldg. 2441

Fort Jackson

Ft. Jackson Co: Richland SC 29207-

Property #: 21199820187

Status: Unutilized

Comment: 2160 sq. ft., needs repair, most recent use—admin.

Bldg. 3605

Fort Jackson

Ft. Jackson Co: Richland SC 29207-

Property #: 21199820188

Status: Unutilized

Comment: 711 sq. ft., needs repair, most recent use—storage

Bldg. 1765

Fort Jackson

Ft. Jackson Co: Richland SC 29207-

Property #: 21200030109

Status: Unutilized

Comment: 1700 sq. ft., needs repair, presence of asbestos/lead paint, most recent use—training bldg., off-site use only

Land

One Acre

Fort Jackson

Columbia Co: Richland SC 29207-

Property #: 21200110089

Status: Underutilized

Comment: Approx. 1 acre

Texas

Building

Bldg. T-5901

Fort Sam Houston

San Antonio Co: Bexar TX 78234-5000

Property #: 21199330486

Status: Unutilized

Comment: 742 sq. ft., 1-story wood frame, most recent use—admin., off-site use only.

Bldg. P-6615

Fort Sam Houston

San Antonio Co: Bexar TX 78234-5000

Property #: 21199440454

Status: Excess

Comment: 400 sq. ft., 1 story concrete frame, off-site removal only, most recent use—detached garage

Bldg. 7137, Fort Bliss

El Paso Co: El Paso TX 79916-

Property #: 21199640564

Status: Unutilized

Comment: 35,736 sq. ft., 3-story, most recent use—housing, off-site use only

Bldgs. P-605A & P-606A

Fort Sam Houston

San Antonio Co: Bexar TX 78234-5000

Property #: 21199730316

Status: Unutilized

Comment: 2418 sq. ft., poor condition, presence of asbestos/lead paint, historical category, most recent use—indoor firing range, off-site use only

Bldg. T-5122

Fort Sam Houston

San Antonio Co: Bexar Tx 78234-5000

Property #: 21199730331

Status: Unutilized

Comment: 3602 sq. ft., presence of asbestos/lead paint, historical category, most recent use—instruction bldg., off-site use only

Bldg. T-5903

Fort Sam Houston

Sam Antonio Co: Bexar TX 78234-5000

Property #: 21199730332

Status: Unutilized

Comment: 5200 sq. ft., presence of asbestos/lead paint, historical category, most recent use—admin., off-site use only

Bldg. T-5907

Fort Sam Houston

San Antonio Co: Bexar TX 78234-5000

Property #: 21199730333

Status: Unutilized

Comment: 570 sq. ft., presence of asbestos/lead paint, historical category, most recent use—admin., off-site use only

Bldg. T-5906

Fort Sam Houston

San Antonio Co: Bexar TX 78234-5000

Property #: 21199730420

Status: Unutilized

Comment: 570 sq. ft., presence of asbestos/lead paint, most recent use—admin., off-site use only

Bldg. P-1382

Fort Sam Houston

San Antonio Co: Bexar TX 78234-5000

Property #: 21199810365

Status: Unutilized

Comment: 30,082 sq. ft., presence of asbestos/lead paint, most recent use—housing, off-site use only

Bldg. T-5123

Fort Sam Houston

San Antonio Co: Bexar TX 78234-5000

Property #: 21199830350

Status: Unutilized

Comment: 2596 sq. ft., fair, hazard abatement required, most recent use—instruction, off-site use only, historical significance

Bldg. P-6150

Fort Sam Houston

San Antonio Co: Bexar TX 78234-5000

Property #: 21199830351

Status: Unutilized

Comment: 48 sq. ft., fair, hazard abatement required, most recent use—pumphouse, off-site use only

Bldgs. P-6331, P-6335, P-6495

Fort Sam Houston

San Antonio Co: Bexar TX 78234-5000

Property #: 21199830353

Status: Unutilized

Comment: 36 sq. ft., fair hazard abatement required, most recent use—pumping station, off-site use only

Bldg. P-8000

Fort Sam Houston

San Antonio Co: Bexar TX 78234-5000

Property #: 21199830354

Status: Unutilized

Comment: 1766 sq. ft., fair hazard abatement required, most recent use—housing, off-site use only

9 Bldgs.

Fort Sam Houston

San Antonio Co: Bexar TX 78234-5000

Location: #P8001, P8008, 8014, 8027, 8033, 8035, 8127, 8229, 8265

Property #: 21199830355

Status: Unutilized

Comment: 2456 sq. ft., fair hazard abatement required, most recent use—housing, off-site use only

11 Bldgs.

Fort Sam Houston

San Antonio Co: Bexar TX 78234-5000

Location: #P8003, P8011, 8012, 8019, 8043, 8202, 8204, 8216, 8235, 8241, 8261

Property #: 21199830356

Status: Unutilized

Comment: 2358 sq. ft., fair hazard abatement required, most recent use—housing, off-site use only

Bldgs. P-8003C, P-8220C

Fort Sam Houston

San Antonio Co: Bexar TX 78234-5000

Property #: 21199830357

Status: Unutilized

Comment: 1174 sq. ft., fair hazard abatement required, most recent use—detached garage, off-site use only

Bldg. P-8004

Fort Sam Houston

San Antonio Co: Bexar TX 78234-5000

Property #: 21199830358

Status: Unutilized

Comment: 2243 sq. ft., fair hazard abatement required, most recent use—housing, off-site use only

7 Bldgs.

Fort Sam Houston

San Antonio Co: Bexar TX 78234-5000

Location: #P8005, 8101, 8107, 8141, 8143, 8146, 8150

Property #: 21199830359

Status: Unutilized

Comment: 1804 sq. ft., fair hazard abatement required, most recent use—housing, off-site use only

7 Bldgs.

Fort Sam Houston

San Antonio Co: Bexar TX 78234-5000

Location: #P8009, 8024, 8207, 8214, 8217, 8226, 8256

Property #: 21199830361

Status: Unutilized

Comment: 2253 sq. ft., fair hazard abatement required, most recent use—housing, off-site use only

4 Bldgs.

Fort Sam Houston

San Antonio Co: Bexar TX 78234-5000

Location: #P8009C, 8027C, 8248C, 8256C

Property #: 21199830362

Status: Unutilized

Comment: 681 sq. ft., fair hazard abatement required, most recent use—detached garage, off-site use only

3 Bldgs.

Fort Sam Houston

San Antonio Co: Bexar TX 78234-5000

Location: #P8012C, 8039C, 8224C,

Property #: 21199830363

Status: Unutilized

Comment: 1185 sq. ft., fair hazard abatement required, most recent use—detached garage, off-site use only

Bldg. P8016

Fort Sam Houston

San Antonio Co: Bexar TX 78234-5000

Property #: 21199830364

Status: Unutilized

Comment: 2347 sq. ft., fair hazard abatement required, most recent use—housing, off-site use only

8 Bldgs.

Fort Sam Houston

San Antonio Co: Bexar TX 78234-5000

Location: #P8012, 8211, 8244, 8270, 8213, 8223, 8243, 8266

Property #: 21199830365

Status: Unutilized

Comment: 249 sq. ft., fair hazard abatement required, most recent use—housing, off-site use only

Bldg. P-8022

Fort Sam Houston

San Antonio Co: Bexar TX 78234-5000

Property #: 21199830366

Status: Unutilized

Comment: 1849 sq. ft., fair hazard abatement required, most recent use—housing, off-site use only

5 Bldgs.

Fort Sam Houston

San Antonio Co: Bexar TX 78234-5000

Location: #8022C, 8023C, 8106C, 8127C, 8206C

Property #: 21199830367

Status: Unutilized

Comment: 513 sq. ft., fair hazard abatement required, most recent use—detached garage, off-site use only

Bldgs. P8026, P8028

Fort Sam Houston

San Antonio Co: Bexar TX 78234-5000

Property #: 21199830369

Status: Unutilized

Comment: Approx. 1850 sq. ft., fair hazard abatement required, most recent use—housing, off-site use only

3 Bldgs.

Fort Sam Houston

San Antonio Co: Bexar TX 78234-5000

Location: #P8028C, P8143C, P8150C

Property #: 21199830370

Status: Unutilized

Comment: 833 sq. ft., fair hazard abatement required, most recent use—detached garage, off-site use only

3 Bldgs.

Fort Sam Houston

San Antonio Co: Bexar TX 78234-5000

Location: #P8035C, P8104C, 8236C

Property #: 21199830372

Status: Unutilized

Comment: 1017 sq. ft., fair hazard abatement required, most recent use—detached garage, off-site use only

3 Bldgs.

Fort Sam Houston

San Antonio Co: Bexar TX 78234-5000

Location: #P8102, 8106, 8108

Property #: 21199830375

Status: Unutilized

Comment: Approx. 2700 sq. ft., fair, hazard abatement required, most recent use—housing, off-site use only

Bldgs. P8109, P8137

Fort Sam Houston

San Antonio Co: Bexar TX 78234-5000

Property #: 21199830330376

Status: Unutilized

Comment: 1540 sq. ft., fair, hazard abatement required, most recent use—housing, off-site use only

Bldgs. P8112, P8228

Fort Sam Houston

San Antonio Co: Bexar TX 78234-5000

Property #: 21199830378

Status: Unutilized

Comment: 1807 sq. ft., fair, hazard abatement required, most recent use—housing, off-site use only

3 Bldgs.

Fort Sam Houston

San Antonio Co: Bexar TX 78234-5000

Location: P8116, 8151, 8158

Property #: 21199830380

Status: Unutilized

Comment: 1691 sq. ft., fair, hazard abatement required, most recent use—housing, off-site use only

Bldgs. P8117

Fort Sam Houston

San Antonio Co: Bexar TX 78234-5000

Property #: 21199830381

Status: Unutilized

Comment: 1581 sq. ft., fair, hazard abatement required, most recent use—housing, off-site use only

8 Bldgs.

Fort Sam Houston

San Antonio Co: Bexar TX 78234-5000

Location: #P8118, 8121, 8125, 8153, 8119, 8120, 8124, 8168

Property #: 21199830382

Status: Unutilized

Comment: Various sq. ft., fair, hazard abatement required, most recent use—housing, off-site use only

Bldgs. P8122, P8123

Fort Sam Houston

San Antonio Co: Bexar TX 78234-5000

Property #: 21199830383

Status: Unutilized

Comment: Approx. 1400 sq. ft., fair, hazard abatement required, most recent use—housing, off-site use only

Bldgs. P8126

Fort Sam Houston

San Antonio Co: Bexar TX 78234-5000

Property #: 21199830384

Status: Unutilized

Comment: 1331 sq. ft., fair, hazard abatement required, most recent use—housing, off-site use only

8 Bldgs.

Fort Sam Houston

San Antonio Co: Bexar TX 78234-5000

Location: P8131C, 8139C, 8203C, 8211C, 8231C, 8243C, 8249C, 8261C

Property #: 21199830386

Status: Unutilized

Comment: 849 sq. ft., fair, hazard abatement required, most recent use—detached garage, off-site use only

Bldgs. P8133, P8134

Fort Sam Houston

San Antonio Co: Bexar TX 78234-5000

Property #: 21199830387

Status: Unutilized

Comment: Approx. 2000 sq. ft., fair, hazard abatement required, most recent use—housing, off-site use only

Bldgs. P8135, P8136

Fort Sam Houston

San Antonio Co: Bexar TX 78234-5000

Property #: 21199830388

Status: Unutilized

Comment: Approx. 1500 sq. ft., fair, hazard abatement required, most recent use—housing, off-site use only

4 Bldgs.

Fort Sam Houston

San Antonio Co: Bexar TX 78234-5000

Location: #P8144, 8267, 8148, 8149

Property #: 21199830389

Status: Unutilized

Comment: Approx. 2200 sq. ft., fair, hazard abatement required, most recent use—housing, off-site use only

Bldgs. P8171

Fort Sam Houston

San Antonio Co: Bexar TX 78234-5000

Property #: 21199830392

Status: Unutilized

Comment: 1289 sq. ft., fair, hazard abatement required, most recent use—housing, off-site use only

Bldgs. P8172

Fort Sam Houston

San Antonio Co: Bexar TX 78234-5000

Property #: 21199830393

Status: Unutilized

Comment: 1597 sq. ft., fair, hazard abatement required, most recent use—housing, off-site use only

Bldgs. Pl8173, P8174

Fort Sam Houston

San Antonio Co: Bexar TX 78234-5000

Property #: 21199830394

Status: Unutilized

Comment: Approx. 2200 sq. ft., fair, hazard abatement required, most recent use—housing, off-site use only

Bldgs. P8174C

Fort Sam Houston

San Antonio Co: Bexar TX 78234-5000

Property #: 21199830395

Status: Unutilized

Comment: 670 sq. ft., fair, hazard abatement required, most recent use—detached garage, off-site use only

Bldg. P8175

Fort Sam Houston

San Antonio Co: Bexar TX 78234-5000

Property #: 21199830396

Status: Unutilized

Comment: 2220 sq. ft., fair, hazard abatement required, most recent use—housing, off-site use only

Bldg. P8200

Fort Sam Houston

San Antonio Co: Bexar TX 78234-5000

Property #: 21199830397

Status: Unutilized

Comment: 892 sq. ft., hazard abatement required, most recent use—officers quarters, off-site use only

Bldg. P8205

Fort Sam Houston

San Antonio Co: Bexar TX 78234-5000

Property #: 21199830399

Status: Unutilized

Comment: 1745 sq. ft., fair, hazard abatement required, most recent use—housing, off-site use only

3 Bldgs.

Fort Sam Houston

San Antonio Co: Bexar TX 78234-5000

Location: #P8206, 8232, 8233

Property #: 21199830400

Status: Unutilized

Comment: Approx. 2400 sq. ft., fair, hazard abatement required, most recent use—housing, off-site use only

Bldg. P8245

Fort Sam Houston

San Antonio Co: Bexar TX 78234-5000

Property #: 21199830401

Status: Unutilized

Comment: 2876 sq. ft., fair, hazard abatement required, most recent use—housing, off-site use only

Bldgs. P8262C, 8271C

Fort Sam Houston

San Antonio Co: Bexar TX 78234-5000

Property #: 21199830403

Status: Unutilized

Comment: 1006 sq. ft., fair, hazard abatement required, most recent use—detached garage, off-site use only

Bldg. P8269

Fort Sam Houston

San Antonio Co: Bexar TX 78234-5000

Property #: 21199830404

Status: Unutilized

Comment: 2396 sq. ft. fair, hazard abatement required, most recent use—housing, off-site use only

20 Bldgs.

Fort Sam Houston

San Antonio Co: Bexar TX 78234-5000

Location: #P8271, 8002, 8018, 8025, 8037, 8100, 8130, 8130, 8132, 8138, 8140, 8142, 8145, 8147, 8210, 8212, 8221, 8242, 8247, 8264, 8257

Property #: 21199830405

Status: Unutilized

Comment: 2777 sq. ft., fair, hazard abatement required, most recent use—housing, off-site use only

Bldg. 919

Fort Hood

Ft. Hood Co: Coryell, TX 76544-

Property #: 21199920212

Status: Unutilized

Comment: 11,800 sq. ft., needs repair, most recent use—Bde. Hq. Bldg., off-site use only

Bldg. 3959

Fort Hood

Ft. Hood Co: Coryell, TX 76544-

Property #: 21199920224

Status: Unutilized

Comment: 3373 sq. ft., needs repair, most recent use—admin., off-site use only

Bldgs. 3967-3969

Fort Hood

Ft. Hood Co: Coryell, TX 76544-

Property #: 21199920228

Status: Unutilized

Comment: 5310 sq. ft., needs repair, most recent use—admin., off-site use only

Bldgs. 3970-3971

Fort Hood

Ft. Hood Co: Coryell, TX 76544-

Property #: 21199920229

Status: Unutilized

Comment: 3241 sq. ft., needs repair, most recent use—admin., off-site use only

4 Bldgs.

Fort Sam Houston

S6161, S6162, S6167, S6168

San Antonio Co: Bexar TX 78234-5000

Property #: 21200010132

Status: Unutilized

Comment: 900 sq. ft., needs major repairs, most recent use—admin., off-site use only

Bldg. S1448

Fort Sam Houston

San Antonio Co: Bexar TX

Property #: 21200010133

Status: Unutilized

Comment: 4200 sq. ft., possible asbestos/lead paint, most recent use—admin., off-site use only

Bldg. T5001

Fort Sam Houston

San Antonio Co: Bexar TX 78234-5000

Property #: 21200010134

Status: Unutilized

Comment: 1186 sq. ft., needs major repairs, possible asbestos/lead paint, most recent use—admin., off-site use only

Bldg. S6163

Fort Sam Houston

San Antonio Co: Bexar TX 78234-5000

Property #: 21200010136

Status: Unutilized

Comment: 3200 sq. ft., needs major repairs, most recent use—admin., off-site use only

Bldg. S6169

Fort Sam Houston

San Antonoio Co: Bexar TX 78234-5000

Property #: 21200010137

Status: Unutilized

Comment: 1800 sq. ft., needs major repairs, most recent use—admin., off-site use only

Bldg. P-2375A

Fort Sam Houston

San Antonio Co: Bexar TX 78234-5000

Property #: 21200020202

Status: Unutilized

Comment: 108 sq. ft., presence of lead paint, most recent use—storage, off-site use only

Bldg. T-5004

Fort Sam Houston

San Antonio Co: Bexar TX 78234-5000

Property #: 21200020203

Status: Unutilized

Comment: 4489 sq. ft., presence of asbestos/lead paint, most recent use—storage, off-site use only

Bldg. 92043

Fort Hood

Ft. Hood Co: Bell TX 76544-

Property #: 21200020206

Status: Unutilized

Comment: 450 sq. ft., most recent use—storage, off-site use only

Bldg. 92044

Fort Hood

Ft. Hood Co: Bell TX 76544-

Property #: 21200020207

Status: Unutilized

Comment: 1920 sq. ft., most recent use—admin., off-site use only

Bldg. 92045

Fort Hood

Ft. Hood Co: Bell TX76544-

Property #: 21200020208

Status: Unutilized

Comment: 2108 sq. ft., most recent use—maint., off-site use only

Bldg. P-8219

Fort Sam Houston

San Antonio Co: Bexar TX 78234-5000

Property #: 21200030110

Status: Excess

Comment: 2456 sq. ft., presence of asbestos/lead paint, most recent use—family house, off-site use only

Bldg. 4469

Fort Hood

Ft. Hood Co: Bell TX 76544-

Property #: 21200030116

Status: Unutilized

Comment: 5310 sq. ft., most recent use—barracks, off-site use only

Bldg. P-376

Fort Sam Houston

San Antonio Co: Bexar TX 78234-5000

Property #: 21200110090

Status: Excess

Comment: 2529 sq. ft., presence of asbestos/lead paint, most recent use—post exchange services, historic preservation requirements, off-site use only

Bldg. 1281

Fort Bliss

El Paso Co: TX 79916-

Property #: 21200110091

Status: Unutilized

Comment: 25,027 sq. ft., most recent use—cold storage, off-site use only

Bldg. 3656

Fort Bliss

El Paso Co: TX 79916-

Property #: 21200110093

Status: Unutilized

Comment: 1806 sq. ft., most recent use—igloo str. inst., off-site use only

Bldg. 7113

Fort Bliss

El Paso Co: TX 79916-

Property #: 21200110094

Status: Unutilized

Comment: 14,807 sq. ft., most recent use—nursery school, off-site use only

Bldg. 7133

Fort Bliss

El Paso Co: TX 79916-

Property #: 21200110095

Status: Unutilized

Comment: 11,650 sq. ft., most recent use—storage, off-site use only

Bldg. 7136

Fort Bliss

El Paso Co: TX 79916-

Property #: 21200110096

Status: Unutilized

Comment: 11,755 sq. ft., most recent use—vet facility, off-site use only

Bldg. 7146

Fort Bliss

El Paso Co: TX 79916-

Property #: 21200110097

Status: Unutilized

Comment: Most recent use—oil storage, off-site use only

Bldg. 7147

Fort Bliss

El Paso Co: TX 79916-

Property #: 21200110098

Status: Unutilized

Comment: Most recent use—oil storage, off-site use only

Bldg. 7153

Fort Bliss

El Paso Co: TX 79916-

Property #: 21200110099

Status: Unutilized

Comment: 11924 sq. ft., most recent use—bowling center, off-site use only

Bldg. 7162

Fort Bliss

El Paso Co: TX 79916-

Property #: 21200110100

Status: Unutilized

Comment: 3956 sq. ft. most recent use—development center, off-site use only

Bldg. 11116

Fort Bliss

El Paso Co: TX 79916-

Property #: 21200110101

Status: Unutilized

Comment: 20,100 sq. ft., most recent use—storage, off-site use only

Land

Bldg. Old Camp Bullis Road

Fort Sam Houston

San Antonio Co: Bexar TX 78234-5000

Property#: 21199420461

Status: Unutilized

Comment: 7.16 acres, rural gravel road

Virginia

Building

Bldg. 178

Fort Monroe

Ft. Monroe Co: VA 23651-

Property #: 21199940046

Status: Unutilized

Comment: 1180 sq. ft., needs repair, most recent use—storage, off-site use only

Bldg. T246

Fort Monroe

Ft. Monroe Co: VA 23651-

Property #: 21199940047

Status: Unutilized

Comment: 756 sq. ft., needs repair, possible lead paint, most recent use—scout meetings, off-site use only

Bldgs. 1630, 1633, 1636

Fort Eustis

Ft. Eustis Co: VA 23604-

Property #: 21200030119

Status: Unutilized

Comment: 720 sq. ft., most recent use—storehouse, off-site use only

Bldgs. SS0305, SS0306

Fort A.P. Hill

Bowling Green Co: Caroline VA 22428—

Property #: 21200120132

Status: Unutilized

Comment: 1250 sq. ft., concrete block, off-site use only

Bldgs. 1516, 1517, 1552, 1567

Fort Eustis

Ft. Eustis Co: VA 23604-

Property #: 21200130154

Status: Unutilized

Comment: 2892 & 4720 sq. ft., most recent use—dining/barracks/admin, off-site use only

Bldg. 1559

Fort Eustis

Ft. Eustis Co: VA 23604-

Property #: 21200130156

Status: Unutilized

Comment: 2892 sq. ft., most recent use—storage, off-site use only

Bldg. P00151

Fort A.P. Hill

Bowling Green Co: Caroline VA 22427-

Property #: 21200130157

Status: Unutilized

Comment: 1098 sq. ft., most recent use—housing maint., off-site use only

Bldg. TT0135

Fort A.P. Hill

Bowling Green Co: Caroline VA 22427-

Property #: 21200130158

Status: Unutilized

Comment: 2144 sq. ft., needs major rehab, most recent use—thrift shop, off-site use only

Washington

Building

13 Bldgs. Fort Lewis

A0402, CO723, CO726, CO727, CO90

CO907, CO922, CO923, CO926, CO92

Ft. Lewis Co: Pierce WA 98433-9500

Property #: 21199630199

Status: Unutilized

Comment: 2360 sq. ft., possible asbestos/lead paint, most recent use—barracks, off-site use only

7 Bldgs., Fort Lewis

AO438, AO439, CO901, CO910, CO91

Ft. Lewis Co: Pierce WA 98433-9500

Property #: 21199630200

Status: Unutilized

Comment: 1141 sq. ft., possible asbestos/lead paint, most recent use—dayroom bldgs., off-site use only

6 Bldgs. Fort Lewis

CO908, CO728, CO921, CO928, C100

Ft. Lewis Co: Pierce WA 98433-9500

Property #: 21199630204

Status: Unutilized

Comment: 2207 sq. ft., possible asbestos/lead paint, most recent use—dayroom bldgs., off-site use only

Bldg. CO909, Fort Lewis

Ft. Lewis Co: Pierce WA 98433-9500

Property #: 21199630205

Status: Unutilized

Comment: 1984 sq. ft., possible asbestos/lead paint, most recent use—admin., off-site use only

Bldg. C0920, Fort Lewis

Ft. Lewis Co: Pierce WA 98433-9500

Property #: 21199630206

Status: Unutilized

Comment: 1948 sq. ft., possible asbestos/lead paint, most recent use—admin., off-site use only

Bldg. C1249, Fort Lewis

Ft. Lewis Co: Pierce WA 98433-9500

Property #: 21199630207

Status: Unutilized

Comment: 992 sq. ft., possible asbestos/lead paint, most recent use—storage, off-site use only

Bldg. 1164, Fort Lewis

Ft. Lewis Co: Pierce WA 98433-9500

Property #: 21199630213

Status: Unutilized

Comment: 230 sq. ft., possible asbestos/lead paint, most recent use—storehouse, off-site use only

Bldg. 1307, Fort Lewis

Ft. Lewis Co: Pierce WA 98433-9500

Property #: 21199630216

Status: Unutilized

Comment: 1092 sq. ft., possible asbestos/lead paint, most recent use—storage, off-site use only

Bldg. 1309, Fort Lewis

Ft. Lewis Co: Pierce WA 98433-9500

Property #: 21199630217

Status: Unutilized

Comment: 1092 sq. ft., possible asbestos/lead paint, most recent use—storage, off-site use only

Bldg. 2167, Fort Lewis

Ft. Lewis Co: Pierce WA 98433-9500

Property #: 21199630218

Status: Unutilized

Comment: 288 sq. ft., possible asbestos/lead paint, most recent use—warehouse, off-site use only

Bldg. 4078, Fort Lewis

Ft. Lewis Co: Pierce WA 98433-9500

Property #: 21199630219

Status: Unutilized

Comment: 10200 sq. ft., needs rehab, possible asbestos/lead paint, most recent use—warehouse, off-site use only

Bldg. 9599, Fort Lewis

Ft. Lewis Co: Pierce WA 98433-9500

Property #: 21199630220

Status: Unutilized

Comment: 12366 sq. ft., possible asbestos/lead paint, most recent use—warehouse, off-site use only

Bldg. A1404, Fort Lewis

Ft. Lewis Co: Pierce WA 98433-

Property #: 21199640570

Status: Unutilized

Comment: 557 sq. ft., needs rehab, most recent use—storage, off-site use only

Bldg. A1419, Fort Lewis

Ft. Lewis Co: Pierce WA 98433-

Property #:21199640571

Status: Unutilized

Comment: 1307 sq. ft., needs rehab, most recent use—storage, off-site use only

Bldg. E0202, Fort Lewis

Ft. Lewis Co: Pierce WA 98433-

Property #: 21199710149

Status: Unutilized

Comment: 992 sq. ft., possible asbestos/lead paint, most recent use—office, off-site use only

Bldg. E0347, Fort Lewis

Ft. Lewis Co: Pierce WA 98433-

Property #: 21199710156

Status: Unutilized

Comment: 1800 sq. ft., possible asbestos/lead paint, most recent use—office, off-site use only

Bldg. B1008, Fort Lewis

Ft. Lewis Co: Pierce WA 98433-

Property #: 21199720216

Status: Unutilized

Comment: 7387 sq. ft., 2-story, needs rehab, possible asbestos/lead paint, most recent use—medical clinic, off-site use only

Bldgs. B1011-B1012, Fort Lewis

Ft. Lewis Co: Pierce WA 98433-

Property #: 21199720217

Status: Unutilized

Comment: 992 sq. ft., and 1144 sq. ft., needs rehab, possible asbestos/lead paint, most recent use—office, off-site use only

Bldgs. C0509, C0709, C0720

Fort Lewis

Ft. Lewis Co: Pierce WA 98433-

Property #: 21199810372

Status: Unutilized

Comment: 1948 sq. ft., possible asbestos/lead paint, needs rehab, most recent use—storage, off-site use only

4 Bldgs.

Fort Lewis

C0511, C0710, C0711, C0719

Ft. Lewis Co: Pierce WA 98443-

Property #: 21199810373

Status: Unutilized

Comment: 1,144 sq. ft., possible asbestos/lead paint, needs rehab, most recent use—dayrooms, off-site use only

11 Bldgs.

Fort Lewis

Ft. Lewis Co: Pierce WA 98433-

Location: CO528, CO701, CO708, CO721, CO526, CO527, CO702, CO703, CO706, CO707, CO722

Property #: 21199810374

Status: Unutilized

Comment: 2207 sq. ft., possible asbestos/lead paint, needs rehab, morst recent use—dining, off-site use only

Bldg. 5162

Fort Lewis

Ft. Lewis Co: Pierce WA 98433-

Property #: 21199830419

Status: Unutilized

Comment: 2360 sq. ft., needs repair, presence of asbestos/lead paint, most recent use—office, off-site use only

Bldg. A0631

Fort Lewis

Ft. Lewis Co: Pierce WA 98433-

Property #: 21199830422

Status: Unutilized

Comment: 2207 sq. ft., needs repair, presence of asbestos/lead paint, most recent use—dayroom, off-site use only

Bldg. B0813

Fort Lewis

Ft. Lewis Co: Pierce WA 98433-

Property #: 21199830427

Status: Unutilized

Comment: 1144 sq. ft., needs repair, presence of asbestos/lead paint, most recent use—office, off-site use only

Bldg. B0812

Fort Lewis

Ft. Lewis Co: Pierce WA 98433-

Property #: 21199830428

Status: Unutilized

Comment: 1144 sq. ft., needs repair, presence of asbestos/lead paint, most recent use—dayroom, off-site use only

Bldg. 5224

Fort Lewis

Ft. Lewis Co: Pierce WA 98433-

Property #: 21199830433

Status: Unutilized

Comment: 2360 sq. ft., needs repair, presence of asbestos/lead paint, most recent use—educ. fac., off-site use only

Bldg. U001B

Fort Lewis

Ft. Lewis Co: Pierce WA 98433-

Property #: 21199920237

Status: Excess

Comment: 54 sq. ft., needs repair, presence of asbestos/lead paint, most recent use—control tower, off-site use only

Bldg. U001C

Fort Lewis

Ft. Lewis Co: Pierce WA 98433-

Property #: 21199920238

Status: Unutilized

Comment: 960 sq. ft., needs repair, presence of asbestos/lead paint, most recent use—supply, off-site use only

10 Bldgs.

Fort Lewis

Ft. Lewis Co: Pierce WA 98433-

Location: U002B, U002C, U005C, U015I, U016E, U019C, U022A, U028B, 0091A, U093C

Property #: 21199920239

Status: Excess

Comment: 600 sq. ft., needs repair, presence of asbestos/lead paint, most recent use—range house, off-site use only

6 Bldgs.

Fort Lewis

Ft. Lewis Co: Pierce WA 98433-

Location: U003A, U004B, U006C, U015B, U016B, U019B

Property #: 21199920240

Status: Unutilized

Comment: 54 sq. ft., needs repair, presence of asbestos/lead paint, most recent use—control tower, off-site use only

Bldg. U004D

Fort Lewis

Ft. Lewis Co: Pierce WA 98433-

Property #: 21199920241

Status: Unutilized

Comment: 960 sq. ft., needs repair, presence of asbestos/lead paint, most recent use—supply, off-site use only

Bldg. U005A

Fort Lewis

Ft. Lewis Co: Pierce WA 98433-

Property #: 21199920242

Status: Unutilized

Comment: 360 sq. ft., needs repair, presence of asbestos/lead paint, most recent use—control tower, off-site use only

Bldgs. U006A, U024A

Fort Lewis

Ft. Lewis Co: Pierce WA 98433-

Property #: 21199920243

Status: Excess

Comment: 1440 sq. ft., needs repair, presence of asbestos/lead paint, most recent use—shelter, off-site use only

Bldgs. U007A, U021A

Fort Lewis

Ft. Lewis Co: Pierce WA 98433-

Property #: 21199920244

Status: Excess

Comment: 100 sq. ft., needs repair, presence of asbestos/lead paint, most recent use—control tower, off-site use only

7 Bldgs.

Fort Lewis

Ft. Lewis Co: Pierce WA 98433-

Location: U014A, U022B, U023A, U043B, U059B, U060A, U101A

Property #: 21199920245

Status: Excess

Comment: Needs repair, presence of asbestos/lead paint, most recent use—ofc/tower/support, off-site use only

Bldg. U015J

Fort Lewis

Ft. Lewis Co: Pierce WA 98433-

Property #: 21199920246

Status: Excess

Comment: 144 sq. ft., needs repair, presence of asbestos/lead paint, most recent use—tower, off-site use only

Bldg. U018B

Fort Lewis

Ft. Lewis Co: Pierce WA 98433-

Property #: 21199920247

Status: Unutilized

Comment: 121 sq. ft., needs repair, presence of asbestos/lead paint, most recent use—range house, off-site use only.

Bldg. U018C

Fort Lewis

Ft. Lewis Co: Pierce WA 98433-

Property #: 21199920248

Status: Unutilized

Comment: 48 sq. ft., needs repair, presence of asbestos/lead paint, most recent use—off-site use only.

Bldg. U024B

Fort Lewis

Ft. Lewis Co: Pierce WA 98433-

Property #: 21199920249

Status: Unutilized

Comment: 168 sq. ft., needs repair, presence of asbestos/lead paint, most recent use—control tower, off-site use only.

Bldg. U024D

Fort Lewis

Ft. Lewis Co: Pierce WA 98433-

Property #: 21199920250

Status: Unutilized

Comment: 120 sq. ft., needs repair, presence of asbestos/lead paint, most recent use—ammo bldg., off-site use only.

Bldg. U027A

Fort Lewis

Ft. Lewis Co: Pierce WA 98433-

Property #: 21199920251

Status: Excess

Comment: 64 sq. ft., needs repair, presence of asbestos/lead paint, most recent use—tire house, off-site use only.

Bldgs. U028A-U032A

Fort Lewis

Ft. Lewis Co: Pierce WA 98433-

Property #: 21199920252

Status: Unutilized

Comment: 72 sq. ft., needs repair, presence of asbestos/lead paint, most recent use—control tower, off-site use only.

Bldg. U031A

Fort Lewis

Ft. Lewis Co: Pierce WA 98433-

Property #: 21199920253

Status: Excess

Comment: 3456 sq. ft., needs repair, presence of asbestos/lead paint, most recent use—line shed, off-site use only.

Bldg. U031C

Fort Lewis

Ft. Lewis Co: Pierce WA 98433-

Property #: 21199920254

Status: Unutilized

Comment: 32 sq. ft., needs repair, presence of asbestos/lead paint, off-site use only.

Bldg. U040D

Fort Lewis

Ft. Lewis Co: Pierce WA 98433-

Property #: 21199920255

Status: Excess

Comment: 800 sq. ft., needs repair, presence of asbestos/lead paint, most recent use—range house, off-site use only.

Bldgs. U052C, U052H

Fort Lewis

Ft. Lewis Co: Pierce WA 98433-

Property #: 21199920256

Status: Excess

Comment: various sq. ft., needs repair, presence of asbestos/lead paint, most recent use—range house, off-site use only.

Bldgs. U035A, U035B

Fort Lewis

Ft. Lewis Co: Pierce WA 98433-

Property #: 21199920257

Status: Excess

Comment: 192 sq. ft., needs repair, presence of asbestos/lead paint, most recent use—shelter, off-site use only.

Bldg. U035C

Fort Lewis

Ft. Lewis Co: Pierce WA 98433-

Property #: 21199920258

Status: Excess

Comment: 242 sq. ft., needs repair, presence of asbestos/lead paint, most recent use—range house, off-site use only.

Bldg. U039A

Fort Lewis

Ft. Lewis Co: Pierce WA 98433-

Property #: 21199920259

Status: Excess

Comment: 36 sq. ft., needs repair, presence of asbestos/lead paint, most recent use—control tower, off-site use only.

Bldg. U039B

Fort Lewis

Ft. Lewis Co: Pierce WA 98433-

Property #: 21199920260

Status: Excess

Comment: 1600 sq. ft., needs repair, presence of asbestos/lead paint, most recent use—grandstand/bleachers, off-site use only.

Bldg. U039C

Fort Lewis

Ft. Lewis Co: Pierce WA 98433-

Property #: 21199920261

Status: Excess

Comment: 600 sq. ft., needs repair, presence of asbestos/lead paint, most recent use—support, off-site use only.

Bldg. U043A

Fort Lewis

Ft. Lewis Co: Pierce WA 98433-

Property #: 21199920262

Status: Excess

Comment: 132 sq. ft., needs repair, presence of asbestos/lead paint, most recent use—range house, off-site use only.

Bldg. U052A

Fort Lewis

Ft. Lewis Co: Pierce WA 98433-

Property #: 21199920263

Status: Excess

Comment: 69 sq. ft., needs repair, presence of asbestos/lead paint, most recent use—tower, off-site use only.

Bldg. U052E

Fort Lewis

Ft. Lewis Co: Pierce WA 98433-

Property #: 21199920264

Status: Excess

Comment: 600 sq. ft., needs repair, presence of asbestos/lead paint, most recent use—storage, off-site use only.

Bldg. U052G

Fort Lewis

Ft. Lewis Co: Pierce WA 98433-

Property #: 21199920265

Status: Excess

Comment: 1600 sq. ft., needs repair, presence of asbestos/lead paint, most recent use—shelter, off-site use only.

3 Bldgs.

Fort Lewis

Ft. Lewis Co: Pierce WA 98433-

Location: U058A, U103A, U018A

Property #: 21199920266

Status: Excess

Comment: 36 sq. ft., needs repair, presence of asbestos/lead paint, most recent use—control tower, off-site use only.

Bldg. U059A

Fort Lewis

Ft. Lewis Co: Pierce WA 98433-

Property #: 21199920267

Status: Excess

Comment: 16 sq. ft., needs repair, presence of asbestos/lead paint, most recent use—tower, off-site use only.

Bldg. U093B

Fort Lewis

Ft. Lewis Co: Pierce WA 98433-

Property #: 21199920268

Status: Excess

Comment: 680 sq. ft., needs repair, presence of asbestos/lead paint, most recent use—range house, off-site use only.

4 Bldgs.

Fort Lewis

Ft. Lewis Co: Pierce WA 98433-

Property #: 21199920269

Status: Excess

Comment: 400 sq. ft., needs repair, presence of asbestos/lead paint, off-site use only.

Bldg. U102B

Fort Lewis

Ft. Lewis Co: Pierce WA 98433-

Property #: 21199920270

Status: Excess

Comment: 1058 sq. ft., needs repair, presence of asbestos/lead paint, most recent use—shelter, off-site use only.

Bldg. U108A

Fort Lewis

Ft. Lewis Co: Pierce WA 98433-

Property #: 21199920271

Status: Excess

Comment: 31,320 sq. ft., needs repair, presence of asbestos/lead paint, most recent use—line shed, off-site use only.

Bldg. U110B

Fort Lewis

Ft. Lewis Co: Pierce WA 98433-

Property #: 21199920272

Status: Excess

Comment: 138 sq. ft., needs repair, presence of asbestos/lead paint, most recent use—support, off-site use only.

6 Bldgs.

Fort Lewis

Ft. Lewis Co: Pierce WA 98433-

Location: U111A, U015A, U024E, U052F, U109A, U110A

Property #: 21199920273

Status: Excess

Comment: 1000 sq. ft., needs repair, presence of asbestos/lead paint, most recent use—support/shelter/mess, off-site use only.

Bldg. U112A

Fort Lewis

Ft. Lewis Co: Pierce WA 98433-

Property #: 21199920274

Status: Excess

Comment: 1600 sq. ft., needs repair, presence of asbestos/lead paint, most recent use—shelter, off-site use only.

Bldg. U115A

Fort Lewis

Ft. Lewis Co: Pierce WA 98433-

Property #: 21199920275

Status: Excess

Comment: 36 sq. ft., needs repair, presence of asbestos/lead paint, most recent use—tower, off-site use only.

Bldg. U507A

Fort Lewis

Ft. Lewis Co: Pierce WA 98433-

Property #: 21199920276

Status: Excess

Comment: 400 sq. ft., needs repair, presence of asbestos/lead paint, most recent use—support, off-site use only.

Bldg. U516B

Fort Lewis

Ft. Lewis Co: Pierce WA 98433-

Property #: 21199920277

Status: Excess

Comment: 5000 sq. ft., needs repair, presence of asbestos/lead paint, most recent use—shed, off-site use only.

Bldg. F0022A

Fort Lewis

Ft. Lewis Co: Pierce WA 98433-

Property #: 21199920279

Status: Excess

Comment: 4373 sq. ft., needs repair, presence of asbestos/lead paint, most recent use—gen. inst., off-site use only.

Bldg. F0022B

Fort Lewis

Ft. Lewis Co: Pierce WA 98433-

Property #: 21199920280

Status: Excess

Comment; 3100 sq. ft., needs repair, presence of asbestos/lead paint, most recent use—storage, off-site use only.

Bldg. C0120

Fort Lewis

Ft. Lewis Co: Pierce WA 98433-

Property #: 21199920281

Status: Excess

Comment: 384 sq. ft., needs repair, presence of asbestos/lead paint, most recent use—scale house, off-site use only.

Bldg. A0220

Fort Lewis

Fort Lewis Co: Pierce WA 98433-

Property #: 21199920282

Status: Excess

Comment: 2284 sq. ft., needs repair, presence of asbestos/lead paint, most recent use—club facility, off-site use only.

Bldg. A0334

Fort Lewis

Ft. Lewis Co: Pierce WA 98433-

Property #: 21199920284

Status: Excess

Comment: 1092 sq. ft., needs repair, presence of asbestos/lead paint, most recent use—sentry station, off-site use only.

12 Bldgs.

Fort Lewis

Ft. Lewis Co: Pierce WA 98433-

Location: C1002, C1003, C1006, C1007, C1022, C1023, C1026, C1027, C1207, C1301, C1333, C1334

Property #: 21199920287

Status: Excess

Comment: 2360 sq. ft., needs repair, presence of asbestos/lead paint, most recent use—barracks, off-site use only.

Bldg. D1154

Fort Lewis

Ft. Lewis Co: Pierce WA 98433-

Property #: 21199920289

Status: Excess

Comment: 1165 sq. ft., needs repair, presence of asbestos/lead paint, most recent use—day room, off-site use only.

Bldg. 01205

Fort Lewis

Ft. Lewis Co: Pierce WA 98433-

Property #: 21199920290

Status: Excess

Comment: 87 sq. ft., needs repair, presence of asbestos/lead paint, most recent use—storehouse, off-site use only.

Bldg. 01259

Fort Lewis

Ft. Lewis Co: Pierce WA 98433-

Property #: 21199920291

Status: Excess

Comment: 16 sq. ft., needs repair, presence of asbestos/lead paint, most recent use—storage, off-site use only.

Bldg. 01266

Fort Lewis

Ft. Lewis Co: Pierce WA 98433-

Property #: 21199920292

Status: Excess

Comment: 45 sq. ft., needs repair, presence of asbestos/lead paint, most recent use—shelter, off-site use only.

Bldg. 1445

Fort Lewis

Ft. Lewis Co: Pierce WA 98433-

Property #: 21199920294

Status: Excess

Comment: 144 sq. ft., needs repair, presence of asbestos/lead paint, most recent use—generator bldg., off-site use only.

Bldg. 02082

Fort Lewis

Ft. Lewis Co: Pierce WA 98433-

Property #: 21199920295

Status: Excess

Comment: 16 sq. ft., needs repair, presence of asbestos/lead paint, most recent use—storage, off-site use only.

Bldg. 03091, 03099

Fort Lewis

Ft. Lewis Co: Pierce WA 98433-

Property #: 21199920296

Status: Excess

Comment: various sq. ft., needs repair, presence of asbestos/lead paint, most recent use—sentry station, off-site use only.

Bldg. 03100, 3101

Fort Lewis

Ft. Lewis Co: Pierce WA 98433-

Property #: 21199920297

Status: Excess

Comment: various sq. ft., needs repair, presence of asbestos/lead paint, most recent use—storage, off-site use only.

Bldg. 4040

Fort Lewis

Ft. Lewis Co: Pierce WA 98433-

Property #: 21199920298

Status: Excess

Comment: 8326 sq. ft., needs repair, presence of asbestos/lead paint, most recent use—shed, off-site use only.

Bldg. 4072, 5104

Fort Lewis

Ft. Lewis Co: Pierce WA 98433-

Property #: 21199920299

Status: Excess

Comment: 24/36 sq. ft., needs repair, presence of asbestos/lead paint, off-site use only.

Bldg. 4295

Fort Lewis

Ft. Lewis Co: Pierce WA 98433-

Property #: 21199920300

Status: Excess

Comment: 48 sq. ft., needs repair, presence of asbestos/lead paint, most recent use—storage, off-site use only.

Bldg. 5170

Fort Lewis

Ft. Lewis Co: Pierce WA 98433-

Property #: 21199920301

Status: Excess

Comment: 19,411 sq. ft., needs repair, presence of asbestos/lead paint, most recent use—store, off-site use only.

Bldg. 6191

Fort Lewis

Ft. Lewis Co: Pierce WA 98433-

Property #: 21199920303

Status: Excess

Comment: 3663 sq. ft., needs repair, presence of asbestos/lead paint, most recent use—exchange branch, off-site use only.

Bldgs. 08076, 08080

Fort Lewis

Ft. Lewis Co: Pierce WA 98433-

Property #: 21199920304

Status: Excess

Comment: 3660/412 sq. ft., needs repair, presence of asbestos/lead paint, off-site use only.

Bldg. 08093

Fort Lewis

Ft. Lewis Co: Pierce WA 98433-

Property #: 21199920305

Status: Excess

Comment: 289 sq. ft., needs repair, presence of asbestos/lead paint, most recent use—boat storage, off-site use only.

Bldg. 8279

Fort Lewis

Ft. Lewis Co: Pierce WA 98433-

Property #: 21199920306

Status: Excess

Comment: 210 sq. ft., needs repair, presence of asbestos/lead paint, most recent use—fuel disp. fac., off-site use only.

Bldgs. 8280, 8291

Fort Lewis

Ft. Lewis Co: Pierce WA 98433-

Property #: 21199920307

Status: Excess

Comment: 800/464 sq. ft., needs repair, presence of asbestos/lead paint, most recent use—storage, off-site use only.

Bldg. 8956

Fort Lewis

Ft. Lewis Co: Pierce WA 98433-

Property #: 21199920308

Status: Excess

Comment: 100 sq. ft., needs repair, presence of asbestos/lead paint, most recent use—storage, off-site use only.

Bldg. 9530

Fort Lewis

Ft. Lewis Co: Pierce WA 98433-

Property #: 21199920309

Status: Excess

Comment: 64 sq. ft., needs repair, presence of asbestos/lead paint, most recent use—sentry station, off-site use only.

Bldg. 9574

Fort Lewis

Ft. Lewis Co: Pierce WA 98433-

Property #: 21199920310

Status: Excess

Comment: 6005 sq. ft., needs repair, presence of asbestos/lead paint, most recent use—veh. shop., off-site use only.

Bldg. 9596

Fort Lewis

Ft. Lewis Co: Pierce WA 98433-

Property #: 21199920311

Status: Excess

Comment: 36 sq. ft., needs repair, presence of asbestos/lead paint, most recent use—gas station, off-site use only.

Bldg. 9939

Fort Lewis

Ft. Lewis Co: Pierce WA 98433-

Property #: 21199920313

Status: Excess

Comment: 600 sq. ft., needs repair, presence of asbestos/lead paint, most recent use—recreation, off-site use only.

COE

Arkansas

Land

Parcel 01

DeGray Lake

Section 12

Arkadelphia Co: Clark AR 71923-9361

Property #: 31199010071

Status: Unutilized

Comment: 77.6 acres.

Parcel 02

DeGray Lake

Section 13

Arkadelphia Co: Clark AR 71923-9361

Property #: 31199010072

Status: Unutilized

Comment: 198.5 acres.

Parcel 03

DeGray Lake

Section 18

Arkadelphia Co: Clark AR 71923-9361

Property #: 31199010073

Status: Unutilized

Comment: 50.46 acres.

Parcel 04

DeGray Lake

Section 24, 25, 30 and 31

Arkadelphia Co: Clark AR 71923-9361

Property #: 31199010074

Status: Unutilized

Comment: 236.37 acres.

Parcel 05

DeGray Lake

Section 16

Arkadelphia Co: Clark AR 71923-9361

Property #: 31199010075

Status: Unutilized

Comment: 187.30 acres.

Parcel 06

DeGray Lake

Section 13

Arkadelphia Co: Clark AR 71923-9361

Property #: 31199010076

Status: Unutilized

Comment: 13.0 acres.

Parcel 07

DeGray Lake

Section 34

Arkadelphia Co: Hot Spring AR 71923-9361

Property #: 31199010077

Status: Unutilized

Comment: 0.27 acres.

Parcel 08

DeGray Lake

Section 13

Arkadelphia Co: Clark AR 71923-9361

Property #: 31199010078

Status: Unutilized

Comment: 14.6 acres.

Parcel 09

DeGray Lake

Section 12

Arkadelphia Co: Hot Spring AR 71923-9361

Property #: 31199010079

Status: Unutilized

Comment: 6.60 acres.

Parcel 10

DeGray Lake

Section 12

Arkadelphia Co: Hot Spring AR 71923-9361

Property #: 31199010080

Status: Unutilized

Comment: 4.5 acres.

Parcel 11

DeGray Lake

Section 19

Arkadelphia Co: Hot Spring AR 71923-9361

Property #: 31199010081

Status: Unutilized

Comment: 19.50 acres.

Lake Greeson

Section 7, 8 and 18

Murfreesboro Co: Pike AR 71958-9720

Property #: 31199010083

Status: Unutilized

Comment: 46 acres.

Kansas

Land

Parcel 1

El Dorado Lake

Section 13, 24, and 18

(See County) Co: Butler KS

Property #: 31199010064

Status: Unutilized

Comment: 61 acres; most recent use—recreation.

Kentucky

Building

Green River Lock & Dam #3

Rochester Co: Butler KY 42273-

Location: SR 70 west from Morgantown, KY., approximatley 7 miles to site.

Property #: 31199010022

Status: Unutilized

Comment: 980 sq. ft.; 2 story wood frame, two story residence; potential utiliites; needs major rehab.

Land

Tract 2625

Barkley Lake, Kentucky, and Tennessee

Cadiz Co: Trigg KY 42211-

Location: Adjoining the village of Rockcastle.

Property #: 31199010025

Status: Excess

Comment: 2.57 acreas; rolling and wooded.

Tract 2709-10 and 2710-2

Barkley Lake, Kentucky and Tennessee

Cadiz Co: Trigg KY 42211-

Location: 2½ miles in a southerly direction from the village of Rockcastle.

Property #: 31199010026

Status: Excess

Comment: 2.00 acres; steep and wooded.

Tract 2708-1 and 2709-1

Barkley Lake, Kentucky and Tennessee

Cadiz Co: Trigg KY 42211-

Location: 2½ miles in a southerly direction from the village of Rockcastle

Property #: 31199010027

Status: Excess

Comment: 3.59 acres; rolling and wooded; no utilities.

Tract 2800

Barkley Lake, Kentucky and Tennessee

Cadiz Co: Trigg KY 42211-

Location: 4½ miles in a southeasterly direction from the village of Rockcastle.

Property #: 31199010028

Status: Excess

Comment: 5.44 acres; steep and wooded.

Tract 2915

Barkley Lake, Kentucky and Tennessee

Cadiz Co: Trigg KY 42211-

Location: 6½ miles west of Cadiz.

Property #: 31199010029

Status: Excess

Comment: 5.76 acres; steep and wooded; no utilities.

Tract 2702

Barkley Lake, Kentucky and Tennessee

Cadiz Co: Trigg KY 42211—

Location: 1 mile in a southerly direction from the village of Rockcastle.

Property #: 31199010031

Status: Excess

Comment: 4.90 acres; wooded; no utilities.

Tract 4318

Barkley Lake, Kentucky and Tennessee

Canton Co: Trigg KY 42212—

Location: Trigg Co. adjoining the city of Canton, KY. on the waters of Hopson Creek.

Property #: 31199010032

Status: Excess

Comment: 8.24 acres; steep and wooded.

Tract 4502

Barkley Lake, Kentucky and Tennessee

Canton Co: Trigg KY 42212—

Location: 3½ mile in a southerly direction from Canton, KY.

Property #: 31199010033

Status: Excess

Comment: 4.26 acres; steep and wooded.

Tract 4611

Barkley Lake, Kentucky and Tennessee

Canton Co: Trigg KY 42212—

Location: 5 miles south of Canton, KY.

Property #: 31199010034

Status: Excess

Comment: 10.51 acres; steep and wooded; no utilities.

Tract 4619

Barkley Lake, Kentucky and Tennessee

Canton Co: Trigg KY 42212—

Location: 4½ miles south of Canton, KY.

Property #: 31199010035

Status: Excess

Comment: 2.02 acres; steep and wooded; no utilities.

Tract 4817

Barkley Lake, Kentucky and Tennessee

Canton Co: Trigg KY 42212—

Location: 6½ miles south of Canton, KY.

Property #: 31199010036

Status: Excess

Comment: 1.75 acres; wooded.

Tract 1217

Barkley Lake, Kentucky and Tennessee

Eddyville Co: Lyon KY 42030—

Location: On the north side of the Illinois Central Railroad.

Property #: 31199010042

Status: Excess

Comment: 5.80 acres; steep and wooded.

Tract 1906

Barkley Lake, Kentucky and Tennessee

Eddyville Co: Lyon KY 42030—

Location: Approximately 4 miles east of Eddyville, KY.

Property #: 31199010044

Status: Excess

Comment: 25.86 acres; rolling steep and partially wooded; no utilities.

Tract 1907

Barkley Lake, Kentucky and Tennessee

Eddyville Co: Lyon KY 42038—

Location: On the waters of Pilfen Creek, 4 miles east of Eddyville, KY.

Property #: 31199010045

Status: Excess

Comment: 8.71 acres; rolling steep and wooded; no utilities.

Tract 2001 #1

Barkley Lake, Kentucky and Tennessee

Eddyville Co: Lyon KY 42030—

Location: Approximately 4½ miles east of Eddyville, KY.

Property #: 31199010046

Status: Excess

Comment: 47.42 acres; steep and wooded; no utilities.

Tract 2001 #2

Barkley Lake, Kentucky and Tennessee

Eddyville Co: Lyon KY 42030—

Location: Approximately 4½ miles east of Eddyville, KY.

Property #: 31199010047

Status: Excess

Comment: 8.64 acres; steep and wooded; no utilities.

Tract 2005

Barkley Lake, Kentucky and Tennessee

Eddyville Co: Lyon KY 42030—

Location: Approximately 5½ miles east of Eddyville, KY.

Property #: 31199010048

Status: Excess

Comment: 4.62 acres; steep and wooded; no utilities.

Tract 2307

Barkley Lake, Kentucky and Tennessee

Eddyville Co: Lyon KY 42030—

Location: Approximately 7½ miles southeasterly of Eddyville, KY.

Property #: 31199010049

Status: Excess

Comment: 11.43 acres; steep; rolling and wooded; no utilities.

Tract 2403

Barkley Lake, Kentucky and Tennessee

Eddyville Co: Lyon KY 42030—

Location: 7 miles southeasterly of Eddyville, KY.

Property #: 31199010050

Status: Excess

Comment: 1.56 acres; steep and wooded; no utilities.

Tract 2504

Barkley Lake, Kentucky and Tennessee

Eddyville Co: Lyon KY 42030—

Location: 9 miles southeasterly of Eddyville, KY.

Property #: 31199010051

Status: Excess

Comment: 24.46 acres; steep and wooded; no utilities.

Tract 214

Barkley Lake, Kentucky and Tennessee

Grand Rivers Co: Lyon KY 42045—

Location: South of the Illinois Central Railroad, 1 mile east of the Cumberland River.

Property #: 31199010052

Status: Excess

Comment: 5.5 acres; wooded; no utilities.

Tract 215

Barkley Lake, Kentucky and Tennessee

Grand Rivers Co: Lyon KY 42045-

Location: 5 miles southwest of Kuttawa

Property #: 31199010053

Status: Excess

Comment: 1.40 acres; wooded; no utilities.

Tract 241

Barkley Lake, Kentucky and Tennessee

Grand Rivers Co: Lyon KY 42045-

Location: Old Henson Ferry Road, 6 miles west of Kuttawa, KY.

Property #: 31199010054

Status: Excess

Comment: 1.26 acres; steep and wooded; no utilities.

Tracts 306, 311, 315 and 325

Barkley Lake, Kentucky and Tennessee

Grand Rivers Co: Lyon KY 42045-

Location: 2.5 miles southwest of Kuttawa, KY. on the waters of Cypress Creek.

Property #: 31199010055

Status: Excess

Comment: 38.77 acres; steep and wooded; no utilities.

Tracts 2305, 2306, and 2400-1

Barkley Lake, Kentucky and Tennessee

Location: 6½ miles southeasterly of Eddyville, KY.

Property #: 31199010056

Status: Excess

Comment: 97.66 acres; steep rolling and wooded; no utilities.

Tracts 5203 and 5204

Barkley Lake, Kentucky and Tennessee

Linton Co: Trigg KY 42212-

Location: Village of Linton, KY state highway 1254.

Property #: 31199010058

Status: Excess

Comment: 0.93 acres; rolling, partially wooded; no utilities.

Tract 5240

Barkley Lake, Kentucky and Tennessee

Linton Co: Trigg KY 42212-

Location: 1 mile northwest of Linton, KY.

Property #: 31199010059

Status: Excess

Comment: 2.26 acres; steep and wooded; no utilities.

Tract 4628

Barkley Lake, Kentucky and Tennessee

Canton Co: Trigg KY 42212-

Location: 4½ mile south from Canton, KY.

Property #: 31199011621

Status: Excess

Comment: 3.71 acres; steep and wooded; subject to utility easements.

Tract 4619-B

Barkley Lake, Kentucky and Tennessee

Canton Co: Trigg KY 42212-

Location: 4½ miles south from Canton, KY.

Property #: 31199011622

Status: Excess

Comment: 1.73 acres; steep and wooded; subject to utility easements.

Tract 2403-B

Barkley Lake, Kentucky and Tennessee

Eddyville Co: Lyon KY 42038-

Location: 7 miles southeasterly from Eddyville, KY.

Property #: 31199011623

Status: Unutilized

Comment: 0.70 acres, wooded; subject to utility easements.

Tract 241-B

Barkley Lake, Kentucky and Tennessee

Grand Rivers Co: Lyon KY 42045-

Location: South of Old Henson FerryRoad, 6 miles west of Kuttawa, KY.

Property #: 31199011624

Status: Excess

Comment: 11.16 acres; steep and wooded; subject to utility easements.

Tracts 212 and 237

Barkley Lake, Kentucky and Tennessee

Grand Rivers Co: Lyon KY 42045-

Location: Old Henson Ferry Road, 6 miles west of Kuttawa, KY.

Property #: 31199011625

Status: Excess

Comment: 2.44 acres; steep and wooded; subject to utility easements.

Tract 215-B

Barkley Lake, Kentucky and Tennessee

Grand Rivers Co: Lyon KY 42045-

Location: 5 miles southwest of Kuttawa

Property #: 31199011626

Status: Excess

Comment: 1.00 acres; wooded; subject to utility easements.

Tract 233

Barkley Lake, Kentucky and Tennessee

Grand Rivers Co: Lyon KY 42045-

Location: 5 miles southwest of Kuttawa

Property #: 31199011627

Status: Excess

Comment: 1.00 acres; wooded; subject to utility easements.

Tract N-819

Dale Hollow Lake & Dam Project

Illwill Creek, Hwy 90

Hobart Co: Clinton KY 42601-

Property #: 31199140009

Status: Underutilized

Comment: 91 acres, most recent use—hunting, subject to existing easements.

Portion of Lock & Dam No. 1

Kentucky River

Carrolton Co: Carroll KY 41008-0305

Property #: 31199320003

Status: Unutilized

Comment: approx. 3.5 acres (sloping), access monitored.

Louisiana Land

Wallace Lake Dam and Reservoir

Shreveport Co: Caddo LA 71103-

Property #: 31199011009

Status: Unutilized

Comment: 10.81 acres; wildlife/forestry; no utilities.

Bayou Bodcau Dam and Reservoir

Haughton Co: Caddo LA 71037-9707

Location: 35 miles Northeast of Shreveport, La.

Property #: 31199011010

Status: Unutilized

Comment: 203 acres; wildlife/forestry; no utilities.

Massachusetts Building

Storage Bldg.

Knightville Dam Road

Huntington Co: Hampshire MA 01050-

Property #: 31200030005

Status: Unutilized

Comment: 480 sq. ft., needs rehab, off-site use only.

Mississippi Land

Parcel 7

Grenada Lake

Sections 22, 23, T24N

Grenada Co: Yalobusha MS 38901-0903

Property #: 31199011019

Status: Underutilized

Comment: 100 acres; no utilities; intermittently used under lease—expires 1994.

Parcel 8

Grenada Lake

Section 20, T24N

Grenada Co: Yalobusha MS 38901-0903

Property #: 31199011020

Status: Underutilized

Comment: 30 acres; no utilities; intermittently used under lease—expires 1994.

Parcel 9

Grenada Lake

Section 20, T24N, R7E

Grenada Co: Yalobusha MS 38901-0903

Property #: 31199011021

Status: Underutilized

Comment: 23 acres; no utilities; intermittently used under lease—expires 1994.

Parcel 10

Grenada Lake

Sections 16, 17, 18 T24N R8E

Grenada Co: Calhoun MS 38901-0903

Property #: 31100011022

Status: Underutilized

Comment: 490 acres; no utilities; intermittently used under lease—expires 1994.

Parcel 2

Grenada Lake

Section 20 and T23N, R5E

Grenada Co: Grenada MS 38901-0903

Property #: 31199011023

Status: Underutilized

Comment: 60 acres; no utilities; most recent use—wildlife and forestry management.

Parcel 3

Grenada Lake

Section 4, T23N, R5E

Grenada Co: Yalobusha MS 38901-0903

Property #: 31199011024

Status: Underutilized

Comment: 120 acres; no utilities; most recent use—wildlife and forestry management; (13.5 acres/agriculture lease).

Parcel 4

Grenada Lake

Section 2, T23N, R5E

Grenada Co: Yalobusha MS 38901-0903

Property #: 31199011025

Status: Underutilized

Comment: 60 acres; no utilities; most recent use—wildlife and forestry management.

Parcel 5

Grenada Lake

Section 7, T24N, R6E

Grenada Co: Yalobusha MS 38901-0903

Property #: 31199011026

Status: Underutilized

Comment: 20 acres; no utilities; most recent use—wildlife and forestry management; (14 acres/agriculture lease).

Parcel 6

Grenada Lake

Section 9, T24N, R6E

Grenada Co: Yalobusha MS 38901-0903

Property #: 31199011027

Status: Underutilized

Comment: 80 acres; no utilities; most recent use—wildlife and forestry management.

Parcel 11

Grenada Lake

Section 20, T24N, R8E

Grenada Co: Calhoun MS 38901-0903

Property #: 31199011028

Status: Underutilized

Comment: 30 acres; no utilities; most recent use—wildlife and forestry management.

Parcel 12

Grenada Lake

Section 25, T24N, R7E

Grenada Co: Yalobusha MS 38901-0903

Property #: 31199011029

Status: Underutilized

Comment: 30 acres; no utilities; most recent use—wildlife and forestry management.

Parcel 13

Grenada Lake

Section 34, T24N, R7E

Grenada Co: Yalobusha MS 38901-0903

Property #: 31199011030

Status: Underutilized

Comment: 35 acres; no utilities; most recent use—wildlife and forestry management; (11 acres/agriculture lease).

Parcel 14

Grenada Lake

Section 3, T23N, R6E

Grenada Co: Yalobusha MS 38901-0903

Property #: 31199011031

Status: Underutilized

Comment: 15 acres; no utilities; most recent use—wildlife and forestry management.

Parcel 15

Grenada Lake

Section 4, T24N, R6E

Grenada Co: Yalobusha MS 38901-0903

Property #: 31199011032

Status: Underutilized

Comment: 40 acres; no utilities; most recent use—wildlife and forestry management.

Parcel 16

Grenada Lake

Section 9, T23N, R6E

Grenada Co: Yalobusha MS 38901-0903

Property #: 31199011033

Status: Underutilized

Comment: 70 acres; no utilities; most recent use—wildlife and forestry management.

Parcel 17

Grenada Lake

Section 17, T23N, R7E

Grenada Co: Grenada MS 28901-0903

Property #: 31199011034

Status: Underutilized

Comment: 35 acres; no utilities; most recent use—wildlife and forestry management.

Parcel 18

Grenada Lake

Section 22, T23N, R7E

Grenada Co: Grenada MS 28902-0903

Property #: 31199011035

Status: Underutilized

Comment: 10 acres; no utilities; most recent use—wildlife and forestry management.

Parcel 19

Grenada Lake

Section 9, T22N, R7E/Grenada Co: Grenada MS 38901-0903

Property #: 31199011036

Status: Underutilized

Comment: 20 acres; no utilities; most recent use—wildlife and forestry management.

Missouri

Land

Harry S Truman Dam & Reservoir

Warsaw Co: Benton MO 65355-

Location: Triangular shaped parcel southwest of access road “B”, part of Bledsoe Ferry Park Tract 150.

Property #: 31199030014

Status: Underutilized

Comment: 1.7 acres; potential utilities.

Montana

Building

Bldg. 1

Butte Natl Guard

Butte Co: Silverbow MT 59701-

Property #: 31200040010

Status: Unutilized

Comment: 22799 sq. ft., presence of asbestos, most recent use—cold storage, off-site use only

Bldg. 2

Butte Natl Guard

Butte Co: Silverbow MT 59701-

Property #: 31200040011

Status: Unutilized

Comment: 3292 sq. ft., most recent use—cold storage, off-site use only

Bldg. 3

Butte Natl Guard

Butte Co: Silverbow MT 59701-

Property #: 31200040012

Status: Unutilized

Comment: 964 sq. ft., most recent use—cold storage, off-site use only

Bldg. 4

Butte Natl Guard

Butte Co: Silverbow MT 59701-

Property #: 31200040013

Status: Unutilized

Comment: 72 sq. ft., most recent use—cold storage, off-site use only

Bldg. 5

Butte Natl Guard

Butte Co: Silverbow MT 59701-

Property #: 31200040014

Status: Unutilized

Comment: 1286 sq. ft., most recent use—cold storage, off-site use only

North Dakota

Building

Office Bldg.

3rd & Main

Ft. Yates Co: Sioux ND 58538-

Property #: 31200020001

Status: Unutilized

Comment: 1200 sq. ft., 2-story wood, off-site use only

Ohio

Building

Barker Historic House

Willow Island Locks and Dam

Newport Co: Washington OH 45768-9801

Location: Located at lock site, downstream of lock and dam structure

Property #: 31199120018

Status: Unutilized

Comment: 1600 sq. ft. bldg. with ½ acre of land, 2 story brick frame, needs rehab, on Natl Register of Historic Places, no utilities, off-site use only

Oklahoma

Land

Pine Creek Lake

Section 27

(See County) Co: McCurtain OK

Property #: 31199010923

Status: Unutilized

Comment: 3 acres; no utilities; subject to right of way for Oklahoma State Highway 3.

Pennsylvania

Building

Mahoning Creek Reservoir

New Bethlehem Co: Armstrong PA 16242-

Property #: 3119921008

Status: Unutilized

Comment: 1015 sq. ft., 2 story brick residence, off-site use only.

Dwelling

Lock & Dam 6, Allegheny

River, 1260 River Rd.

Freeport Co: Armstrong PA 16229-2023

Property #: 31199620008

Status: Unutilized

Comment: 2652 sq. ft., 3-story brick house, in close proximity to Lock and Dam, available for interim use for nonresidential purposes.

Govt. Dwelling

Youghiogheny River Lake

Confluence Co: Fayette PA 15424-9103

Property #: 31199640002

Status: Unutilized

Comment: 1421 sq. ft., 2-story brick w/basement, most recent use—residential.

Dwelling

Lock & Dam 4, Allegheny River

Natrona Co: Allegheny PA 15065-2609

Property #: 31199640009

Status: Unutilized

Comment: 1664 sq. ft. 2-story brick residence, needs repair, off-site use only.

Dwelling #1

Crooked Creek Lake

Ford City Co: Armstrong PA 16226-8815

Property #: 31199740002

Status: Excess

Comment: 2030 sq. ft. most recent use—residential, good condition, off-site use only.

Dwelling #2

Crooked Creek Lake

Ford City Co: Armstrong PA 16226-8815

Property #: 31199740003

Status: Excess

Comment: 3045 sq. ft. most recent use—residential, good condition, off-site use only.

Govt. Dwelling

East Branch Lake

Wilcox Co: Elk PA 15870-9709

Property #: 31199740005

Status: Underutilized

Comment: approx. 5299 sq. ft., 1-story, most recent use—residence, off-site use only.

Dwelling #1

Loyalhanna Lake

Saltsburg Co: Westmoreland PA 15681-9302

Property #: 31199740006

Status: Excess

Comment: 1996 sq. ft., most recent use—residential, good condition, off-site use only.

Dwelling #2

Loyalhanna Lake

Saltsburg Co: Westmoreland PA 15681-9302

Property #: 31199740007

Status: Excess

Comment: 1996 sq. ft., most recent use—residential, good condition, off-site use only.

Dwelling #1

Saegertown Co: Crawford PA 16433-0629

Property #: 31199740008

Status: Excess

Comment: 2106 sq. ft., most recent use—residential, good condition, off-site use only.

Dwelling #2

Lock & Dam 6, 1260 River Road

Freeport Co: Armstrong PA 16229-2023

Property #: 31199740009

Status: Excess

Comment: 2652 sq. ft., most recent use—residential, good condition, off-site use only.

Dwelling #2

Youghiogheny River Lake

Confluence Co: Fayette PA 15424-9103

Property #: 31199830003

Status: Excess

Comment: 1421 sq. ft., 2-story + basement, most recent use—residential.

Residence/Office

Cowanesque Lake Project

Lawrenceville Co: Tioga PA 16929-

Property #: 31199940002

Status: Unutilized

Comment: 1653 sq. ft., residence, and 2,640 sq. ft. storage bldg., need major repairs, no operating sanitary facilities.

Land

Mahoning Creek Lake

New Bethlehem Co: Armstrong PA 16242-9603

Location: Route 28 north to Belknap, Road #4

Property #: 31199010018

Status: Excess

Comment: 2.58 acres; steep and densely wooded.

Tracts 610, 611, 612

Shenango River Lake

Sharpsville Co: Mercer PA 16150-

Location: I-79 North, I-80 West, Exit Sharon. R18 North 4 miles, left on R518, right on Mercer Avenue.

Property #: 31199011001

Status; Excess

Comment; 24.09 acres; subject to flowage easement.

Tracts L24, L26

Crooked Creek Lake

Co: Armstrong PA 03051-

Location: Left bank—55 miles downstream of dam.

Property #: 31199011011

Status: Unutilized

Comment: 7.59 acres; potential for utilities.

Portion of Tract L-21A

Crooked Creek Lake, LR 03051

Ford City Co: Armstrong PA 16226-

Property #: 31199430012

Status: Unutilized

Comment: Approximately 1.72 acres of undeveloped land, subject to gas rights.

Portion of Tract 119

State Rt 969

Curwensville Co: Clearfield PA 16833-

Property #: 31200010005

Status: Unutilized

Comment: approx. 17 acres, hilly wooded terrain.

Tennessee

Land

Tract 6827

Barkley Lake

Dover Co: Stewart TN 37058-

Location: 2½ miles west of Dover, TN.

Property #: 31199010927

Status: Excess

Comment: .57 acres; subject to existing easements.

Tracts 6002-2 and 6010

Barkley Lake

Dover Co: Stewart TN 37058-

Location: 3½ miles south of village of Tabaccoport.

Property #: 31199010928

Status: Excess

Comment: 100.86 acres; subject to existing easements.

Tract 11516

Barkley Lake

Ashland City Co: Dickson TN 37015-

Location: ½ mile downstream from Cheatham Dam

Property #: 31199010929

Status: Excess

Comment: 26.25 acres; subject to existing easements.

Tract 2319

J. Percy Priest Dam and Reservoir

Murfreesboro Co: Rutherford TN 37130-

Location: West of Buckeye Bottom Road

Property #: 31199010930

Status: Excess

Comment: 14.48 acres; subject to existing easements.

Tract 2227

J. Percy Priest Dam and Reservoir

Murfreesboro Co: Rutherford TN 37130-

Location: Old Jefferson Pike

Property #: 31199010931

Status: Excess

Comment: 2.27 acres; subject to existing easements.

Tract 2107

J. Percy Priest Dam and Reservoir

Murfreesboro Co: Rutherford TN 37130-

Location: Across Fall Creek near Fall Creek camping area.

Property #: 31199010932

Status: Excess

Comment: 14.85 acres; subject to existing easements.

Tracts 2601, 2602, 2603, 2604

Cordell Hull Lake and Dam Project

Doe Row Creek

Gainesboro Co: Jackson TN 38562-

Location: TN Highway 56

Property #: 31199010933

Status: Unutilized

Comment: 11 acres; subject to existing easements.

Tract 1911

J. Percy Priest Dam and Reservoir

Murfreesboro Co: Rutherford TN 37130-

Location: East of Lamar Road

Property #: 31199010934

Status: Excess

Comment: 6.92 acres; subject to existing easements.

Tract 2321

J. Percy Priest Dam and Reservoir

Murfreesboro Co: Rutherford TN 37130-

Location: South of Old Jefferson Pike

Property #: 31199010935

Status: Excess

Comment: 12 acres; subject to existing easements.

Tract 7206

Barkley Lake

Dover Co: Stewart TN 37058-

Location: 2½ miles SE of Dover, TN.

Property #: 31199010936

Status: Excess

Comment: 10.15 acres; subject to existing easements.

Tracts 8813, 8814

Barkely Lake

Cumberland Co: Stewart TN 37050—

Location: 1½ miles East of Cumberland City.

Property #: 31199010937

Status: Excess

Comment: 96 acres; subject to existing easements.

Tracts 8911

Brakely Lake

Cumberland City Co: Montgomery TN 37050—

Location: 4 miles east of Cumberland City.

Property #: 31199010938

Status: Excess

Comment: 7.7 acres; subject to existing easements.

Tracts 11503

Barkely Lake

Ashland City Co: Cheatham TN 37015—

Location: 2 miles downstream from Cheatham Dam.

Property #: 31199010939

Status: Excess

Comment: 1.1 acres; subject to existing easements.

Tracts 11523, 11524

Barkely Lake

Ashland City Co: Cheatham TN 37015—

Location: 2½ miles downstream from Cheatham Dam.

Property #: 31199010940

Status: Excess

Comment: 19.5 acres; subject to existing easements.

Tracts 6410

Barkely Lake

Bumpus Mills Co: Stewart TN 37028—

Location: 4½ miles SW. of Bumpus Mills

Property #: 31199010941

Status: Excess

Comment: 17 acres; subject to existing easements.

Tracts 9707

Barkely Lake

Palmyer Co: Montgomery TN 37142—

Location: 3 miles NE of Palmyer, TN. Highway 149

Property #: 31199010943

Status: Excess

Comment: 6.6 acres; subject to existing easements.

Tracts 6949

Barkely Lake

Dover Co: Stewart TN 37058—

Location: 1½ miles SE of Dover, TN.

Property #: 31199010944

Status: Excess

Comment: 29.67 acres; subject to existing easements.

Tracts 6005 and 6017

Barkely Lake

Dover Co: Stewart TN 37058—

Location: 3 miles south of Village of Tabaccoport.

Property #: 31199011173

Status: Excess

Comment: 5 acres; subject to existing easements.

Tracts K-1191, K-1135

Old Hickory Lock and Dam

Hartsville Co: Trousdale TN 37074—

Property #: 31199130007

Status: Underutilized

Comment: 54 acres; (portion in floodway), most recent use—recreation

Tracts A-102

Dale Hollow Lake & Dam Project

Canoe Ridge, State Hwy 52

Celina Co: Clay TN 38551-

Property #: 311991400006

Status: Underutilized

Comment: 351 acres; most use—hunting, subject to existing easements.

Tracts A-120

Dale Hollow Lake & Dam Project

Swann Ridge, State Hwy No. 53

Celina Co: Clay TN 38551-

Property #: 31199140007

Status: underutilized

Comment: 883 acres; most recent use-hunting, subject to existing easements.

Tracts D-185

Dale Hollow Lake & Dam Project

Ashburn Creek, Hwy No. 53

Livingston Co: Clay TN 38570-

Property #: 31199140010

Status: Underutilized

Comment: 97 acres; must recent use—hunting, subject to existing easements.

Virginia

Building

Metal Bldg.

John H. Kerr Dam & Reservior

Co: Boydton VA

Property #: 31199620009

Status: Excess

Comment: 800 sq. ft., most recent use—storage, off-site use only

Wisconsin

Building

Former Lockmaster's Dwelling

Cedar Locks

4527 East Wisconsin Road

Appleton Co: Outagamie WI 54911-

Property #: 31199011524

Status: Unutilized

Comment: 1224 sq. ft.; 2 story wood frame residence; needs rehab; secured area with alternate access.

Former Lockmaster's Dwelling

Appleton 4th Lock

905 South Lowe Street

Appleton Co: Outagamie WI 54911-

Property #: 31199011525

Status: Unutilized

Comment: 908 sq. ft.; 2 story wood frame residence; needs rehab.

Former Lockmaster's Dwelling

Kaukauna 1st Lock

301 Canal Street

Kaukauna Co: Outagamie WI 54131-

Property #: 31199011527

Status: Unutilized

Comment: 1290 sq. ft.; 2 story wood frame residence; needs rehab; secured area with alternate access.

Former Lockmaster's Dwelling

Appleton 1st Lock

905 South Oneida Street

Appleton Co: Outagamie WI 54911-

Property #: 31199011531

Status: Unutilized

Comment: 1300 sq. ft.; potential utilities 2 story wood frame residence; needs rehab; secured area with alternate access.

Former Lockmaster's Dwelling

Rapid Croche Lock

Lock Road

Wrightstown Co: Outagamie WI 54180-

Location: 3 miles southwest of intersection State Highway 96 and Canal Road.

Property #: 31199011533

Status: Unutilized

Comment: 1952 sq. ft.; 2 story wood frame residence; potential utilities; needs rehab.

Former Lockmaster's Dwelling

Little KauKauna Lock

Little KauKauna

Lawrence Co: Brown WI 54130-

Property #: 31199011535

Status: Unutilized

Location: 2 miles southeasterly from intersection of Lost Dauphin Road (County Trunk Highway “D”) and River Street.

Comment: 1224 sq. ft.; 2 story brick/wood frame residence; needs rehab.

Former Lockmaster's Dwelling

Little Chute, 2nd Lock

214 Mill Street

Little Chute Co: Outagamie WI 54140-

Property #: 31199011536

Status: Unutilized

Comment: 1224 sq. ft.; 2 story brick/wood frame residence; potential utilities; needs rehab; secured area with alternate access.

Energy

Idaho

Building

Bldg. CF603

Idaho Natl Eng & Env Lab

Scoville Co: Butte ID 83415-

Property #: 41200020004

Status: Excess

Comment: 15,005 sq ft. cinder block, presence of asbestos/lead paint, major rehab, off-site use only.

CPP657, CPP669, CPP686

Idaho Natl Eng & Env Lab

Scoville Co: Butte ID 83415-

Property #: 412000110001

Status: Excess

Comment: 8000 sq ft. bldgs. connected, possible asbestos/lead paint, most recent use—offices, off-site use only.

GSA

Alaska

Land

05.5 acres

Harding Lake Recreation Site

Richardson Highway

Salcha Co: AK 99714-

Property #: 54200130001

Status: Underutilized

Comment: no utilities, zoned for outdoor recreation

GSA Number: 9-D-AK-768-1

Illinois

Building

Milo Comm. Tower Site

350 N. Rt. 8

Milo Co: Bureau IL 56142-

Property #: 54200020018

Status: Excess

Comment: 120 sq. ft. cinder block bldg.

GSA Number: 1-D-IL-795

LaSalle Comm. Tower Site

1600 NE 8th St.

Richland Co: LaSalle IL 61370-

Property #: 54200020019

Status: Excess

Comment: 120 sq. ft. cinder block bldg. and a 300′ tower.

GSA Number: 1-D-IL-724

Maryland

Building

Stillpond Housing

521 Round Top Road

Chestertown Co: Queen Anne's MD 21620-

Property #: 54200020013

Status: Excess

Comment: 1000 sq. ft., most recent use—residential.

GSA Number: 4-U-MD-603

Stillpond Housing

131 Fairview Drive

Chestertown Co: Queen Ann's MD 21620-

Property #: 54200140014

Status: Excess

Comment: 1000 sq. ft., most recent use—residential.

GSA Number: 4-U-MD-603

Stillpond Housing

100 Farwell Road

Chestertown Co: Queen Ann's MD 21620-

Property #: 54200140015

Status: Excess

Comment: 1000 sq. ft., most recent use—residential, presence of lead paint.

GSA Number: 4-U-MD-603

Stillpond Housing

115 Rolling Road

Chestertown Co: Kent MD 21620-

Property #: 54200140016

Status: Excess

Comment: 750 sq. ft., most recent use—residential.

GSA Number: 4-U-MD-603

Stillpond Housing

303 Oriole Road

Chestertown Co: Queen Ann's MD 21620-

Property #: 54200140017

Status: Excess

Comment: 1000 sq. ft., most recent use—residential, presence of lead paint.

GSA Number: 4-U-MD-603

Stillpond Housing

213 Manor Avenue

Chestertown Co: Kent MD 21620-

Property #: 54200140018

Status: Excess

Comment: 750 sq. ft., most recent use—residential.

GSA Number: 4-U-MD-603

Massachusetts

Building

Aircraft Hanger

Hanscom Air Force Base

Concord Co: MA

Property #: 54200140007

Status: Excess

Comment: 40,000 sq. ft., off-site use only, relocating property may not be feasible.

GSA Number: 1-D-MA-0857679

Minnesota

Building

GAP Filler Radar Site

St. Paul Co: Rice MN 55101-

Property #: 54199910009

Status: Excess

Comment: 1266 sq. ft., concrete block, presence of asbestos/lead paint, most recent use—storage, zoning requirements, preparations for a Phase I study underway, possible underground storage tank.

GSA Number: 1-GR(1)-MN-475

Missouri

Land

Improved Land

St. Louis Army Ammunition Plant

4800 Goodfellow Blvd.

St. Louis Co: MO 63120-1798

Property #: 54200110007

Status: Surplus

Comment: 21 acres w/2 large bldgs. and numerous small bldgs. situated on 13 acres, 5 acres = parking lot and streets, presence of asbestos/lead paint, clean-up required to state regulator standards.

GSA Number: 000000

New York

Building

“Terry Hill”

County Road 51

Manorville NY

Property #: 54199830008

Status: Surplus

Comment: 2 block structures, 780/272 sq. ft., no sanitary facilities, most recent use—storage/comm. facility, w/6.19 acres in fee and 4.99 acre easement, remote area.

GSA Number: 1-D-NY-864

Binghampton Depot

Nolans Road

Binghampton Co: NY 00000-

Property #: 54199910015

Status: Excess

Comment: 45,977 sq. ft., needs repair, presence of asbestos, most recent use—office.

GSA Number: 1-G-NY-760A

Lockport Comm. Facility Annex

6625 Shawnee Road

Wheatfield Co: NY 14120-

Property #: 54200120009

Status: Excess

Comment: 3334 sq. ft., presence of asbestos, most recent use—admin/storage.

GSA Number: 1-D-NY-885

ROVA NHS Laboratory

4097 Albany Post Road

Hyde Park Co: NY 12538-

Property #: 54200140008

Status: Excess

Comment: 2491 sq. ft., pre-engineered metal, most recent use—lab/storage, off-site use only.

GSA Number: 1-I-NY-891

North Dakota

Building

Storage Bldg.

117 W. Main St.

Bismarck Co: Burleigh ND 58501-

Property #: 54200140009

Status: Surplus

Comment: 3200 sq. ft., most recent use—storage, eligible for listing on the Natl Register for Historic Places.

GSA Number: 7-G-ND-0406

Ohio

Land

Licking County Tower Site

Summit & Haven Corner Rds.

Pataskala Co: Licking OH 43062-

Property #: 54200020021

Status: Excess

Comment: Parcel 100 = 3.67 acres, Parcel 100E = 0.57 acres.

GSA Number: 1-W-OH-813

Puerto Rico

Land

Bahia Rear Range Light

Ocean Drive

Catano Co: PR 00632-

Property #: 54199940003

Status: Excess

Comment: 0.167 w/skeletal tower, fenced, aid to navigation.

GSA Number: 1-T-PR-508

Texas

Building

Federal Courthouse

521 Starr Street

Corpus Christi Co: Nueces TX 78401-

Property #: 54200140011

Status: Excess

Comment: 6000 sq. ft., needs maintenance, eligible for Natl Register of Historic Places.

GSA Number: 7-G-TX-1049

Washington

Building

Clarkston USARC

721 Sixth St.

Clarkston Co: Asotin WA

Property #: 54200140003

Status: Excess

Comment: total approx. 5043 sq. ft., presence of asbestos, most recent use—military reserve center/office.

GSA Number: 9-D-WA-1196

Interior

Arizona

Land

WC-1-2c & WC-1-2F

Range 1 East

Peoria Co: Maricopa AZ 85382-

Property #: 61200140007

Status: Excess

Comment: 10 acres, portion of parcels, remote location, no utilities.

California

Building

Bldg. 4151

8006 Bill's Hill

Yosemite Co: Mariposa CA 95389-

Property #: 61200130001

Status: Unutilized

Comment: 560 sq. ft., seasonal housing, presence of lead paint, off-site use only.

Bldg. 2317

2123 Enderts Beach Rd.

Crescent City Co: Del Norte CA 95531-

Property #: 61200130002

Status: Excess

Comment: 1100 sq. ft., poor condition, most recent use—residence, off-site use only.

Bldg. 2318

2123 Enderts Beach Rd.

Crescent City Co: Del Norte CA 95531-

Property #: 61200130003

Status: Excess

Comment: 150 sq. ft., off-site use only.

Idaho

Building

Ditchrider House

25822 Middleton Rd.

Middleton Co: Canyon ID 83644-

Property #: 61200140006

Status: Unutilized

Comment: 832 sq. ft. residence, needs rehab, off-site. only.

Mississippi

Building

Quarters #162

Natchez Trace Pkwy

162 Trace Circle

Ridgeland Co: Madison MS 39157-

Property #: 61200110001

Status: Excess

Comment: 1121 sq. ft., presence of asbestos, most recent use—residential, off-site use only.

Quarters #167

Natcher Trace Pkwy

Rt. 1, Box 46A

Port Gibson Co: Claiborne MS 39150-

Property #: 61200110002

Status: Excess

Comment: 1415 sq. ft., presence of asbestos, most recent use—residential, off-site use only.

Quarters #257

Natchez Trace Pkwy

Star Route Box 14

Carlisle Co: Claiborne MS 39049-

Property #: 61200110003

Status: Excess

Comment: 1415 sq. ft., presence of asbestos, most recent use—residential, off-site use only.

Quarters #182

182 Natchez Trace Pkwy

Kosciusko Co: Atalla MS 39090-

Property #: 61200110004

Status: Excess

Comment: 1121 sq. ft., presence of asbestos, most recent use—residential, off-site use only.

Bldg. #197

Natchez Trace Pkwy

Rt. 1

Mantee Co: Chickasaw MS 39751-

Property #: 61200110005

Status: Excess

Comment: 1121 sq. ft., presence of asbestos, most recent use—residential, off-site use only.

Nevada

Building

6 Cabins

#70, 14, 24, 5, 2, 21

Lake Meade, 601 Nevada

Highway

Boulder Co: NV 89005-

Property #: 61200130011

Status: Unutilized

Comment: Vacation cabins, remote location, entrance fee required, presence of asbestos, off-site use only.

New Mexico

Building

Tract #101-23

Blair Property

Aztec Ruins Natl Monument

Aztec Co: San Juan NM 87410-

Location: Mobile Home, 604 Ruins Rd.

Property #: 61200120024

Status: Excess

Comment: 14 x 70 sq. ft., most recent use—residential, off-site use only.

Tract #101-23

Blair Property

Aztec Ruins Natl Monument

Aztec Co: San Juan NM 87410-

Location: Manu. house, 604 Ruins Rd.

Property #: 61200120025

Status: Excess

Comment: 1344 sq. ft., most recent use—residential, off-site use only.

Tract 101-11

Randack Property

Aztec Ruins Natl Monument

Aztec Co: San Juan NM 87410-9715

Location: Mobile home, #84 County Road

Property #: 61200120026

Status: Excess

Comment: 1064 sq. ft., most recent use—residence, off-site use only.

Tennessee

Building

Quarters #169

Natchez Track Pkwy

222 Meriwether Lewis Rd.

Hohenwald Co: Lewis TN 38462-

Property #: 61200110006

Status: Excess

Comment: 1121 sq. ft., presence of absestos, most recent use—residential, off-site use only.

Texas

Building

Tract No. 104-44

8918 Graf Road

San Antonio Co: Bexar TX 78223-

Property #: 61200120012

Status: Unutilized

Comment: 1210 sq. ft., most recent use—residential, off-site use only.

Tract 110-01

1234 S. Presa

San Antonio Co: Bexar TX 78210-

Property #: 61200120013

Status: Unutilized

Comment: 1100 sq. ft., most recent use—residential, off-site use only.

Utah

Building

Hovenweep Ranger Station

CR 212

Hovenweep Co: San Juan UT 84534-

Property #: 61200130004

Status: Excess

Comment: 659 sq. ft., poor condition, most recent use—visitor station, off-site use only.

Virginia

Building

Former Bowen Residence

Cavalry Court

Spotsylvania Co: VA 22553-

Property #: 61200010007

Status: Excess

Comment: 1512 sq. ft., residence, off-site use only.

Former Jones Residence

Plantation Drive

Spotsylvania Co: VA 22553-

Property #: 61200010008

Status: Excess

Comment: 1040 sq. ft., residence, off-site use only.

Former Busic House

Brock Rd.

Spotsylvania Co: VA 22553-

Property #: 61200010009

Status: Excess

Comment: 4128 sq. ft., residence, off-site use only.

Navy

California

Building

Bldg. 371

Naval Warfare Systems Center

San Diego Co: CA 92152-

Property #: 77200020080

Status: Unutilized

Comment: 29,800 sq. ft., needs rehab, presence of asbestos/lead paint, off-site use only.

Bldg. 402

Naval Warfare Systems Center

San Diego Co: CA 92152-

Property #: 77200020081

Status: Unutilized

Comment: presence of lead paint, most recent use—storage, off-site use only.

Bldg. 417

Naval Warfare Systems Center

San Diego Co: CA 92152-

Property #: 77200020083

Status: Unutilized

Comment: 110 TR, needs rehab, presence of asbestos/lead paint, off-site use only.

Bldg. 418

Naval Warfare Systems Center

San Diego Co: CA 92152-

Property #: 77200020082

Status: Unutilized

Comment: 288 sq. ft., presence of lead paint, most recent use—storage, off-site use only.

Bldg. 426

Naval Warfare Systems Center

San Diego Co: CA 92152-

Property #: 77200020084

Status: Unutilized

Comment: presence of asbestos/lead paint, off-site use only.

Bldg. 434

Naval Warfare Systems Center

San Diego Co: CA 92152-

Property #: 77200020085

Status: Unutilized

Comment: 11,440 sq. ft., needs rehab, presence of asbestos/lead paint, off-site use only.

Bldg. 210

Naval Warfare Assessment Station

Corona Co: CA 91718-5000

Property #: 77200020086

Status: Unutilized

Comment: 17,708 sq. ft., needs rehab, presence of asbestos/lead paint, most recent use—police station, off-site use only.

Bldg. 541

Naval Warfare Assessment Station

Corona Co: CA 91718-5000

Property #: 77200020087

Status: Unutilized

Comment: 3857 sq. ft., needs rehab, presence of asbestos/lead paint, most recent use—lab, off-site use only.

Bldg. 804

Naval Warfare Assessment Station

Corona Co: CA 91718-5000

Property #: 77200020088

Status: Unutilized

Comment: 3119 sq. ft., needs rehab, presence of asbestos/lead paint, most recent use—admin., off-site use only.

Bldg. 805

Naval Warfare Assessment Station

Corona Co: CA 91718-5000

Property #: 77200020089

Status: Unutilized

Comment: 3732 sq. ft., needs rehab, presence of asbestos/lead paint, most recent use—storage, off-site use only.

Bldg. 806

Naval Warfare Assessment Station

Corona Co: CA 91718-5000

Property #: 77200020090

Status: Unutilized

Comment: 3118 sq. ft., needs rehab, presence of asbestos/lead paint, most recent use—office, off-site use only.

Bldg. 807

Naval Warfare Assessment Station

Corona Co: CA 91718-5000

Property #: 77200020091

Status: Unutilized

Comment: 3110 sq. ft., needs rehab, presence of asbestos/lead paint, most recent use—office, off-site use only.

Bldgs. 23027, 23025

Marine Corps Air Station

Miramar Co: San Diego CA 92132-

Property #: 77200040023

Status: Unutilized

Comment: 400 sq. ft., metal siding, most recent use—loading facility, off-site use only

Bldg. 01290

Naval Air Weapons Station

China Lake Co: CA 93555-6100

Property #: 77200120090

Status: Excess

Comment: 460 sq. ft., most recent use—garage, off-site use only

Bldg. 02453

Naval Air Weapons Station

China Lake Co: CA 93555-6001

Property #: 77200120110

Status: Excess

Comment: 48 sq. ft., most recent use—storage locker, off-site use only

Bldg. 32027

Naval Air Weapons Station

China Lake Co: CA 93555-6001

Status: Excess

Property #: 77200120111

Comment: 331 sq. ft., off-site use only

Bldg. 32534

Naval Air Weapons Station

China Lake Co: CA 93555-6001

Property #: 77200120112

Status: Excess

Comment: 2252 sq. ft., most recent use—repair shop, off-site use only

Bldg. 32537

Naval Air Weapons Station

China Lake Co: CA 93444-6001

Property #: 77200120113

Status: Excess

Comment: most recent use—instrument bldg., off-site use only

Land

Portion of Land

Naval Base, Point Loma

Murphy Canyon

San Diego Co: CA 92124-

Property #: 77200140012

Status: Unutilized

Comment: 24,350 sq. ft. of parking lot, adjacent to environmentally sensitive area

Hawaii

Building

Bldg. S87, Radio Trans. Fac

Lualualei, Naval Station,

Eastern Pacific

Wahiawa Co: Honolulu HI 96786-3050

Property #: 77199240011

Status: Unutilized

Comment: 7566 sq. ft., 1-story, needs rehab, most recent use—storage, off-site use only

Bldg. 64, Radio Trans Facility

Naval Computer & Telecommunications Area

Wahiawa Co: Honolulu HI 96786-3050

Property #: 77199310004

Status: Unutilized

Comment: 3612 sq. ft., 1 story, access restrictions, need rehab, most recent use—storage, off-site use only

Bldg. 442, Naval Station

Ford Island

Pearl Harbor Co: Honolulu HI 96860-

Property #: 77199630088

Status: Excess

Comment: 192 sq. ft., most recent use—storage, off-site use only

Bldg. S180

Naval Station, Ford Island

Pearl Harbor Co: Honolulu HI 96860-

Property #: 77199640039

Status: Unutilized

Comment: 3412 sq. ft., 2-story, most recent use—bomb shelter, off-site use only, relocation may not be feasible

Bldg. S181

Naval Station, Ford Island

Pearl Harbor Co: Honolulu HI 96860-

Property #: 77199640040

Status: Unutilized

Comment: 4258 sq. ft., 1-story,most recent use—bomb shelter, off-site use only, relocation may not be feasible

Bldg. 219

Naval Station, Ford Island

Pearl Harbor Co: Honolulu HI 96860-

Property #: 77199640041

Status: Unutilized

Comment: 620 sq. ft., most recent use—damage control, off-site use only, relocation may not be feasible

Bldg. 220

Naval Station, Ford Island

Pearl Harbor Co: Honolulu HI 96860-

Property #: 77199640042

Status: Unutilized

Comment: 620 sq. ft., most recent use—damage control, off-site use only, relocation may not be feasible

Bldg. 160

Naval Station, Pearl Harbor

Pearl Harbor Co: Honolulu HI 96860-

Property #: 77199840002

Status: Excess

Comment: 6070 sq. ft., needs rehab, presence of lead paint, most recent use—storage/office, off-site use only

Maryland

Building

Bldg. 139

Naval Surface Warfare Center

Carderock Division

West Bethesda Co: Montgomery MD 20817-5700

Property #: 77200010032

Status: Unutilized

Comment: 4950 sq. ft., possible asbestos/lead paint, most recent use—wind tunnel, off-site use only

Bldg. 104

Naval Surface Warfare

Carderock Division

West Bethesda Co: Montgomery MD 20817-5700

Property #: 77200120079

Status: Unutilized

Comment: 8050 sq. ft., most recent use—garage, off-site use only

Bldg. 109

Naval Surface Warfare

West Bethesda Co: Montgomery MD 20817-5700

Property #: 77200120080

Status: Unutilized

Comment: 9650 sq. ft., needs rehab, possible asbestos/lead paint, most recent use—storage, off-site use only

Bldg. 110

Naval Surface Warfare

West Bethesda Co: Montgomery MD 20817-5700

Property #: 77200120081

Status: Unutilized

Comment: 10,750 sq. ft., needs rehab, presence of asbestos/lead paint, most recent use—storage, off-site use only

Bldg. 111

Naval Surface Warfare

West Bethesda Co: Montgomery MD 20817-5700

Property #: 77200120082

Status: Unutilized

Comment: 4220 sq. ft., most recent use—office, off-site use only

Bldg. 112

Naval Surface Warfare

West Bethesda Co: Montgomery MD 20817-5700

Property #: 77200120083

Status: Unutilized

Comment: 2440 sq. ft., most recent use—printing bldg., off-site use only

Bldg. 113

Naval Surface Warfare

West Bethesda Co: Montgomery MD 20817-5700

Property #: 77200120084

Status: Unutilized

Comment: 2440 sq. ft., most recent use—lab, off-site use only

Bldg. 143

Naval Surface Warfare

West Bethesda Co: Montgomery MD 20817-5700

Property #: 77200120085

Status: Unutilized

Comment: 16,950 sq. ft., needs rehab, presence of asbestos/lead paint, most recent use—storage, off-site use only

Bldg. 152

Naval Surface Warfare

West Bethesda Co: Montgomery MD 20817-5700

Property #: 77200120086

Status: Unutilized

Comment: 1400 sq. ft., most recent use—fire house annex, off-site use only

Bldg. 159

Naval Surface Warfare

West Bethesda Co: Montgomery MD 20817-5700

Property #: 77200120087

Status: Unutilized

Comment: 605 sq. ft., need rehab, presence of asbestos/lead paint, most recent use—hazardous waste storage, off-site use only

Bldg. 187

Naval Surface Warfare

West Bethesda Co: Montgomery MD 20817-5700

Property #: 77200120088

Status: Unutilized

Comment: 768 sq. ft., most recent use—pump house, off-site use only

Bldg. 117

Naval Surface Warfare Center

Carderock Division

West Bethesda Co: Montgomery MD 20817-5700

Property #: 77200120102

Status: Unutilized

Comment: 400 sq. ft., needs rehab, most recent use—storage, off-site use only

Bldg. 124

Naval Surface Warfare Center

Carderock Division

West Bethesda Co: Montgomery MD 20817-5700

Property #: 77200120103

Status: Unutilized

Comment: 480 sq. ft., needs rehab, most recent use—warehouse, off-site use only

Bldg. 130

Naval Surface Warfare Center

Carderock Division

West Bethesda Co: Montgomery MD 20817-5700

Property #: 77200120104

Status: Unutilized

Comment: 2225 sq. ft., needs rehab, presence of asbestos/lead paint, most recent use—storage/recycling, off-site use only

Bldg. 181

Naval Surface Warfare Center

Carderock Division

West Bethesda Co: Montgomery MD 20817-5700

Property #: 77200120105

Status: Unutilized

Comment: 491 sq. ft., needs rehab, presence of asbestos/lead paint, most recent use—equip. maint., off-site use only

Bldg. 196

Naval Surface Warfare Center

Carderock Division

West Bethesda Co: Montgomery MD 20817-5700

Property #: 77200120106

Status: Unutilized

Comment: 456 sq. ft., needs rehab, most recent use—destructor Bldg., off-site use only

New Hampshire

Building

Bldg. 239

Portsmouth Naval Shipyard

Portsmouth Co: NH 03804-5000

Property #: 77200030019

Status: Excess

Comment: 897 sq. ft., presence of asbestos/lead paint, off-site use only

Virginia

Building

Structure SP-129

Naval Station

Norfolk Co: VA 23511-

Property #: 77200110136

Status: Excess

Comment: 3564 sq. ft., presence of asbestos/lead, most recent use—office, off-site use only

Land

Land

Marine Corps Base

Quantico Co: VA 22134-

Property #: 77200040034

Status: Unutilized

Comment: 4900 sq. ft., open space

VA

Alabama

Land

VA Medical Center

VAMC

Property #: 97199010053

Tuskegee Co: Macon AL 36083-

Status: Underutilized

Comment: 40 acres, buffer to VA Medical Center, potential utilities, undeveloped.

California

Land

Land

4150 Clement Street

San Francisco Co: San Francisco CA 94121-

Property #: 97199240001

Status: Underutilized

Comment: 4 acres; landslide area.

Indiana

Building

Bldg. 105, VAMC

East 38th Street

Marion Co: Grant IN 46952-

Property #: 97199230006

Status: Excess

Comment: 310 sq. ft., 1 story stone structure, no sanitary or heating facilities, Natl Register of Historic Places

Bldg. 140, VAMC

East 38th Street

Marion Co: Grant IN 46952-

Property #: 97199230007

Status: Excess

Comment: 60 sq. ft., concrete block bldg., most recent use—trash house

Bldg. 7

VA Northern Indiana Health

Care System

Marion Campus, 1700 East

38th Street

Marion Co: Grant IN 46953-

Property #: 97199810001

Status: Underutilized

Comment: 16,864 sq. ft., presence of asbestos, most recent use—psychiatric ward, National Register of Historic Places

Bldg. 10

VA Northern Indiana Health

Care System

Marion Campus, 1700 East

38th Street

Marion Co: Grant IN 46953-

Property #: 97199810002

Status: Underutilized

Comment: 16,361 sq. ft., presence of asbestos, most recent use—psychiatric ward, National Register of Historic Places

Bldg. 11

VA Northern Indiana Health Care System

Marion Campus, 1700 East

38th Street

Marion Co: Grant IN 46953-

Property #: 97199810003

Status: Underutilized

Comment: 16,361 sq. ft., presence of asbestos, most recent use—psychiatric ward, National Register of Historic Places

Bldg. 18

VA Northern Indiana Health

Care System

Marion Campus, 1700 East

38th Street

Marion Co: Grant IN 46953-

Property #: 97199810004

Status: Underutilized

Comment: 13,802 sq. ft., presence of asbestos, most recent use—psychiatric ward, National Register of Historic Places

Bldg. 25

VA Northern Indiana Health

Care System

Marion Campus, 1700 East

38th Street

Marion Co: Grant IN 46953-

Property #: 97199810005

Status: Unutilized

Comment: 32,892 sq. ft., presence of asbestos, most recent use—psychiatric ward, National Register of Historic Places

Iowa

Land

40.66 acres

VA Medical Center

1525 West Pleasant St.

Knoxville Co: Marion IA 50138-

Property #: 97199740002

Status: Unutilized

Comment: golf course, easement requirements

Maryland

Land

VA Medical Center

9500 North Point Road

Fort Howard Co: Baltimore MD 21052

Property #: 97199010020

Status: Underutilized

Comment: Approx. 10 acres, wetland and periodically floods, most recent use—dump site for leaves.

Pennsylvania

Building

Bldg. 3, VAMC

1700 South Lincoln Avenue

Lebanon Co: Lebanon PA 17042-

Property #: 97199230012

Status: Underutilized

Comment: portion of bldg. (4046 sq. ft.), most recent use—storage, second floor—lacks elevator access

Texas

Land

Land

Olin E. Teague Veterans

Center

1901 South 1st Street

Temple Co: Bell TX 76504-

Property #: 97199010079

Status: Underutilized

Comment: 13 acres, portion formerly landfill, portion near flammable materials, railroad crosses property, potential utilities.

Wisconsin

Building

Bldg. 8

VA Medical Center

County Highway E

Tomah Co: Monroe WI 54660-

Property #: 97199010056

Status: Underutilized

Comment: 2200 sq. ft., 2 story wood frame, possible asbestos, potential utilities, structural deficiencies, needs rehab.

Land

VA Medical Center

County Highway E

Tomah Co: Monroe WI 54660-

Property #: 97199010054

Status: Underutilized

Comment: 12.4 acres, serves as buffer between center and private property, no utilities.

Total Suitable and Available for Year 2001 = 1,105

TITLE V PROPERTIES REPORTED IN YEAR 2001 WHICH ARE SUITABLE AND UNAVAILABLE

Air Force

Idaho

Building

Bldg. 224

Mountain Home Air Force

Co: Elmore ID 83648-

Property #: 18199840008

Status: Unutilized

Reason: Extension of runway

Iowa

Building

Bldg. 00669

Sioux Gateway Airport

Sioux City Co: Woodbury IA 51110-

Property #: 18199310002

Status: Unutilized

Reason: Will be transferred to Sioux City

Army

Georgia

Building

Bldg. 4090

Fort Benning

Ft. Benning Co: Muscogee GA 31905-

Property #: 21199630007

Status: Underutilized

Reason: Plan to utilize as a museum

Bldg. 2410

Fort Gordon

Ft. Gordon Co: Richmond GA 30905-

Property #: 21200140076

Status: Unutilized

Reason: Change in mission requirement

Kansas

Building

Bldg. P-295

Leavenworth Co: Leavenworth KS 66027-

Property #: 21199810296

Status: Underutilized

Reason: reutilized

Louisiana

Building

Bldg. 8405, Fort Polk

Ft. Polk Co: Vernon Parish LA 71459-

Property #: 21199640524

Status: Underutilized

Reason: occupied

Bldg. 8414, Fort Polk

Ft. Polk Co: Vernon Parish LA 71459-

Property #: 21199640527

Status: Underutilized

Reason: occupied

Bldg. 8424, Fort Polk

Ft. Polk Co: Vernon Parish LA 71459-

Property #: 21199640529

Status: Underutilized

Reason: occupied

Bldg. 8426, Fort Polk

Ft. Polk Co: Vernon Parish LA 71459-

Property #: 21199640530

Status: Underutilized

Reason: occupied

Bldg. 8427, Fort Polk

Ft. Polk Co: Vernon Parish LA 71459-

Property #: 21199640531

Status: Underutilized

Reason: occupied

Bldg. 8428, Fort Polk

Ft. Polk Co: Vernon Parish LA 71459-

Property #: 21199640532

Status: Underutilized

Reason: occupied

Bldg. 8429, Fort Polk

Ft. Polk Co: Vernon Parish LA 71459-

Property #: 21199640533

Status: Underutilized

Reason: occupied

Bldg. 8430, Fort Polk

Ft. Polk Co: Vernon Parish LA 71459-

Property #: 21199640534

Status: Underutilized

Reason: occupied

Bldg. 8431, Fort Polk

Ft. Polk Co: Vernon Parish LA 71459-

Property #: 21199640535

Status: Underutilized

Reason: occupied

Bldg. 8432, Fort Polk

Ft. Polk Co: Vernon Parish LA 71459-

Property #: 21199640536

Status: Underutilized

Reason: occupied

Bldg. 8433, Fort Polk

Ft. Polk Co: Vernon Parish LA 71459-

Property #: 21199640537

Status: Underutilized

Reason: occupied

Bldg. 8458, Fort Polk

Ft. Polk Co: Vernon Parish LA 71459-

Property #: 21199640542

Status: Underutilized

Reason: occupied

Bldg. 8459, Fort Polk

Ft. Polk Co: Vernon Parish LA 71459-

Property #: 21199640543

Status: Underutilized

Reason: occupied

Bldg. 8460, Fort Polk

Ft. Polk Co: Vernon Parish LA 71459-

Property #: 21199640544

Status: Underutilized

Reason: occupied

Bldg. 8461, Fort Polk

Ft. Polk Co: Vernon Parish LA 71459-

Property #: 21199640545

Status: Underutilized

Reason: occupied

Bldg. 8462, Fort Polk

Ft. Polk Co: Vernon Parish LA 71459-

Property #: 21199640546

Status: Underutilized

Reason: occupied

Bldg. 8463, Fort Polk

Ft. Polk Co: Vernon Parish LA 71459-

Property #: 21199640547

Status: Underutilized

Reason: occupied

Bldg. 8501, Fort Polk

Ft. Polk Co: Vernon Parish LA 71459-

Property #: 21199640548

Status: Underutilized

Reason: occupied

Bldg. 8502, Fort Polk

Ft. Polk Co: Vernon Parish LA 71459-

Property #: 21199640549

Status: Underutilized

Reason: occupied

Bldg. 8541, Fort Polk

Ft. Polk Co: Vernon Parish LA 71459-

Property #: 21199640551

Status: Underutilized

Reason: occupied

Bldg. 8542, Fort Polk

Ft. Polk Co: Vernon Parish LA 71459-

Property #: 21199640552

Status: Underutilized

Reason: occupied

Bldg. 8543, Fort Polk

Ft. Polk Co: Vernon Parish LA 71459-

Property #: 21199640553

Status: Underutilized

Reason: occupied

Bldg. 8545, Fort Polk

Ft. Polk Co: Vernon Parish LA 71459-

Property #: 21199640555

Status: Underutilized

Reason: occupied

Bldg. 8546, Fort Polk

Ft. Polk Co: Vernon Parish LA 71459-

Property #: 21199640556

Status: Underutilized

Reason: occupied

Bldg. 8547, Fort Polk

Ft. Polk Co: Vernon Parish LA 71459-

Property #: 21199640547

Status: Underutilized

Reason: occupied

Bldg. 8548, Fort Polk

Ft. Polk Co: Vernon Parish LA 71459-

Property #: 21199640558

Status: Underutilized

Reason: occupied

Bldg. 8549, Fort Polk

Ft. Polk Co: Vernon Parish LA 71459-

Property #: 21199640559

Status: Underutilized

Reason: occupied

Missouri

Building

Bldg. 2172, Fort Polk

Fort Leonard Wood

Property #: 21200040059

Ft. Leonard Wood Co: Pulaski MO 65473-8994

Status: Underutilized

Reason: reutilized

North Carolina

Land

.92 Acre—Land

Military Ocean Terminal,

Sunny Point

Southport Co: Brunswick NC 28461-5000

Property #: 21199610728

Status: Underutilized

Reason: contains well owned by Town; within an explosive buffer z

10 Acre—Land

Military Ocean Terminal,

Sunny Point

Southport Co: Brunswick NC 28461-5000

Property #: 21199610729

Status: Underutilized

Reason: within an explosives buffer zone

257 Acre—Land

Military Ocean Terminal,

Sunny Point

Southport Co: Brunswick NC 28461-5000

Property #: 21199610730

Status: Underutilized

Reason: within an explosives buffer zone

28.83 acres—Tract of Land

Military Ocean Terminal,

Sunny Point

Southport Co: Brunswick NC 28461-5000

Property #: 21199620685

Status: Underutilized

Reason: Explosive Buffer Zone

Texas

Building

Bldg. P-2000, Fort Sam Houston

San Antonio Co: Bexar TX 78234-5000

Property #: 21199220389

Status: Underutilized

Reason: Area programmed for future use.

Bldg. P-2001, Fort Sam Houston

San Antonio Co: Bexar TX 78234-5000

Property #: 21199220390

Status: Underutilized

Reason: Area programmed for future use.

Coe

California

Building

Santa Fe Flood Control Basin

Irwindale Co: Los Angeles CA 91706-

Property #: 31199011298

Status: Unutilized

Reason: Needed for contract personnel

Illinois

Building

Bldg. 7

Ohio River Locks & Dam No. 53

Grand Chain Co: Pulaski IL 62941-9801

Property #: 31199010001

Status: Unutilized

Reason: Project integrity and security; safety liability

Bldg. 6

Ohio River Locks & Dam No. 53

Grand Chain Co: Pulaski IL 62941-9801

Property #: 31199010002

Status: Unutilized

Reason: Project integrity and security; safety liability

Bldg. 5

Ohio River Locks & Dam No. 53

Grand Chain Co: Pulaski IL 62941-9801

Property #: 31199010003

Status: Unutilized

Reason: Project integrity and security; safety liability

Bldg. 4

Ohio River Locks & Dam No. 53

Grand Chain Co: Pulaski IL 62941-9801

Property #: 31199010004

Status: Unutilized

Reason: Project integrity and security; safety liability

Bldg. 3

Ohio River Locks & Dam No. 53

Grand Chain Co: Pulaski IL 62941-9801

Property #: 31199010005

Status: Unutilized

Reason: Project integrity and security; safety liability

Bldg. 2

Ohio River Locks & Dam No. 53

Grand Chain Co: Pulaski IL 62941-9801

Property #: 31199010006

Status: Unutilized

Reason: Project integrity and security; safety liability

Bldg. 1

Ohio River Locks & Dam No. 53

Grand Chain Co: Pulaski IL 62941-9801

Property #: 31199010007

Status: Unutilized

Reason: Project integrity and security; safety liability

Land

Lake Shelbyville

Shelbyville Co: Shelby & Moultrie IL 62565-9804

Property #: 31199240004

Status: Unutilized

Reason: Disposal action initiated

Ohio

Building

Bldg.—Berlin Lake

7400 Bedell Road

Berlin Center Co: Mahoning OH 44401-9797

Property #: 31199640001

Status: Unutilized

Reasons: Utilized as construction office

Pennsylvania

Building

Tract 353

Grays Landing Lock & Dam Project

Greensboro Co: Greene PA 15338-

Property #: 31199430019

Status: Unutilized

Reason: To be transferred to Borough

Tract 403A

Grays Landing Lock & Dam Project

Greensboro Co: Greene PA 15338-

Property #: 31199430021

Status: Unutilized

Reason: To be transferred to Borough

Tract 403B

Grays Landing Lock & Dam Project

Greensboro Co: Greene PA 15338-

Property #: 31199430022

Status: Unutilized

Reason: To be transferred to Borough

Tract 403C

Grays Landing Lock & Dam Project

Greensboro Co: Greene PA 15338-

Property #: 31199430023

Status: Unutilized

Reason: To be transferred to Borough

Tract 434

Grays Landing Lock & Dam Project

Greensboro Co: Greene PA 15338-

Property #: 31199430024

Status: Unutilized

Reason: To be transferred to Borough

Tract 224

Grays Landing Lock & Dam Project

Greensboro Co: Greene PA 15338-

Property #: 31199430021

Status: Unutilized

Reason: Disposal action initiated

Land

East Branch Clarion River Lake

Wilcox Co: Elk PA

Property #: 31199011012

Status: Underutilized

Reason: Location near damsite

Dashields Locks and Dam

(Glenwillard, PA)

Crescent Twp. Co: Allegheny PA 15046-0475

Property #: 31199210009

Status: Unutilized

Reason: Leased to Township

Wisconsin

Building

Former Lockmaster's Dwelling

DePere Lock

100 James Street

De Pere Co: Brown WI 54115-

Property #: 31199011526

Status: Unutilized

Reason: In negotiation for transfer to the State

Energy

Idaho

Building

Bldg. CFA-613

Central Facilities Area

Idaho National Engineering Lab

Scoville Co: Butte ID 83415-

Property #: 41199630001

Status: Unutilized

Reason: Historical issues

GSA

Florida

Building

Lexington Terrace Housing

Portion of NAS Pensacola

Old Corry Field Rd.

Pensacola Co: Escambia FL 32508-

Property #: 54200130009

Status: Surplus

GSA Number: 4-N-FL-0735

Reason: Written expression of interest

Land

Lakeland Federal Property

N. Florida Ave. & Five Oaks St.

Lakeland Co: Polk FL 33806-

Property #: 54200140001

Status: Surplus

GSA Number: 4-G-FL-1092

Reason: written expression of interest

Georgia

Building

U.S. Post Office/Courthouse

337 W. Broad St.

Albany Co: Dougherty GA 31702-

Property #: 54200120002

Status: Excess

GSA Number: 4-G-GA-866A

Reason: Federal interest

Illinois

Building

Radar Communication Link

½ mi east of 116th St.

Co: Will IL

Property #: 54199820013

Status: Excess

GSA Number: 2-U-IL-696

Reason: negotiated sale

Maryland

Building

De LaSalle Bldg.

4900 LaSalle Road

Avondale Co: Prince George MD 20782-

Property #: 54200020007

Status: Excess

GSA Number: 4-G-MD-565A

Reason: written expression of interest

La Plata Housing

Radio Station Rd.

La Plata Co: Charles MD

Property #: 54200110006

Status: Excess

GSA Number: 4-N-MD-601

Reason: homeless interest

29 Bldgs.

Walter Reed Army Medical Center

Forest Glen Annex, Linden Lane

Silver Spring Co: Montgomery MD 20910-1246

Property #: 54200130012

Status: Excess

GSA Number: 4-D-MD-558-B

Reason: written expression of interest

Michigan

Building

Natl Weather Svc Ofc

214 West 14th Ave.

Sault Ste. Marie Co: Chippewa MI

Property #: 54200120010

Status: Excess

GSA Number: 1-C-MI-802

Reason: Federal need

Minnesota

Building

MG Clement Trott Mem. USARC

Walker Co: Cass MN 56484-

Property #: 54199930003

Status: Excess

GSA Number: 1-D-MN-575

Reason: Federal interest

Mississippi

Land

Proposed Site

Army Reserve Center

Waynesboro Co: Wayne MS 39367-

Property #: 54200010005

Status: Excess

GSA Number: 4-D-MS-0555

Reason: written expression of interest received from Co.

Missouri

Building

Hardesty Federal Complex

607 Hardesty Avenue

Kansas City Co: Jackson MO 64124-3032

Property #: 54199940001

Status: Excess

GSA Number: 7-G-MO-637

Reason: continuation

North Carolina

Building

Tarheel Army Missile Plant

Burlington Co: Alamance NC 27215-

Property #: 54199820002

Status: Excess

GSA Number: 4-D-NC-593

Reason: Advertised

Vehicle Maint. Facility

310 New Bern Ave.

Raleigh Co: Wake NC 27601-

Property #: 54200020012

Status: Excess

GSA Number: NC076AB

Reason: Federal need

Puerto Rico

Land

La Hueca—Naval Station

Roosevelt Roads

Vieques PR 00765-

Property # : 54199420006

Status: Excess

Reason: Federal interest

Tennessee

Building

3 Facilities, Guard Posts

Volunteer Army Ammunition Plant

Chattanooga Co: Hamilton TN 37421-

Property # : 54199930011

Status: Surplus

GSA Number : 4-D-TN-594F

Reason: negotiated sale

4 Bldgs.

Volunteer Army Ammunition Plant

Railroad System Facilities

Chattanooga Co: Hamilton TN 37421-

Property # : 54199930012

Status: Surplus

GSA Number : 4-D-TN-594F

Reason: negotiated sale

200 bunkers

Volunteer Army Ammunition Plant

Storage magazines

Chattanooga Co: Hamilton TN 37421-

Property # : 54199930014

Status: Surplus

GSA Number : 4-D-TN-594F

Reason: negotiated sale

Bldg. 232

Volunteer Army Ammunition Plant

Chattanooga Co: Hamilton TN 37421-

Property # : 54199930020

Status: Surplus

GSA Number : 4-D-TN-594F

Reason: negotiated sale

2 Laboratories

Volunteer Army Ammunition Plant

Chattanooga Co: Hamilton TN 37421-

Property # : 54199930021

Status: Surplus

GSA Number : 4-D-TN-594F

Reason: negotiated sale

3 Facilities

Volunteer Army Ammunition Plant

Water Distribution Facilities

Chattanooga Co: Hamilton TN 37421-

Property # : 54199930022

Status: Surplus

GSA Number : 4-D-TN-594F

Reason: negotiated sale

Naval Hospital

5720 Integrity Drive

Millington Co: Shelby TN 38054-

Property # : 54200020005

Status: Excess

GSA Number : 4-N-TN-648

Reason: written expression of interest received from DOE

Marine Corps Rsv Center

2109 W. Market St.

Johnson City Co: Washington TN 37604-

Property # : 54200120003

Status: Surplus

GSA Number : 4-N-TN-0651

Reason: Education interest

Land

1500 acres

Volunteer Army Ammunition Plant

Chattanooga Co: Hamilton TN 37421-

Property # : 54199930015

Status: Surplus

GSA Number : 4-D-TN-594F

Reason: negotiated sale

Wisconsin

Building

Wausau Federal Building

317 First Street

Wausau Co: Marathon WI 54401-

Property # : 54199820016

Status: Excess

GSA Number : 1-G-WI-593

Reason: advertised

Army Reserve Center

401 Fifth Street

Kewaunee Co: WI 54216-1838

Property # : 54199940004

Status: Excess

GSA Number : 1-D-WI-547

Reason: public benefit interest

Navy

Virginia

Building

Naval Medical Clinic

6500 Hampton Blvd.

Norfolk Co: Norfolk VA 23508-

Property # : 77199010109

Status: Unutilized

Reason: Planned for expansion space.

Land

Naval Base

Norfolk Co: Norfolk VA 23508-

Property #: 77199010156

Status: underutilized

Reason: Identified for use in developing admin. office space.

2.6 acres

Naval Station

Norfolk Co: VA 23508-1273

Property #: 77200120131

Status: unutilized

Reason: pending construction.

1.15 acres

Naval Amphibious Base Little Creek

Norfolk Co: VA 23508-

Property #: 77200120132

Status: unutilized

Reason: pending construction.

VA

Iowa

Land

38 acres

VA Medical Center

1515 West Pleasant St.

Knoxville Co: Marion IA 50138-

Property #: 97199740001

Status: unutilized

Reason: Enhanced-Use Legislation potential.

Michigan

Land

VA Medical Center

Battle Creek Co: Calhoun MI 49016-

Property #: 97199010015

Status: underutilized

Reason: Being used for patient and program activities.

Montana

Building

VA MT Healthcare

Miles City Co: Custer MT 59301-

Property #: 97200030001

Status: Underutilized

Reason: transfer to Custer County.

New York

Land

VA Medical Center

Fort Hill Avenue

Canandaigua Co: Ontario NY 14424-

Property #: 97199010017

Status: underutilized

Reason: Portion leased; portion landlocked.

Pennsylvania

Land

VA Medical Center

New Castle Road

Butler Co: Butler PA 16601-

Property #: 97199010016

Status: underutilized

Reason: Used as natural drainage for facility property.

Land No. 645

VA. Medical Center

Highland Drive

Pittsburgh Co: Allegheny PA 15206-

Property #: 97199010080

Status: unutilized

Reason: Property is essential to security and safety of patients.

Land-34.16 acres

VA Medical Center

1400 Black Horse Hill Road

Coatesville Co: Chester PA 19320-

Property #: 97199340001

Status: underutilized

Reason: needed for mission related functions.

Wisconsin

Building

Bldg. 2

VA Medical Center

5000 West National Ave.

Milwaukee WI 53295-

Property #: 97199830002

Status: underutilized

Reason: Subject of leasing negotiations.

Total Suitable and Unavailable for Year 2001 = 358

[FR Doc. 02-3602 Filed 2-15-02; 8:45 am]

BILLING CODE 4210-29-M